DEPARTMENT OF THE INTERIOR

Fish and Wildlife Service

50 CFR Part 17

[Docket No. FWS-HQ-ES-2015-0008; 4500030113]

RIN 1018-BA81

Endangered and Threatened Wildlife and Plants; Removing Textual Descriptions of Critical Habitat Boundaries for Mammals, Birds, Amphibians, Fishes, Clams, Snails, Arachnids, Crustaceans, and Insects

AGENCY: Fish and Wildlife Service, Interior.

ACTION: Final rule; technical amendment.

SUMMARY: We, the U.S. Fish and Wildlife Service (Service), are removing the textual descriptions of critical habitat boundaries from those designations for mammals, birds, amphibians, fishes, clams, snails, arachnids, crustaceans, and insects for which the maps have been determined to be sufficient to stand as the official delineation of critical habitat. For these entries, the boundaries of critical habitat as mapped or otherwise described will be the official delineation of the designation. The coordinates and/or plot points that we are removing from the Code of Federal Regulations will be available to the public at the lead field office of the Service responsible for the designation and online at the Federal eRulemaking Portal. This action does not increase, decrease, or otherwise change the boundaries of any critical habitat designation. We are taking this action in accordance with our May 1, 2012, revision of the regulations related to publishing textual descriptions of critical habitat boundaries in the Code of Federal Regulations and as part of our response to Executive Order 13563 (January 18, 2011) directing Federal agencies to review their existing regulations and then to modify or streamline them in accordance with what they learned.

DATES: This rule is effective May 29, 2018.

ADDRESSES: This final rule is available online at the Federal eRulemaking Portal at http://www.regulations.gov. Supporting documentation used in the preparation of this rule will be available for public inspection, by appointment, during normal business hours at: U.S. Fish and Wildlife Service, Branch of Listing Policy and Support, MS: ES, 5275 Leesburg Pike, Falls Church, VA 22041-3803; telephone 703-358-2171.

FOR FURTHER INFORMATION CONTACT: Carey Galst, U.S. Fish and Wildlife Service, MS: ES, 5275 Leesburg Pike, Falls Church, VA 22041-3803; telephone 703-358-1954. If you use a telecommunications device for the deaf (TDD), call the Federal Relay Service at 800-877-8339.

SUPPLEMENTARY INFORMATION:

Executive Summary

Why we need to publish a rule amendment. We have reviewed our critical habitat designations published in the Code of Federal Regulations for mammals, birds, amphibians, fishes, clams, snails, arachnids, crustaceans, and insects. Based on that review, we have found that we can provide more cost-efficient, helpful, and streamlined critical habitat designations by removing the often-lengthy textual descriptions of critical habitat boundaries from those designations for which the maps have been determined to be sufficient to stand as the official delineation of critical habitat. This rule does not increase, decrease, or in any other way alter the critical habitat designations from which we are removing the textual descriptions of boundaries. A change to the Code of Federal Regulations can only be completed by issuing a final rule.

The basis for our action. Executive Order 13563 directs Federal agencies to review their existing regulations and then to modify or streamline them in accordance with what they learned. This action results from our review of our critical habitat regulations. This change will save taxpayer resources and make the critical habitat designations published in the Code of Federal Regulations more user-friendly.

Background

On May 1, 2012, we published a final rule (77 FR 25611) revising our regulations related to publishing textual descriptions of proposed and final critical habitat boundaries in the Federal Register for codification in the Code of Federal Regulations (CFR). In the interest of making the process of designating critical habitat more user-friendly for affected parties and the public as a whole, as well as more efficient and cost effective, we maintained the publication of maps of proposed and final critical habitat designations but made optional the inclusion of any textual description of the boundaries of the designation in the Federal Register for codification in the CFR. The boundaries of critical habitat as mapped or otherwise described in the Regulation Promulgation section of a rulemaking that is published in the Federal Register is the official delineation of the critical habitat designation. This approach began with critical habitat designations published after the effective date of the final rule (May 31, 2012).

Specifically, for critical habitat rules published after May 31, 2012, the map(s), as clarified or refined by any textual language within the rule, constitutes the definition of the boundaries of a critical habitat. Each critical habitat area is shown on a map, with more-detailed information discussed in the preamble or the rulemaking documents published in the Federal Register. The map published in the CFR is generated from the coordinates and/or plot points corresponding to the location of the boundaries. These coordinates and/or plot points are included in the administrative record for the designation and are available to the public either online or at the Service field office responsible for the designation or both. In addition, if the Service concludes that additional tools or supporting information are appropriate and would help the public understand the official boundary map, we make the additional tools and supporting information available on our internet site and at the Service field office responsible for the critical habitat designation.

The preamble to the May 1, 2012, final rule (77 FR 25611) explained how the Service would handle boundaries for critical habitat that had already been designated before May 31, 2012; the rule states that “for existing critical habitat designations, we also intend to remove the textual descriptions of final critical habitat boundaries set forth in the CFR in order to save the annual reprinting cost, but we must do so in separate rulemakings to ensure that removing the textual descriptions does not change the existing boundaries of those designations” (77 FR 25618). We have now begun applying this approach to critical habitat designations promulgated prior to May 31, 2012. This rule is the second in a series of rules based on our evaluation of the map(s) in each critical habitat designation at 50 CFR 17.95, 17.96, and 17.99 to determine whether or not the map(s) will be sufficient to inform the public of the boundaries of the designations and can therefore stand as the official delineation of the designation.

On October 27, 2017, we published a final rule (82 FR 49751) removing textual descriptions of critical habitat boundaries from those designations for plants on the Hawaiian Islands of Kauai, Niihau, and Hawaii at 50 CFR 17.99. That final rule established that the map, as clarified or refined by any textual language within the rule, constitutes the definition of the boundaries of the critical habitat for the applicable designation. It did not alter the locations of any boundaries. This is the second rule in a series of rules to remove the textual descriptions of critical habitat boundaries from those designations for which the maps have been determined to be sufficient to stand as the official delineation of critical habitat.

This Rule

For 50 CFR 17.95(a), (b), (d), (e), (f), (g), (h), and (i), the critical habitat designations for mammals, birds, amphibians, fishes, clams and snails, arachnids, crustaceans, and insects, respectively, we evaluated the map(s) in each entry to determine whether or not it can stand as the official delineation of the designation. We looked for a combination of certain map elements, including, but not limited to, the name of the species (or of the grouping of species), the unit number and/or name, the names of counties and/or States shown, a clear map key, and an appropriate map scale, to determine whether or not a map is sufficient to serve as the official delineation of the designation.

In this rule, we are removing the textual descriptions of critical habitat boundaries from those entries at 50 CFR 17.95(a), (b), (d), (e), (f), (g), (h), and (i) that have maps sufficient to stand as the official delineation of the designation. In those entries, we are removing the word “Note:” (or “NOTE:” or “Note:”) if it precedes a map that will now stand as the official delineation of the critical habitat designation. For critical habitat designations at 50 CFR 17.95(a), (b), (d), (e), (f), (g), (h), and (i) with maps that do not meet our sufficiency criteria, we are adding a statement (“The map provided is for informational purposes only.”) to clarify that the textual descriptions, not the maps, in those entries are the official delineation of critical habitat.

For certain designations, we are retaining the textual descriptions of the boundaries of either the entire designated critical habitat unit or of the areas excluded from the critical habitat designation to clarify or refine the provided map, in accordance with 50 CFR 17.94. We determined that for some designations providing textual descriptions of the boundaries enhanced the clarity of the designation, so we have opted to retain those textual descriptions. In addition, we found that in some instances retaining the textual description of an excluded area is necessary because the relevant map(s) does not adequately show the excluded area(s), which can be very small within a much larger critical habitat unit. Retaining those textual descriptions ensures that the public has accurate and complete information regarding critical habitat units and areas excluded from critical habitat designation.

Also, for certain designations with unit maps that display multiple units on one map, if a unit or subunit description does not state where the unit map is provided in the regulations, we are adding that information with this rule. This nonsubstantive change will allow users to locate unit maps more easily in our critical habitat regulations.

We are also making the following corrections to our regulations in this rule:

(1) We are correcting the map provided in the CFR for the critical habitat designation at 50 CFR 17.95(e) for yellowfin madtom (Noturus flavipinnis). The map in that entry was for the critical habitat designation for the slender chub (Erimystax =(Hybopsis) cahni) rather than the correct one published on September 9, 1977, at 42 FR 45526, and republished on September 22, 1977, at 42 FR 47840, for the yellowfin madtom. The map in the critical habitat designation for yellowfin madtom is provided for informational purposes only; because the map is not sufficient to inform the public of the boundaries, the map does not stand as the official delineation of critical habitat for that species.

(2) We are correcting the spelling of the scientific name in the heading of the critical habitat designation for the Leon Springs pupfish at 50 CFR 17.95(e).

(3) We are correcting an erroneous reference to the San Bernardino springsnail (Pyrgulopsis bernardina) in paragraph (2) of the entry for Three Forks springsnail (Pyrgulopsis trivialis) at 50 CFR 17.95(f).

(4) We are correcting an erroneous reference to multiple “maps” in the entry for the Salt Creek tiger beetle (Cicindela nevadica lincolniana). Only one map is provided in that entry.

This rule does not increase, decrease, or in any other way alter the critical habitat designations from which we are removing the textual descriptions of boundaries. This administrative action will save taxpayer resources. The Service spent approximately $163,000 to reprint the critical habitat designations at 50 CFR 17.95 for the most-recent print edition of the CFR. Based on a review of the print edition of the CFR, we estimate that this rule will remove approximately 411 pages of the relevant CFR volumes, amounting to a savings of approximately $34,935 per year in printing costs for the Service. Over many years, eliminating the need to reprint Universal Transverse Mercator (UTM) coordinate pairs and other textual descriptions at 50 CFR 17.95 will result in a considerable cumulative cost savings for the Service and the public as a whole.

We will publish a series of rules, of which this is the second, to remove the textual descriptions from all of the critical habitat designations at 50 CFR 17.95, 17.96, and 17.99 that have map(s) sufficient to stand as the official delineation of the designation.

The detailed UTM coordinates or other textual descriptions we are removing in this rule will continue to be available online at the Federal eRulemaking Portal (see ADDRESSES) and at the lead Service field office responsible for the designation to assist the public in understanding the official boundary.

We note that the Service never maintained that requiring detailed textual descriptions was legally necessary. Instead, the first critical habitat regulations required only that critical habitat designations be “accompanied by maps and/or geographical descriptions” (43 FR 870, 876; January 4, 1978). Although the Service subsequently added the requirement that critical habitat designations include textual descriptions describing the specific boundary limits of the critical habitat, there is nothing in the preamble to that rule indicating that the Service did so because the Act required it. Rather, it was in response to several commenters, who had opined that the proposed rule was not sufficiently clear in setting out the method by which critical habitat boundaries would be described (45 FR 13009, 13015; February 27, 1980).

Removing these unnecessary textual descriptions will significantly reduce the length of some critical habitat designations, making each designation easier to locate in the CFR; will not weaken the effectiveness of the Act; and will not undermine the public's ability to identify the boundaries of critical habitat designations.

The information printed in the CFR is the legally binding delineation of critical habitat. If there is ambiguity due to the scale of the map such that additional regulatory text is needed to ensure that the public has adequate notice of the boundaries, we provide additional regulation text. The only change to the CFR that we are making with this action is removing the detailed textual description of the boundaries of the specific areas designated as critical habitat (e.g., latitude-longitude and UTM coordinates). We still generate those data, and make them available at http://www.regulations.gov and at the lead field office of the Service responsible for the critical habitat designation. Neither the critical habitat designation nor the underlying data on which it is based can be changed without undergoing a further rulemaking.

As stated earlier, the actions we are taking in this rule do not increase, decrease, or otherwise alter the critical habitat boundaries or areas. For 50 CFR 17.95(a), (b), (d), (e), (f), (g), (h), and (i), we are merely removing the reference points (e.g., UTM or latitude-longitude coordinates) of the textual descriptions from existing final critical habitat designations, and we are doing so only where we have determined that the existing maps are sufficient to inform the public of the boundaries of the designations and can therefore stand as the official delineation of critical habitat. However, we will continue to provide the reference points of the textual descriptions at http://www.regulations.gov and at the lead field office of the Service responsible for the critical habitat designation.

The actions we are taking in this rule require us to also revise 50 CFR 17.94(b), to set forth an explanation of which critical habitat designations have maps that stand as the official delineation of critical habitat and which do not.

We are publishing this final rule without a prior proposal because we find that there is good cause for doing so pursuant to 5 U.S.C. 553(b)(3)(B). The “good cause” exception applies when an agency finds “that notice and public procedure thereon are impracticable, unnecessary, or contrary to the public interest.” Publication of a proposed rule for this action is unnecessary because this is an administrative action that does not increase, decrease, or otherwise change critical habitat boundaries or areas. Therefore, this action will not affect any legal rights. Rather, it will merely reduce the publication length of some rules designating critical habitat, which will save taxpayer resources and make each designation easier to locate in the CFR. We find that it is in the best interest of the public to promulgate these administrative and technical changes to 50 CFR 17.95 and without undergoing procedures that are unnecessary.

Required Determinations

Regulatory Planning and Review—Executive Orders 12866 and 13563

Executive Order 12866 provides that the Office of Information and Regulatory Affairs (OIRA) will review all significant rules. OIRA has determined that this rule is not significant.

Executive Order 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Executive Order 13771

This rule is not an E.O. 13771 (“Reducing Regulation and Controlling Regulatory Costs”) (82 FR 9339, February 3, 2017) regulatory action because this rule is not significant under E.O. 12866.

Regulatory Flexibility Act (5 U.S.C. 601 et seq.)

Under the Regulatory Flexibility Act (RFA), as amended by the Small Business Regulatory Enforcement Fairness Act of 1996 (SBREFA), 5 U.S.C. 601 et seq., whenever an agency is required to publish a notice of rulemaking for any proposed or final rule, it must prepare and make available for public comment a regulatory flexibility analysis that describes the effects of the rule on small entities (i.e., small businesses, small organizations, and small government jurisdictions). However, no regulatory flexibility analysis is required if the head of the agency certifies the rule will not have a significant economic impact on a substantial number of small entities. The SBREFA amended the RFA to require Federal agencies to provide a statement of the factual basis for certifying that the rule will not have a significant economic impact on a substantial number of small entities.

According to the Small Business Administration, small entities include small organizations such as independent nonprofit organizations; small governmental jurisdictions, including school boards and city and town governments that serve fewer than 50,000 residents; and small businesses (13 CFR 121.201). Small businesses include such businesses as manufacturing and mining concerns with fewer than 500 employees, wholesale trade entities with fewer than 100 employees, and retail and service businesses with less than $5 million in annual sales. In general, the term “significant economic impact” is meant to apply to a typical small business firm's business operations.

This rule will not have a significant economic impact on a substantial number of small entities as defined under the RFA. This rule is an administrative action to remove the textual descriptions from critical habitat designations at 50 CFR 17.95(a), (b), (d), (e), (f), (g), (h), and (i) that have maps sufficient to stand as the official delineation of critical habitat. This action does not increase, decrease, or in any other way alter the areas or boundaries of the critical habitat designations from which we are removing the textual descriptions of boundaries.

This action will save taxpayer resources. The Service spent approximately $163,000 to reprint the critical habitat designations at 50 CFR 17.95 for the most-recent print edition of the CFR. Based on a review of the print edition of the CFR, we estimate that this rule will remove approximately 411 pages of the relevant CFR volumes, amounting to a savings of approximately $34,935 per year in printing costs for the Service. While over many years, eliminating the need to reprint Universal Transverse Mercator (UTM) coordinate pairs and other textual descriptions at 50 CFR 17.95 will result in a considerable cumulative cost savings to the Service and the public as a whole, this rule will result in only a small annual savings to the Service and the public.

Therefore, for the reasons above, we certify that this rule will not have a significant economic impact on a substantial number of small entities.

Unfunded Mandates Reform Act(2 U.S.C. 1501 et seq.)

In accordance with the Unfunded Mandates Reform Act (2 U.S.C. 1501 et seq.), the Services make the following findings:

a. This rule will not produce a Federal mandate. In general, a Federal mandate is a provision in legislation, statute, or regulation that would impose an enforceable duty upon State, local, or tribal governments, or the private sector and includes both “Federal intergovernmental mandates” and “Federal private sector mandates.” These terms are defined in 2 U.S.C. 658(5)-(7). “Federal intergovernmental mandate” includes a regulation that “would impose an enforceable duty upon State, local, or tribal governments” with two exceptions: (1) “a condition of Federal assistance” or (2) “a duty arising from participation in a voluntary Federal program,” unless the regulation “relates to a then-existing Federal program under which $500,000,000 or more is provided annually to State, local, and tribal governments under entitlement authority”; the provision would either “increase the stringency of conditions of assistance” or “place caps upon, or otherwise decrease, the Federal Government's responsibility to provide funding”; and the State, local, or tribal governments “lack authority . . . to amend their financial or programmatic responsibilities to continue providing required services.” At the time of enactment, these entitlement programs were: Medicaid; AFDC work programs; Child Nutrition; Food Stamps; Social Services Block Grants; Vocational Rehabilitation State Grants; Foster Care, Adoption Assistance, and Independent Living; Family Support Welfare Services; and Child Support Enforcement. “Federal private sector mandate” includes a regulation that “would impose an enforceable duty upon the private sector, except (i) a condition of Federal assistance or (ii) a duty arising from participation in a voluntary Federal program.” This rule does not produce a Federal mandate under either of these definitions.

b. This rule will not significantly or uniquely affect small governments, because the revisions to the regulations in this rule should make our critical habitat designations more user-friendly and will make the process more cost-effective for the Service and the public as a whole. As such, we do not believe that a Small Government Agency Plan is required.

Takings—Executive Order 12630

In accordance with Executive Order 12630 (“Government Actions and Interference with Constitutionally Protected Private Property Rights”), we have evaluated this rule, and we have determined that this rule does not pose significant takings implications. The revisions to the regulations set forth in this rule do not involve individual property rights.

Federalism—Executive Order 13132

In accordance with Executive Order 13132 (Federalism), the rule does not have significant Federalism effects. A federalism summary impact statement is not required. The revisions to the regulations addressed in this rule are intended to promote the usability of the regulations and make the process of designating critical habitat more cost-effective, and thus should not significantly affect or burden the authority of the States to govern themselves.

Civil Justice Reform—Executive Order 12988

In accordance with Executive Order 12988 (Civil Justice Reform), this rule follows the Civil Justice Reform principles for regulations that do not unduly burden the Federal judicial system, by meeting the requirements of sections 3(a) and 3(b) of the Executive Order. The revisions to the regulations addressed in this rule should not significantly affect or burden the judicial system.

Paperwork Reduction Act of 1995

This rule does not contain any new collections of information that require approval by the Office of Management and Budget (OMB) under the Paperwork Reduction Act (44 U.S.C. 3501 et seq.). This rule will not impose recordkeeping or reporting requirements on State or local governments, individuals, businesses, or organizations. An agency may not conduct or sponsor, and a person is not required to respond to, a collection of information unless it displays a currently valid OMB control number.

National Environmental Policy Act (NEPA)

We analyzed this rule in accordance with the criteria of the National Environmental Policy Act of 1969 (NEPA) (42 U.S.C. 4321 et seq.), 43 CFR part 46, and 516 Departmental Manual (DM) 2 and 8.

A categorical exclusion from NEPA documentation applies to policies, directives, regulations, and guidelines that are “of an administrative, financial, legal, technical, or procedural nature” (43 CFR 46.210(i)). This rule falls within this categorical exclusion because it is administrative and technical in nature—it affects only the format in which the critical habitat boundaries are delineated in the regulations.

However, even if an individual Federal action falls within a categorical exclusion, the Service must still prepare environmental documents pursuant to NEPA if one of the 12 exceptions listed in 43 CFR 46.215 applies. We have reviewed each of the 12 exceptions and have found that because this rule is administrative in nature, none of the exceptions apply. Although the exception at 43 CFR 46.215(h) applies to actions that “have a significant impact” on listed species or designated critical habitat, this action will not have any such significant impact, because it is administrative in nature and affects only the format in which critical habitat boundaries are delineated and not the substance of the critical habitat designations. Therefore, this action meets the requirements for a categorical exclusion from the NEPA process.

Government-to-Government Relationship With Tribes

In accordance with the President's memorandum of April 29, 1994, “Government-to-Government Relations with Native American Tribal Governments” (59 FR 22951), Executive Order 13175 “Consultation and Coordination with Indian Tribal Governments,” and the Department of the Interior Manual at 512 DM 2, we readily acknowledge our responsibility to communicate meaningfully with recognized Native American Tribes on a government-to-government basis. We have evaluated the potential effects on federally recognized Tribes from these revisions to our regulations. We have determined that there are no potential effects to federally recognized Tribes, as the revisions to the regulations are intended to promote the usability of critical habitat designations and save taxpayer monies. We will continue to coordinate with Tribes as we promulgate critical habitat designations.

Energy Supply, Distribution, or Use

Executive Order 13211 (Actions Concerning Regulations That Significantly Affect Energy Supply, Distribution, or Use) requires agencies to prepare Statements of Energy Effects when undertaking certain actions. “Significant energy action” means any action by an agency (normally published in the Federal Register) that promulgates or is expected to lead to the promulgation of a final rule or regulation, including notices of inquiry, advance notices of proposed rulemaking, and notices of proposed rulemaking that is a significant regulatory action under Executive Order 12866 or any successor order, and is likely to have a significant adverse effect on the supply, distribution, or use of energy; or that is designated by the Administrator of the Office of Information and Regulatory Affairs as a significant energy action. This rule does not qualify as a significant regulatory action under Executive Order 12866 and will not have a significant adverse effect on the supply, distribution, or use of energy, and has not been designated by the Administrator of the Office of Information and Regulatory Affairs as a significant energy action. Therefore, this action is not a significant energy action and no Statement of Energy Effects is required.

List of Subjects in 50 CFR Part 17

Endangered and threatened species, Exports, Imports, Reporting and recordkeeping requirements, Transportation.

Regulation Promulgation

Accordingly, we amend part 17, subchapter B of chapter I, title 50 of the Code of Federal Regulations, as follows:

PART 17—ENDANGERED AND THREATENED WILDLIFE AND PLANTS

1. The authority citation for part 17 continues to read as follows:

Authority: 16 U.S.C. 1361-1407; 1531-1544; 4201-4245, unless otherwise noted.

2. Amend § 17.94 by revising paragraph (b) to read as follows:

§ 17.94 Critical habitats.

* * * * *

(b) Maps.

If the critical habitat map appears in . . . | Then . . .
(1) A critical habitat designation in § 17.95(a), (b), (d), (e), (f), (g), (h), or (i), and the designation does not state that the map(s) is for informational purposes only, or (2) A critical habitat designation in § 17.99, or (3) A critical habitat designation published and effective after May 31, 2012 | The map provided by the Secretary of the Interior, as clarified or refined by any textual language within the rule, constitutes the definition of the boundaries of a critical habitat. Each critical habitat area will be shown on a map, with more-detailed information discussed in the preamble of the rulemaking documents published in the Federal Register and made available from the lead field office of the Service responsible for such designation. Each area will be referenced to the State(s), county(ies), or other local government units within which all or part of the critical habitat is located. General descriptions of the location and boundaries of each area may be provided to clarify or refine what is included within the boundaries depicted on the map, or to explain the exclusion of sites (e.g., paved roads, buildings) within the mapped area. Unless otherwise indicated within the critical habitat descriptions, the names of the State(s) and county(ies) are provided for informational purposes only and do not constitute the boundaries of the area.
(4) A critical habitat designation that states that the map(s) is for informational purposes only, or (5) A critical habitat designation published and effective on or prior to May 31, 2012, that is set forth at § 17.95(c) or § 17.96 | The map provided by the Secretary of the Interior is for reference purposes to guide Federal agencies and other interested parties in locating the general boundaries of the critical habitat. The map does not, unless otherwise indicated, constitute the definition of the boundaries of a critical habitat. Critical habitats are described by reference to surveyable landmarks found on standard topographic maps of the area and to the States and county(ies) within which all or part of the critical habitat is located. Unless otherwise indicated within the critical habitat description, the State and county(ies) names are provided for informational purposes only.

3. Amend § 17.95 as follows:

a. Amend paragraph (a) as follows:

i. In the entry for “Mariana Fruit Bat (Pteropus mariannus mariannus),” by removing and reserving paragraph (4)(ii)(A), and by removing the word “NOTE:” at the beginning of paragraph (4)(ii)(B).

ii. In the entry for “Virginia Big-eared Bat (Plecotus townsendii virginianus),” by revising the note.

iii. In the entry for “Fresno Kangaroo Rat (Dipodomys nitratoides exilis),” by revising the note.

iv. In the entry for “Morro Bay Kangaroo Rat (Dipodomys heermanni morroensis),” by revising the note.

v. In the entry for “San Bernardino Kangaroo Rat (Dipodomys merriami parvus),” by revising paragraphs (6)(i) and (8)(i) to read as set forth below; by removing and reserving paragraphs (7)(i), (9)(i), and (10)(i); and by removing “Note:” at the beginning of paragraphs (6)(ii), (7)(ii), (8)(ii), (9)(ii), and (10)(ii).

vi. In the entry for “Alabama Beach Mouse (Peromyscus polionotus ammobates),” by adding a sentence to the end of paragraph (1).

vii. In the entry for “Choctawhatchee Beach Mouse (Peromyscus polionotus allophrys),” by revising paragraph (6)(ii); by removing paragraph (7)(ii) and redesignating paragraph (7)(iii) as (7)(ii); by revising paragraph (8)(ii); by removing paragraph (9)(ii) and redesignating paragraph (9)(iii) as (9)(ii); by removing paragraph (10)(ii) and redesignating paragraph (10)(iii) as (10)(ii); and by removing “Note:” at the beginning of newly redesignated paragraphs (7)(ii), (9)(ii), and (10)(ii).

viii. In the entry for “Perdido Key Beach Mouse (Peromyscus polionotus trissyllepsis),” by adding a sentence to the end of paragraph (1).

ix. In the entry for “Preble's Meadow Jumping Mouse (Zapus hudsonius preblei),” by adding a sentence to the end of paragraph (1).

x. In the entry for “St. Andrew Beach Mouse (Peromyscus polionotus peninsularis),” by removing paragraph (6)(ii) and redesignating paragraph (6)(iii) as (6)(ii); by revising paragraph (7)(ii); by removing paragraph (8)(ii) and redesignating paragraph (8)(iii) as (8)(ii); and by removing “Note:” at the beginning of newly redesignated paragraphs (6)(ii) and (8)(ii).

xi. In the entry for “Northern Sea Otter (Enhydra lutris kenyoni), Southwest Alaska Distinct Population Segment,” by adding a sentence to the end of paragraph (1).

xii. In the entry for “Silver Rice Rat (Oryzomys palustris natator (=O. argentatus)),” by revising the note.

xiii. In the entry for “Peninsular Bighorn Sheep, A Distinct Population Segment of Desert Bighorn Sheep (Ovis canadensis nelsoni),” by removing and reserving paragraph (6)(i), (7)(i), (8)(i), and (9)(i); by removing the word “NOTE:” at the beginning of paragraphs (6)(ii) and (7)(ii); and by removing the word “Note:” at the beginning of paragraphs (8)(ii) and (9)(ii).

xiv. In the entry for “Sierra Nevada Bighorn Sheep (Ovis canadensis sierrae),” by revising paragraphs (6)(i) and (9)(i); by removing and reserving paragraphs (7)(i), (8)(i), (10)(i), (11)(i), (12)(i), (13)(i), (14)(i), (15)(i), (16)(i), and (17)(i); and by removing “Note:” at the beginning of paragraphs (6)(ii), (7)(ii), (8)(ii), (9)(ii), (10)(ii), (11)(ii), (12)(ii), (13)(ii), (14)(ii), (15)(ii), (16)(ii), and (17)(ii).

xv. In the entry for “Mount Graham Red Squirrel (Tamiasciurus hudsonicus grahamensis),” by revising the note.

xvi. In the entry for “Amargosa Vole (Microtus californicus scirpensis),” by revising the note.

b. Amend paragraph (b) as follows:

i. In the entry for “Akekee (Loxops caeruleirostris),” by adding a sentence to the end of paragraph (1).

ii. In the entry for “Akikiki (Oreomystis bairdi),” by adding a sentence to the end of paragraph (1).

iii. In the entry for “Whooping Crane (Grus americana),” by revising the note above each of the four maps.

iv. In the entry for “Mariana Crow (Corvus kubaryi),” by removing and reserving paragraph (4)(ii)(A); by removing paragraphs (4)(iii)(A) and (C); by redesignating paragraph (4)(iii)(B) as (4)(iii)(A) and paragraph (4)(iii)(D) as (4)(iii)(B); by revising the introductory text of newly redesignated paragraph (4)(iii)(A); and by removing the word “Note:” from the beginning of paragraph (4)(ii)(B) and newly redesignated paragraph (4)(iii)(B).

v. In the entry for “Spectacled Eider (Somateria fischeri),” by adding a new second sentence.

vi. In the entry for “Steller's Eider (Polysticta stelleri),” in paragraph 1, by removing the words, “The maps are for reference only” and by adding in their place the words, “The maps provided are for informational purposes only”.

vii. In the entry for “Oahu Elepaio (Chasiempis sandwichensis ibidis),” by adding a sentence to the end of paragraph (1).

viii. In the entry for the “Coastal California Gnatcatcher (Polioptila californica californica),” by revising paragraphs (6)(i), (8)(i), (9)(i), (11)(i), (12)(i), (13)(i), (14)(i), (15)(i), and (16)(i) to read as set forth below; by removing and reserving paragraphs (7)(i) and (10)(i); and by removing “Note:” from the beginning of paragraphs (6)(ii), (7)(ii), (8)(ii), (9)(ii), (10)(ii), (11)(ii), (12)(ii), (13)(ii), (14)(ii), (15)(ii), and (16)(ii).

ix. In the entry for “Guam Micronesian Kingfisher (Halcyon cinnamomina cinnamomina),” by removing and reserving paragraph (4)(ii)(A), and by removing the word “Note:” from the beginning of paragraph (4)(ii)(B).

x. In the entry for “Everglade Snail Kite (Rostrhamus sociabilis plumbeus),” by revising the note.

xi. In the entry for “Marbled Murrelet (Brachyramphus marmoratus),” by adding a sentence to the end of paragraph 1.

xii. In the entry for “Mexican Spotted Owl (Strix occidentalis lucida),” by revising paragraphs (8), (9), (10), (12), (13), (15), (16), (17), (19), (21), (22), (23), (24), (25), (26), (28), (29), (30), (31), (32), (34), (35), (36), (37), (38), (39), (41), (42), (43), (44), (45), (47), (49), (50), (51), (52), (53), (54), (56), (57), (58), (59), (60), (61), (63), (64), (65), (66), (68), (69), (70), and (71).

xiii. In the entry for “Palila (Psittirostra bailleui),” by revising the note.

xiv. In the entry for “Piping Plover (Charadrius melodus)—Great Lakes Breeding Population,” by adding a sentence to the end of paragraph 1.

xv. In the entry for “Piping Plover (Charadrius melodus) Wintering Habitat,” by removing the fourth sentence of paragraph 3., and by adding a sentence immediately following the second sentence of paragraph 3.

xvi. In the entry for “Piping Plover (Charadrius melodus)—Northern Great Plains Breeding Population,” by adding a sentence to the end of paragraph 1.

xvii. In the entry for “Cape Sable Seaside Sparrow (Ammodramus maritimus mirabilis),” by removing and reserving paragraphs (5)(ii), (6)(ii), (7)(ii), (8)(ii), and (9)(ii), and by removing “NOTE:” at the beginning of paragraph (10).

xviii. In the entry for “Inyo Brown Towhee (Pipilo fuscus eremophilus),” by revising the note in paragraphs (10) and (11).

xix. In the entry for “Least Bell's Vireo (Vireo bellii pusillus),” by revising the introductory text.

xx. In the entry for “Rota Bridled White-Eye (Zosterops rotensis),” by removing paragraph (5)(i); by redesignating paragraph (5)(ii) as (5)(i) and paragraph (5)(iii) as (5)(ii); by revising the introductory text of newly designated paragraph (5)(i); and by removing “NOTE:” from the beginning of newly redesignated paragraph (5)(ii).

c. Amend paragraph (d) as follows:

i. In the entry for “Golden Coqui (Eleutherodactylus jasperi),” by revising the two notes in paragraph (3)

ii. In the entry for “California Red-legged Frog (Rana draytonii),” by:

A. Removing and reserving paragraphs (7)(i), (8)(i), (9)(i), (12)(i), (13)(i), (14)(i), (15)(i), (16)(i), (17)(i), (18)(i), (19)(i), (20)(i), (21)(i), (22)(i), (23)(i), (24)(i), (26)(i), (27)(i), (30)(i), (31)(i), (33)(i), (34)(i), (35)(i), (36)(i), (37)(i), (38)(i), (39)(i), (40)(i), (41)(i), (42)(i), (43)(i), (44)(i), (45)(i), (46)(i), (47)(i), (48)(i), (49)(i), (50)(i), (51)(i), (52)(i), (53)(i), and (54)(i);

B. Revising paragraphs (10)(i), (11)(i), and (25)(i);

C. Removing paragraphs (25)(ii) and (26)(ii);

D. Redesignating paragraph (25)(iii) as (25)(ii) and paragraph (26)(iii) as (26)(ii);

E. Revising paragraphs (28)(i), (29)(i), and (32)(i); and

F. Removing “Note:” at the beginning of paragraphs (7)(ii), (8)(ii), (9)(ii), (10)(ii), (11)(ii), (12)(ii), (13)(ii), (14)(ii), (15)(ii), (16)(ii), (17)(ii), (18)(ii), (19)(ii), (20)(ii), (21)(ii), (22)(ii), (23)(ii), (24)(ii), newly redesignated (25)(ii), newly redesignated (26)(ii), (27)(ii), (28)(ii), (29)(ii), (30)(ii), (31)(ii), (32)(ii), (33)(ii), (34)(ii), (35)(ii), (36)(ii), (37)(ii), (38)(ii), (39)(ii), (40)(ii), (41)(ii), (42)(ii), (43)(ii), (44)(ii), (45)(ii), (46)(ii), (47)(ii), (48)(ii), (49)(ii), (50)(ii), (51)(ii), (52)(ii), (53)(ii), and (54)(ii).

iii. In the entry for “Chiricahua Leopard Frog (Lithobates chiricahuensis),” by removing “NOTE:” at the beginning of paragraphs (6)(iii), (7)(ii), (8)(xxiii), (9)(vi), (10)(xiv), (11)(xi), (12)(ii), (13)(viii), (14)(iii), (15)(vi), (16)(ii), (17)(iv), (18)(x), (19)(iv), (20)(ii), (21)(x), (22)(ii), (23)(v), (24)(xiii), (25)(xi), (26)(iv), (27)(ii), (28)(iii), (29)(ii), (30)(ii), (31)(ix), (32)(ii), (33)(ii), (34)(ii), (35)(ii), (36)(vi), (37)(ii), (38)(ii), (39)(ii), (40)(ii), (41)(ii), (42)(ii), (43)(v), and (44)(iii).

iv. In the entry for “Dusky Gopher Frog (Rana sevosa),” by:

A. Removing and reserving paragraphs (6)(i), (7)(i), (8)(i), (9)(i), (10)(i), (11)(i), (12)(i), (13)(i), (14)(i), (15)(i), (16)(i), and (17)(i);

B. Removing paragraphs (7)(ii), (9)(ii), and (10)(ii);

C. Redesignating paragraph (7)(iii) as (7)(ii), paragraph (9)(iii) as (9)(ii), and paragraph (10)(iii) as (10)(ii); and

D. Removing “NOTE:” at the beginning of paragraphs (6)(ii), newly redesignated (7)(ii), (8)(ii), newly redesignated (9)(ii) and (10)(ii), (11)(ii), (12)(ii), (13)(ii), (14)(ii), (15)(ii), (16)(ii), and (17)(ii).

v. In the entry for “Mountain Yellow-Legged Frog (Rana muscosa), Southern California DPS,” by:

A. Removing and reserving paragraphs (5)(i)(A), (5)(ii)(A), (5)(iii)(A), (5)(iv)(A), (5)(v)(A), (5)(vi)(A), and (5)(vii)(A);

B. Revising paragraph (6)(i)(A); and

C. Removing and reserving paragraphs (6)(ii)(A), (6)(iii)(A), (7)(i)(A), (7)(ii)(A), (7)(iii)(A), and (7)(iv)(A).

vi. In the entry for “Guajón (Eleutherodactylus cooki),” by:

A. Removing paragraphs (6)(ii), (7)(ii), (8)(ii), (9)(ii), (10)(ii), (11)(ii), (12)(ii), (13)(ii), (14)(ii), (15)(ii), (16)(ii), (17)(ii), (18)(ii), (19)(ii), (20)(ii), (21)(ii), and (22)(ii);

B. Redesignating paragraph (6)(iii) as (6)(ii), paragraph (7)(iii) as (7)(ii), paragraph (8)(iii) as (8)(ii), paragraph (9)(iii) as (9)(ii), paragraph (10)(iii) as (10)(ii), paragraph (11)(iii) as (11)(ii), paragraph (12)(iii) as (12)(ii), paragraph (13)(iii) as (13)(ii), paragraph (14)(iii) as (14)(ii), paragraph (15)(iii) as (15)(ii), paragraph (16)(iii) as (16)(ii), paragraph (17)(iii) as (17)(ii), paragraph (18)(iii) as (18)(ii), paragraph (19)(iii) as (19)(ii), paragraph (20)(iii) as (20)(ii), paragraph (21)(iii) as (21)(ii), and paragraph (22)(iii) as (22)(ii);

C. Revising newly redesignated paragraphs (11)(ii), (13)(ii), (16)(ii), and (19)(ii); and

D. Removing “Note:” at the beginning of newly redesignated paragraphs (6)(ii), (7)(ii), (8)(ii), (9)(ii), (10)(ii), (12)(ii), (14)(ii), (15)(ii), (17)(ii), (18)(ii), (20)(ii), (21)(ii), and (22)(ii).

vii. In the entry for “California Tiger Salamander (Ambystoma californiense) in Santa Barbara County,” by:

A. Redesignating the second paragraph (7)(i) as (7)(ii);

B. Removing and reserving paragraphs (6)(i), (7)(i), (8)(i), (9)(i), and (10)(i);

C. Removing (10)(ii);

D. Redesignating paragraph (10)(iii) as (10)(ii); and

E. Removing “Note:” at the beginning of paragraphs (6)(ii), newly redesignated (7)(ii), (8)(ii), (9)(ii), and newly redesignated (10)(ii).

viii. In the entry for “Central Population of the California Tiger Salamander (Ambystoma californiense),” by:

A. Removing and reserving paragraphs (16)(i), (19)(i), (20)(i), (21)(i), (22)(i), (23)(i), (24)(i), (25)(i), (26)(i), (27)(i), (28)(i), (29)(i), (30)(i), (31)(i), (32)(i), (33)(i), (34)(i), (35)(i), (36)(i), (37)(i), (38)(i), (39)(i), (40)(i), (41)(i), (42)(i), (43)(i), (44)(i), (45)(i), (46)(i), (47)(i), (48)(i), (49)(i), (50)(i), and (51)(i);

B. Revising paragraphs (17)(i) and (18)(i); and

C. Removing “Note:” at the beginning of paragraphs (16)(ii), (17)(ii), (18)(ii), (19)(ii), (20)(ii), (21)(ii), (22)(ii), (23)(ii), (24)(ii), (25)(ii), (26)(ii), (27)(ii), (28)(ii), (29)(ii), (30)(ii), (31)(ii), (32)(ii), (33)(ii), (34)(ii), (35)(ii), (36)(ii), (37)(ii), (38)(ii), (39)(ii), (40)(ii), (41)(ii), (42)(ii), (43)(ii), (44)(ii), (45)(ii), (46)(ii), (47)(ii), (48)(ii), (49)(ii), (50)(ii), and (51)(ii).

ix. In the entry for “California Tiger Salamander (Ambystoma californiense) in Sonoma County,” by removing and reserving paragraph (56)(i).

x. In the entry for “Frosted Flatwoods Salamander (Ambystoma cingulatum),” by:

A. Removing and reserving paragraphs (6)(i)(A), (6)(ii)(A), (6)(iii)(A), (6)(iv)(A), (6)(v)(A), (6)(vi)(A), (6)(vii)(A), (6)(viii)(A), (6)(ix)(A), (6)(x)(A), (6)(xi)(A), (6)(xii)(A), (6)(xiii)(A), (6)(xiv)(A), (6)(xv)(A), (7)(i)(A), (7)(ii)(A), (7)(iii)(A), and (7)(iv)(A); and

B. Removing “Note:” at the beginning of paragraphs (6)(i)(B), (6)(ii)(B), (6)(iii)(B), (6)(iv)(B), (6)(v)(B), (6)(vi)(B), (6)(vii)(B), (6)(viii)(B), (6)(ix)(B), (6)(x)(B), (6)(xi)(B), (6)(xii)(B), (6)(xiii)(B), (6)(xiv)(B), (6)(xv)(B), (7)(i)(B), (7)(ii)(B), (7)(iii)(B), and (7)(iv)(B).

xi. In the entry for “Reticulated Flatwoods Salamander (Ambystoma bishopi),” by adding a sentence at the end of paragraph (1),

xii. In the entry for “San Marcos Salamander (Eurycea nana),” by revising the note.

xiii. In the entry for “Arroyo Toad (Anaxyrus californicus),” by adding a sentence at the end of paragraph (1).

xiv. In the entry for “Houston Toad (Bufo houstonensis),” by revising the note in both paragraphs (1) and (2).

d. Amend paragraph (e) as follows:

i. In the entry for “Yaqui Catfish (Ictalurus pricei),” by revising the note.

ii. In the entry for “Bonytail Chub (Gila elegans),” by revising the note.

iii. In the entry for “Borax Lake Chub (Gila boraxobius),” by revising the note.

iv. In the entry for “Gila Chub (Gila intermedia),” by removing “Note:” at the beginning of paragraphs (7)(v), (8)(ii), (9)(iii), (10)(iv), (11)(v), (12)(v), and (13)(vii).

v. In the entry for “Humpback Chub (Gila cypha),” by adding a note above the map.

vi. In the entry for “Owens Tui Chub (Gila bicolor snyderi),” by revising the note above the map in paragraphs 1 and 2.

vii. In the entry for “Slender Chub (Erimystax =(Hybopsis) cahni),” revising the note.

viii. In the entry for “Sonora Chub (Gila ditaenia),” by revising the note in paragraph 4.

ix. In the entry for “Spotfin Chub (Erimonax monachus),” by revising the notes above the three maps.

x. In the entry for “Virgin River Chub (Gila seminuda),” by adding a note above the map.

xi. In the entry for “Yaqui Chub (Gila purpurea),” by revising the note.

xii. In the entry for “Ash Meadows Speckled Dace (Rhinichthys osculus nevadensis),” by revising the note.

xiii. In the entry for “Desert Dace (Eremichthys acros),” by revising the note.

xiv. In the entry for “Amber Darter (Percina antesella),” by revising the note.

xv. In the entry for “Diamond Darter (Crystallaria cincotta),” by removing “Note:” at the beginning of paragraphs (6)(ii) and (7)(ii).

xvi. In the entry for “Fountain Darter (Etheostoma fonticola),” by revising the note.

xvii. In the entry for “Leopard Darter (Percina pantherina),” by revising the note.

xviii. In the entry for “Maryland Darter (Etheostoma sellare),” by revising the note.

xix. In the entry for “Niangua Darter (Etheostoma nianguae),” by revising the notes above the four maps.

xx. In the entry for “Slackwater Darter (Etheostoma boschungi),” by revising the note.

xxi. In the entry for “San Marcos Gambusia (Gambusia georgei),” by revising the note.

xxii. In the entry for “Conasauga Logperch (Percina jenkinsi),” by revising the note.

xxiii. In the entry for “Smoky Madtom (Noturus baileyi),” by revising the note.

xxiv. Revising the entry for “Yellowfin Madtom (Noturus flavipinnis)”.

xxv. In the entry for “Devils River Minnow (Dionda diaboli),” by removing “Note:” at the beginning of paragraphs (6)(ii) and (7)(ii).

xxvi. In the entry for “Loach Minnow (Tiaroga cobitis),” by removing “Note:” at the beginning of paragraphs (6)(vi), (7)(v), (8)(vii), (9)(ii), (10)(ii), (11)(v), (12)(vii), and (13)(vii).

xxvii. In the entry for “Rio Grande Silvery Minnow (Hybognathus amarus),” by adding a sentence to the end of paragraph (1).

xxviii. In the entry for “Ash Meadows Amargosa Pupfish (Cyprinodon nevadensis mionectes),” by revising the note.

xxix. In the entry for “Desert Pupfish (Cyprinodon macularius),” by revising the two notes.

xxx. In the entry for “Leon Springs Pupfish (Cyprindon bovinus),” by revising the word “Cyprindon” to read “Cyprinodon” in its heading and by revising the note.

xxxi. In the entry for “Arkansas River Shiner (Notropis girardi),” by removing “Note:” at the beginning of paragraph (6)(iii).

xxxii. In the entry for “Beautiful Shiner (Notropis formosus),” by revising the note.

xxxiii. In the entry for “Cape Fear Shiner (Notropis mekistocholas),” by revising the note in paragraph (3).

xxxiv. In the entry for “Pecos Bluntnose Shiner (Notropis simus pecosensis),” by revising the notes in paragraphs 1 and 2.

xxxv. In the entry for “Sharpnose Shiner (Notropis oxyrhynchus),” by removing “Note:” at the beginning of paragraphs (7)(ii), (8)(ii), (9)(ii), (10)(ii), (11)(ii), and (12)(ii).

xxxvi. In the entry for “Topeka Shiner (Notropis topeka),” by removing “Note:” at the beginning of paragraphs (6), (8), (10), (12), and (14).

xxxvii. In the entry for “Waccamaw Silverside (Menidia extensa),” by removing the note.

xxxviii. In the entry for “Delta Smelt (Hypomesus transpacificus),” by revising the note.

xxxix. In the entry for “Spikedace (Meda fulgida),” by adding a sentence to the end of paragraph (1).

xl. In the entry for “Big Spring Spinedace (Lepidomeda mollispinus pratensis),” by revising the note.

xli. In the entry for “Little Colorado Spinedace (Lepidomeda vittata),” by adding a note immediately before each map in paragraphs 1, 2, and 3.

xlii. In the entry for “White River Spinedace (Lepidomeda albivallis),” by revising the notes above the two maps.

xliii. In the entry for “Hiko White River Springfish (Crenichthys baileyi grandis),” by revising the note.

xliv. In the entry for “Railroad Valley Springfish (Crenichthys nevadae),” by redesignating the second paragraph 1 as paragraph 2, and by revising the note in each paragraph.

xlv. In the entry for “White River Springfish (Crenichthys baileyi baileyi),” by revising the note.

xlvi. In the entry for “Colorado Squawfish (Ptychocheilus lucius),” by adding a note above the map.

xlvii. In the entry for “Alabama Sturgeon (Scaphirhynchus suttkusi),” by removing “Note:” at the beginning of paragraph (5)(ii).

xlviii. In the entry for “Gulf Sturgeon (Acipenser oxyrinchus desotoi)” by adding a sentence to the end of paragraph (1).

xlix. In the entry for “White Sturgeon (Acipenser transmontanus); Kootenai River Population,” by removing “Note:” at the beginning of paragraph (3).

l. In the entry for “June Sucker (Chasmistes liorus),” by revising the note.

li. In the entry for “Razorback Sucker (Xyrauchen texanus),” by adding a note before the map.

lii. In the entry for “Santa Ana Sucker (Catostomus santaanae),” by removing and reserving paragraphs (6)(i), (7)(i), and the first (8)(i), designating the second paragraph (8)(i) as paragraph (8)(ii), and by removing and reserving paragraphs (9)(i), (10)(i), and (11)(i).

liii. In the entry for “Shortnose Sucker (Chasmistes brevirostris),” by removing “NOTE:” from paragraphs (6) and (7).

liv. In the entry for “Warner Sucker (Catostomus warnerensis),” by revising the note in paragraphs 2 and 5.

lv. In the entry for “Little Kern Golden Trout (Salmo aguabonita whitei),” by revising the note.

lvi. In the entry for “Woundfin (Plagopterus argentissimus),” by adding note before the map.

e. Amend paragraph (f) as follows:

i. In the entry for “Appalachian Elktoe (Alasmidonta raveneliana),” by adding a sentence to the end of paragraph (1) introductory text.

ii. In the entry for “Carolina Heelsplitter (Lasmigona decorata),” by adding a sentence to the end of paragraph (1).

iii. In the entry for “Eleven Mobile River Basin Mussel Species: Southern acornshell (Epioblasma othcaloogensis), ovate clubshell (Pleurobema perovatum), southern clubshell (Pleurobema decisum), upland combshell (Epioblasma metastriata), triangular kidneyshell (Ptychobranchus greenii), Alabama moccasinshell (Medionidus acutissimus), Coosa moccasinshell (Medionidus parvulus), orange-nacre mucket (Lampsilis perovalis), dark pigtoe (Pleurobema furvum), southern pigtoe (Pleurobema georgianum), and fine-lined pocketbook (Lampsilis altilis),” by adding a sentence to the end of paragraph (2) introductory text.

iv. In the entry for “Five Tennessee and Cumberland River Basin Mussels Species: Purple bean (Villosa perpurpurea), Cumberlandian combshell (Epioblasma brevidens), Cumberland elktoe (Alasmidonta atropurpurea), oyster mussel (Epioblasma capsaeformis), and rough rabbitsfoot (Quadrula cylindrica strigillata),” by adding a sentence to the end of paragraph (2) introductory text.

v. In the entry for “Seven Mussel Species (in Four Northeast Gulf of Mexico Drainages): Purple bankclimber (Elliptoideus sloatianus), Gulf moccasinshell (Medionidus penicillatus), Ochlockonee moccasinshell (Medionidus simpsonianus), Oval pigtoe (Pleurobema pyriforme), Shinyrayed pocketbook (Lampsilis subangulata), Chipola slabshell (Elliptio chipolaensis), and Fat threeridge (Amblema neislerii),” by removing “NOTE:” at the beginning of paragraphs (7)(ii), (8)(ii), (9)(ii), (10)(ii), (11)(ii), (12)(ii), (13)(ii), (14)(ii), (15)(ii), (16)(ii), and (17)(ii).

vi. In the entry for “Georgia Pigtoe (Pleurobema hanleyianum),” by removing “NOTE:” from the beginning of paragraphs (6)(ii), (7)(ii), and (8)(ii).

vii. In the entry for “Altamaha Spinymussel (Elliptio spinosa),” by removing “NOTE:” from the beginning of paragraphs (6)(ii), (7)(ii), (8)(ii), and (9)(ii).

viii. In the entry for “Tumbling Creek Cavesnail (Antrobia culveri),” by adding a sentence to the end of paragraph (1).

ix. In the entry for “Rough Hornsnail (Pleurocera foremani),” by removing “NOTE:” from the beginning of paragraphs (6)(ii) and (7)(ii).

x. In the entry for “Morro Shoulderband Snail (Helminthoglypta walkeriana),” by adding a sentence to the end of paragraph 1.

xi. In the entry for “Newcomb's Snail (Erinna newcombi),” by adding a sentence to the end of paragraph (1).

xii. In the entry for “Pecos Assiminea (Assiminea pecos),” by removing and reserving paragraphs (5)(i), (6)(i), (7)(i), and (8)(i), and by removing “NOTE:” at the beginning of paragraphs (5)(ii), (6)(ii), and (7)(ii).

xiii. In the entry for “Interrupted Rocksnail (Leptoxis foremani),” by removing “NOTE:” from the beginning of paragraphs (6)(ii), (7)(ii), and (8)(ii).

xiv. In the entry for “Koster's Springsnail (Juturnia kosteri) and Roswell Springsnail (Pyrgulopsis roswellensis),” by removing and reserving paragraphs (5)(i) and (6)(i), and by removing “NOTE:” from the beginning of paragraph (5)(ii).

xv. In the entry for “San Bernardino Springsnail (Pyrgulopsis bernardina),” by revising the introductory text of paragraph (5).

xvi. In the entry for “Three Forks Springsnail (Pyrgulopsis trivialis),” by revising paragraphs (2) introductory text and (5) introductory text and by removing paragraphs (6), (7), and (8).

f. Amend paragraph (g) as follows:

i. In the entry for “Cokendolpher Cave Harvester (Texella cokendolpheri),” by removing and reserving paragraph (6)(i), and by removing “NOTE:” at the beginning of paragraph (6)(ii).

ii. In the entry for Braken Bat Cave Meshweaver (Cicurina venii),” by removing and reserving paragraph (4)(i) and by removing “NOTE:” at the beginning of paragraph (4)(ii).

iii. In the entry for “Government Canyon Bat Cave Meshweaver (Cicurina vespera),” by removing and reserving paragraph (4)(i) and by removing “NOTE:” at the beginning of paragraph (4)(ii).

iv. In the entry for “Madla Cave Meshweaver (Cicurina madla),” by:

A. Removing and reserving paragraphs (5)(i), (6)(i), (7)(i), (8)(i), (9)(i), (10)(i), (11)(i), (12)(i), (13)(i), (14)(i), (15)(i), and (16)(i);

B. Removing paragraph (15)(ii);

C. Redesignating paragraph (15)(iii) as (15)(ii); and

D. Removing “NOTE:” at the beginning of paragraphs (5)(ii), (6)(ii), (7)(ii), (8)(ii), (9)(ii), (10)(ii), (11)(ii), (12)(ii), (13)(ii), (14)(ii), newly redesignated (15)(ii), and (16)(ii).

v. In the entry for Robber Baron Cave Meshweaver (Cicurina baronia),” by removing and reserving paragraphs (4)(i) and (5)(i) and by removing “NOTE:” at the beginning of paragraphs (4)(ii) and (5)(ii).

vi. In the entry for “Government Canyon Bat Cave Spider (Neoleptoneta microps),” by removing and reserving paragraph (4)(i) and by removing the “NOTE:” at the beginning of paragraph (4)(ii).

vii. In the entry for “Kauai Cave Wolf Spider (Adelocosa anops),” by adding a sentence to the end of paragraph (1).

viii. In the entry for “Spruce-Fir Moss Spider (Microhexura montivaga),” by adding a sentence to the end of paragraph 1.

g. Amend paragraph (h) as follows:

i. In the entry for “Kauai Cave Amphipod (Spelaeorchestia koloana),” by adding a sentence to the end to paragraph (1).

ii. In the entry for “Noel's Amphipod (Gammarus desperatus),” by removing and reserving paragraphs (5)(i), (6)(i), and (7)(i) and by removing “NOTE:” at the beginning of paragraphs (5)(ii) and (7)(ii).

iii. In the entry for “Conservancy Fairy Shrimp (Branchinecta conservatio),” by:

A. Removing and reserving paragraphs (4)(i) and (11)(i);

B. Removing paragraphs (4)(ii), (4)(iii), (4)(iv), (4)(v), (11)(ii), (11)(iii), (11)(iv), (11)(v), and (11)(vi);

C. Redesignating paragraph (4)(vi) as (4)(ii) and paragraph (11)(vii) as (11)(ii);

D. Removing the second and third sentences of paragraphs (5), (7), (9), and (12); and

E. Removing “NOTE:” from the beginning of newly redesignated paragraph (4)(ii) and paragraphs (6), (8), (10), newly redesignated (11)(ii), and (13).

iv. In the entry for “Longhorn Fairy Shrimp (Branchinecta longiantenna),” by:

A. Removing and reserving paragraph (4)(i);

B. Removing paragraph (4)(ii);

C. Redesignating paragraph (4)(iii) as (4)(ii);

D. Removing the second sentence of paragraphs (5) and (7); and

E. Removing “NOTE:” from the beginning of newly redesignated paragraph (4)(ii) and paragraphs (6) and (8).

v. In the entry for “San Diego Fairy Shrimp (Branchinecta sandiegonensis),” by:

A. Removing and reserving paragraphs (6)(i) and (7)(i);

B. Removing the second sentence of the introductory text of paragraphs (8), (9), and (10);

C. Removing paragraphs (8)(i), (8)(ii), (8)(iii), (8)(iv), (8)(v), (8)(vi), (8)(vii), (9)(i), (9)(ii), (9)(iii), (9)(iv), (9)(v), (9)(vi), (9)(vii), (9)(viii), (9)(ix), (9)(x), (9)(xi), (9)(xii), (10)(i), (10)(ii), (10)(iii), (10)(iv), (10)(v), (10)(vi), (10)(vii), and (10)(viii);

D. Redesignating paragraphs (8)(viii) as (8)(i), (8)(ix) as (8)(ii), (9)(xiii) as (9)(i), (9)(xiv) as (9)(ii), (9)(xv) as (9)(iii), (9)(xvi) as (9)(iv), (10)(ix) and (10)(i), (10)(x) as (10)(ii), and (10)(xi) as (10)(iii); and

E. Removing “NOTE:” from the beginning of paragraphs (6)(ii) and (7)(ii), and newly redesignated paragraphs (8)(i), (8)(ii), (9)(i), (9)(ii), (9)(iii), (9)(iv), (10)(i), (10)(ii), and (10)(iii).

vi. In the entry for “Vernal Pool Fairy Shrimp (Branchinecta lynchi),” by:

A. Revising paragraphs (4), (5), (6), (8), (9), (10), (11), (12), (15), (17), (19), (20), (22), (23), (24), (26), (27), (30), (31), (35), (38), (40), and (42);

B. Removing and reserving paragraphs (7)(i), (16)(i), (18)(i), (29)(i), (33)(i), (34)(i), and (37)(i);

C. Removing paragraphs (7)(ii), (16)(ii), (18)(ii), (29)(ii), (29)(iii), (29)(iv), (29)(v), (29)(vi), (29)(vii), (29)(viii), (29)(ix), (29)(x), (29)(xi), (33)(ii), (33)(iii), (33)(iv), (33)(v), (33)(vi), (34)(ii), (34)(iii), (34)(iv), (37)(ii), (37)(iii), (37)(iv), (37)(v), (37)(vi), (37)(vii), and (37)(viii);

D. Redesignating paragraphs (7)(iii) as (7)(ii), (16)(iii) as (16)(ii), (18)(iii) as (18)(ii), (29)(xii) as (29)(ii), (33)(vii) as (33)(ii), (34)(v) as (34)(ii), and (37)(ix) as (37)(ii); and

E. Removing “NOTE:” from the beginning of newly redesignated paragraph (7)(ii), paragraph (13), newly redesignated paragraphs (16)(ii), and (18)(ii), paragraphs (21), (25), and (28), newly redesignated paragraph (29)(ii), paragraph (32), newly redesignated paragraph (33)(ii), paragraph (36), newly redesignated paragraph (37)(ii), and paragraphs (39), (41), and (43).

vii. In the entry for “Kentucky Cave Shrimp (Palaemonias ganteri),” by revising the note.

viii. In the entry for “Vernal Pool Tadpole Shrimp (Lepidurus packardi),” by:

A. Revising paragraphs (4), (8), (9), (11), (13), (17), and (20);

B. Removing and reserving paragraphs (5)(i), (6)(i), (7)(i), (12)(i), (14)(i), (15)(i), (16)(i), (19)(i), and (22)(i);

C. Removing paragraphs (5)(ii), (6)(ii), (6)(iii), (6)(iv), (6)(v), (6)(vi), (7)(ii), (7)(iii), (7)(iv), (7)(v), (7)(vi), (12)(ii), (14)(ii), (14)(iii), (14)(iv), (15)(ii), (15)(iii), (16)(ii), (19)(ii), (19)(iii), (19)(iv), (19)(v), (19)(vi), (19)(vii), (19)(viii), (19)(ix), (19)(x), (19)(xi), (22)(ii), (22)(iii), (22)(iv), (22)(v), and (22)(vi);

D. Redesignating paragraphs (5)(iii) as (5)(ii), (6)(vii) as (6)(ii), (7)(vii) as (7)(ii), (12)(iii) as (12)(ii), (14)(v) as (14)(ii), (15)(iv) as (15)(ii), (16)(iii) as (16)(ii), (19)(xii) as (19)(ii), and (22)(vii) as (22)(ii);

E. Removing the word “NOTE:” from newly redesignated paragraphs (5)(ii), (6)(ii), and (7)(ii), paragraph (10), newly redesignated paragraphs (12)(ii), (14)(ii), (15)(ii), and (16)(ii), paragraph (18), newly redesignated paragraph (19)(ii), paragraph (21), and newly redesignated paragraph (22)(ii).

h. Amend paragraph (i) as follows:

i. In the entry for “Casey's June Beetle (Dinacoma caseyi),” by removing “NOTE:” at the beginning of paragraph (5) and by removing paragraph (6).

ii. In the entry for “Delta Green Ground Beetle (Elaphrus viridis),” by revising the note.

iii. In the entry for “Helotes Mold Beetle (Batrisodes venyivi),” by removing and reserving paragraphs (6)(i), (7)(i), and (8)(i) and by removing “NOTE:” at the beginning of paragraphs (6)(ii), (7)(ii), and (8)(ii).

iv. In the entry for “Beetle (No Common Name) (Rhadine exilis),” by:

A. Removing and reserving paragraphs (5)(i), (6)(i), (7)(i), (8)(i), (9)(i), (10)(i), (11)(i), (12)(i), (13)(i), (14)(i), (15)(i), (16)(i), (17)(i), (18)(i), and (19)(i); and

B. Removing “NOTE:” at the beginning of paragraphs (5)(ii), (6)(ii), (7)(ii), (8)(ii), (9)(ii), (10)(ii), (11)(ii), (12)(ii), (13)(ii), (14)(ii), (15)(ii), (16)(ii), (17)(ii), (18)(ii), and (19)(ii).

v. In the entry for “Beetle (No Common Name) (Rhadine infernalis),” by:

A. Removing and reserving paragraphs (5)(i), (6)(i), (7)(i), (8)(i), (9)(i), (10)(i), (11)(i), (12)(i), (13)(i), (14)(i), (15)(i), (16)(i), (17)(i), (18)(i), (19)(i), (20)(i), (21)(i), (22)(i), (23)(i), and (24)(i);

B. Removing paragraph (21)(ii);

C. Redesignating paragraph (21)(iii) as (21)(ii); and

D. Removing “NOTE:” at the beginning of paragraphs (5)(ii), (6)(ii), (7)(ii), (8)(ii), (9)(ii), (10)(ii), (11)(ii), (12)(ii), (13)(ii), (14)(ii), (15)(ii), (16)(ii), (17)(ii), (18)(ii), (19)(ii), (20)(ii), newly redesignated paragraph (21)(ii), and paragraphs (22)(ii), (23)(ii), and (24)(ii).

vi. In the entry for “Salt Creek Tiger Beetle (Cicindela nevadica lincolniana),” by revising paragraph (1).

vii. In the entry for “Valley Elderberry Longhorn Beetle (Desmocerus californicus dimorphus) California, Sacramento County,” by revising the notes in paragraphs (1) and (2).

viii. In the entry for “Bay Checkerspot Butterfly (Euphydryas editha bayensis),” by:

A. Removing and reserving paragraphs (6)(i), (7)(i), (8)(i), (9)(i), (10)(i), (11)(i), (12)(i), (13)(i), (14)(i), (15)(i), (16)(i), (17)(i), and (18)(i);

B. Removing paragraph (14)(ii);

C. Redesignating paragraph (14)(iii) as (14)(ii); and

D. Removing “NOTE:” at the beginning of paragraphs (6)(ii), (7)(ii), (8)(ii), (9)(ii), (10)(ii), (11)(ii), (12)(ii), (13)(ii), newly redesignated paragraph (14)(ii), and paragraphs (15)(ii), (16)(ii), (17)(ii), and (18)(ii).

ix. In the entry for “Fender's Blue Butterfly (Icaricia icarioides fenderi),” by:

A. Removing and reserving paragraphs (6)(i), (7)(i), (8)(i), (9)(i), (10)(i), (11)(i), (12)(i), (13)(i), and (14)(i);

B. Removing paragraphs (6)(ii), (9)(ii), (11)(ii), (12)(ii), (12)(iii), (13)(ii), (13)(iii), (13)(iv), (13)(v), (13)(vi), (13)(vii), (13)(viii), (13)(ix), (13)(x), (13)(xi), (13)(xii), (13)(xiii), (13)(xiv), (13)(xv), (13)(xvi), and (14)(ii);

C. Redesignating paragraphs (6)(iii) as (6)(ii), (9)(iii) as (9)(ii), (11)(iii) as (11)(ii), (12)(iv) as (12)(ii), (13)(xvii) as (13)(ii), and (14)(iii) as (14)(ii); and

D. Removing “NOTE:” from the beginning of newly redesignated paragraph (6)(ii), paragraphs (7)(ii) and (8)(ii), newly redesignated paragraph (9)(ii), paragraph (10)(ii), and newly redesignated paragraphs (11)(ii), (12)(ii), (13)(ii), and (14)(ii).

x. In the entry for “Oregon Silverspot Butterfly (Speyeria zerene hippolyta),” by revising the note.

xi. In the entry for “Palos Verdes Blue Butterfly (Glaucopsyche lygdamus palosverdesensis),” by adding a sentence to end of the introductory text.

xii. In the entry for “Quino Checkerspot Butterfly (Euphydryas editha quino),” by:

A. Revising paragraphs (6)(i) and (11)(i);

B. Removing and reserving paragraphs (7)(i), (8)(i), (9)(i), (10)(i), (12)(i), (13)(i), and (14)(i); and

C. Removing “NOTE:” from the beginning of paragraphs (6)(ii), (7)(ii), (8)(ii), (9)(ii), (10)(ii), (11)(ii), (12)(ii), (13)(ii), and (14)(ii).

xiii. In the entry for “Hine's Emerald Dragonfly (Somatochlora hineana),” by adding a sentence at the end of paragraph (1).

xiv. In the entry for “Hawaiian Picture-Wing Fly (Drosophila aglaia),” by adding a sentence at the end of paragraph (1).

xv. In the entry for “Hawaiian Picture-Wing Fly (Drosophila differens),” by adding a sentence at the end of paragraph (1).

xvi. In the entry for “Hawaiian Picture-Wing Fly (Drosophila hemipeza),” by adding a sentence at the end of paragraph (1).

xvii. In the entry for “Hawaiian Picture-Wing Fly (Drosophila heteroneura),” by adding a sentence at the end of paragraph (1).

xviii. In the entry for “Hawaiian Picture-Wing Fly (Drosophila montgomeryi),” by adding, at the end of paragraph (1).

xix. In the entry for “Hawaiian Picture-Wing Fly (Drosophila mulli),” by adding a sentence at the end of paragraph (1).

xx. In the entry for “Hawaiian Picture-Wing Fly (Drosophila musaphilia),” by adding a sentence at the end of paragraph (1).

xxi. In the entry for “Hawaiian Picture-Wing Fly (Drosophila neoclavisetae),” by adding a sentence at the end of paragraph (1).

xxii. In the entry for “Hawaiian Picture-Wing Fly (Drosophila obatai),” by adding a sentence at the end of paragraph (1).

xxiii. In the entry for “Hawaiian Picture-Wing Fly (Drosophila ochrobasis),” by adding a sentence at the end of paragraph (1).

xxiv. In the entry for “Hawaiian Picture-Wing Fly (Drosophila sharpi),” by adding a sentence at the end of paragraph (1).

xxv. In the entry for “Hawaiian Picture-Wing Fly (Drosophila substenoptera),” by adding a sentence at the end of paragraph (1).

xxvi. In the entry for “Hawaiian Picture-Wing Fly (Drosophila tarphytrichia),” by adding a sentence at the end of paragraph (1).

xxvii. In the entry for “Zayante Band-Winged Grasshopper (Trimerotropis infantilis),” by adding a sentence to the end of paragraph 1.

xxviii. In the entry for “Blackburn's Sphinx Moth (Manduca blackburni),” by adding a sentence at the end of paragraph (1).

xxix. In the entry for “Ash Meadows Naucorid (Ambrysus amargosus),” by revising the note.

xxx. In the entry for “Laguna Mountains Skipper (Pyrgus ruralis lagunae),” by adding a sentence to the end of paragraph (1).

The revisions and additions read as follows:

§ 17.95 Critical habitat—fish and wildlife.

(a) Mammals.

* * * * *

Virginia Big-eared Bat (Plecotus townsendii virginianus)

* * * * *

Note: The map provided is for informational purposes only. Map follows:

* * * * *

Fresno Kangaroo Rat (Dipodomys nitratoides exilis)

* * * * *

Note: The map provided is for informational purposes only. Map follows:

* * * * *

Morro Bay Kangaroo Rat (Dipodomys heermanni morroensis)

* * * * *

Note: The map provided is for informational purposes only. Map follows:

* * * * *

San Bernardino Kangaroo Rat (Dipodomys merriami parvus)

* * * * *

(6) * * *

(i) Unit 1 is shown on the map in paragraph (6)(ii) of this entry, excluding lands bounded by the following Universal Transverse Mercator (UTM) North American Datum of 1983 (NAD83) coordinates (E, N):

(A) 487253, 3772752; 487254, 3772752; 487290, 3772752; 487290, 3772752; 487290, 3772752; 487589, 3772747; 487589, 3772747; 487778, 3772648; 487787, 3772643; 487790, 3772642; 487808, 3772632; 487808, 3772632; 487808, 3772632; 487808, 3772632; 487838, 3772617; 487842, 3772614; 487978, 3772543; 487996, 3772533; 488008, 3772533; 488010, 3772533; 488122, 3772533; 488122, 3772533; 488230, 3772532; 488230, 3772532; 488351, 3772531; 488390, 3772530; 488404, 3772530; 488405, 3772530; 488471, 3772529; 488608, 3772528; 488608, 3772528; 488812, 3772526; 488812, 3772526; 488812, 3772447; 488811, 3772326; 488811, 3772326; 488803, 3772326; 488614, 3772329; 488614, 3772329; 488614, 3772329; 488614, 3772329; 488607, 3772329; 488409, 3772332; 488403, 3772332; 488403, 3772332; 488144, 3772336; 488139, 3772336; 488140, 3772340; 488139, 3772336; 488139, 3772336; 487995, 3772338; 487995, 3772338; 487849, 3772340; 487849, 3772340; 487828, 3772341; 487806, 3772341; 487790, 3772341; 487775, 3772341; 487768, 3772342; 487763, 3772342; 487758, 3772342; 487726, 3772342; 487674, 3772343; 487586, 3772344; 487310, 3772348; 487309, 3772348; 487303, 3772349; 487303, 3772349; 487302, 3772349; 487233, 3772350; 487232, 3772350; 487229, 3772350; 487229, 3772350; 487227, 3772350; 487226, 3772350; 487223, 3772350; 487214, 3772350; 487213, 3772350; 487178, 3772350; 487178, 3772350; 487177, 3772350; 487173, 3772350; 487167, 3772350; 487117, 3772350; 487117, 3772350; 487118, 3772293; 487118, 3772179; 487119, 3772154; 487032, 3772153; 486981, 3772152; 486935, 3772151; 486896, 3772151; 486587, 3772146; 486580, 3772146; 486556, 3772146; 486534, 3772145; 486434, 3772144; 486380, 3772143; 486380, 3772143; 485983, 3772032; 485982, 3772032; 485983, 3771987; 485983, 3771961; 485983, 3771945; 485983, 3771941; 485983, 3771941; 485653, 3771939; 485651, 3771939; 485650, 3771939; 485594, 3771939; 485585, 3771939; 485586, 3771875; 485595, 3771841; 485595, 3771840; 485595, 3771822; 485595, 3771821; 485595, 3771821; 485577, 3771821; 485334, 3771821; 485184, 3771821; 485184, 3771821; 484918, 3771821; 484852, 3771821; 484782, 3771821; 484782, 3771821; 484693, 3771820; 484693, 3771820; 484482, 3771819; 484482, 3771819; 484383, 3771819; 484381, 3771819; 484381, 3771824; 484381, 3771875; 484381, 3771879; 484381, 3771881; 484381, 3771882; 484381, 3771943; 484381, 3771943; 484381, 3771996; 484445, 3771996; 484782, 3771994; 484782, 3771992; 484782, 3771945; 484782, 3771941; 484909, 3771941; 485184, 3771940; 485184, 3771944; 485184, 3771948; 485183, 3771998; 485182, 3772335; 485573, 3772333; 485582, 3772333; 485582, 3772333; 485981, 3772338; 485981, 3772338; 485980, 3772361; 485976, 3772665; 485975, 3772732; 485975, 3772734; 486377, 3772741; 486380, 3772362; 486380, 3772342; 486463, 3772343; 486779, 3772346; 486778, 3772618; 486778, 3772747; 486778, 3772747; 486887, 3772749; 486908, 3772749; 486925, 3772750; 487178, 3772754; 487178, 3772754; 487184, 3772754; 487184, 3772754; 487202, 3772753; 487205, 3772753; 487209, 3772753; 487213, 3772753 ; thence returning to 487253, 3772752;

(B) 482603, 3772347; 482603, 3772347; 482602, 3772348; 483160, 3772346; 483160, 3772089; 483160, 3772072; 483160, 3771972; 483160, 3771893; 483159, 3771893; 483159, 3771893; 483071, 3771893; 483032, 3771892; 483032, 3771892; 483032, 3771892; 482989, 3771930; 482972, 3771945; 482972, 3771945; 482644, 3772097; 482622, 3772108; 482537, 3772147; 482377, 3772221; 482368, 3772227; 482368, 3772227; 482368, 3772227; 482368, 3772263; 482367, 3772336; 482367, 3772348; 482367, 3772348; 482376, 3772348; 482385, 3772348; 482394, 3772348; thence returning to 482603, 3772347; and

(C) 483188, 3772080; 483211, 3772076; 483211, 3772346; 483211, 3772346; 483374, 3772346; 483600, 3772345; 483969, 3772344; 483970, 3772008; 483970, 3771985; 483971, 3771945; 483971, 3771945; 483914, 3771945; 483913, 3771945; 483902, 3771945; 483848, 3771945; 483409, 3771944; 483272, 3771944; 483215, 3771944; 483210, 3771944; 483210, 3771944; 483210, 3771944; 483210, 3771944; 483200, 3771933; 483200, 3771933; 483200, 3771933; 483187, 3771946; 483185, 3771948; thence returning to 483188, 3772080.

* * * * *

(8) * * *

(i) Unit 3 is shown on the map in paragraph (8)(ii) of this entry, excluding lands bounded by the following Universal Transverse Mercator (UTM) North American Datum of 1983 (NAD83) coordinates (E, N):

(A) 506793, 3736955; 506803, 3736965; 506858, 3736912; 506834, 3736888; 506826, 3736879; 506771, 3736932; thence returning to 506793, 3736955;

(B) 506995, 3736726; 507035, 3736768; 507090, 3736715; 507050, 3736673; thence returning to 506995, 3736726;

(C) 507212, 3736516; 507248, 3736554; 507295, 3736509; 507260, 3736471; thence returning to 507212, 3736516; and

(D) 512090, 3734474; 512104, 3734481; 512118, 3734488; 512130, 3734464; 512130, 3734464; 512113, 3734456; 512104, 3734464; 512093, 3734472; thence returning to 512090, 3734474.

* * * * *

Alabama Beach Mouse (Peromyscus polionotus ammobates)

(1) * * * The maps provided are for informational purposes only.

* * * * *

Choctawhatchee Beach Mouse (Peromyscus polionotus allophrys)

* * * * *

(6) * * *

(ii) Map of Unit CBM—Unit 1 is provided at paragraph (7)(ii) of this entry.

* * * * *

(8) * * *

(ii) Map of Unit CBM—Unit 3 is provided at paragraph (9)(ii) of this entry.

* * * * *

Perdido Key Beach Mouse (Peromyscus polionotus trissyllepsis)

(1) * * * The maps provided are for informational purposes only.

* * * * *

Preble's Meadow Jumping Mouse (Zapus hudsonius preblei)

(1) * * * The maps provided are for informational purposes only.

* * * * *

St. Andrew Beach Mouse (Peromyscus polionotus peninsularis)

* * * * *

(7) * * *

(ii) Map of SABM—Unit 2 is provided at paragraph (8)(ii) of this entry.

* * * * *

Northern Sea Otter (Enhydra lutris kenyoni), Southwest Alaska Distinct Population Segment

(1) * * * The index map provided is for informational purposes only.

* * * * *

Silver Rice Rat (Oryzomys palustris natator (=O. argentatus))

* * * * *

Note: The map provided is for informational purposes only. Map follows:

* * * * *

Sierra Nevada Bighorn Sheep (Ovis canadensis sierrae)

* * * * *

(6) * * *

(i) Unit 1 is shown on the map in paragraph (6)(ii) of this entry, excluding land bounded by 304870, 4211718; 304755, 4211663; 304590, 4211666; 304426, 4211699; 304273, 4211615; 304237, 4211614; 304100, 4211575; 304119, 4211576; 304068, 4211562; 304036, 4211567; 303925, 4211593; 303824, 4211552; 303714, 4211495; 303668, 4211501; 303558, 4211486; 303473, 4211423; 303421, 4211366; 303381, 4211308; 303223, 4211322; 303176, 4211295; 303181, 4211202; 303103, 4211161; 303208, 4210962; 303418, 4211073; 303481, 4211022; 303500, 4211020; 303617, 4211098; 303675, 4211109; 303894, 4211096; 303983, 4211127; 304053, 4211125; 304053, 4211124; 304106, 4211121; 304460, 4211207; 304518, 4211250; 304590, 4211261; 304644, 4211303; 304747, 4211336; 304863, 4211395; 304882, 4211457; 305018, 4211524; 305128, 4211543; 305289, 4211677; 305397, 4211739; 305477, 4211807; 305515, 4211863; 305405, 4211903; 305374, 4211907; 305176, 4211813; 305029, 4211770; returning to 304870, 4211718.

* * * * *

(9) * * *

(i) Unit 4 is shown on the map in paragraph (9)(ii) of this entry, excluding

(A) Land bounded by 352666, 4139452; 352330, 4139197; 352261, 4139018; 352280, 4139004; 352300, 4138988; 352332, 4138964; 352634, 4139235; 352732, 4139417; 352718, 4139424; 352718, 4139425; 352694, 4139437; 352694, 4139437; 352690, 4139439; 352687, 4139441; 352687, 4139441; returning to 352666, 4139452;

(B) Land bounded by 350254, 4136280; 350216, 4136187; 350216, 4136187; 350178, 4136094; 350363, 4136018; 350402, 4136111; 350402, 4136111; 350440, 4136204; 350478, 4136296; 350305, 4136368; 350300, 4136361; 350295, 4136351; 350293, 4136348; 350287, 4136341; 350283, 4136338; 350280, 4136335; 350276, 4136333; 350276, 4136333; returning to 350254, 4136280; and

(C) Land bounded by 349527, 4136002; 349500, 4136201; 349450, 4136194; 349408, 4136200; 349404, 4136201; 349391, 4136206; 349321, 4136238; 349317, 4136223; 349126, 4136278; 349099, 4136181; 349045, 4135990; 349139, 4135963; 349138, 4135962; 349235, 4135934; 349212, 4135851; 349308, 4135823; 349406, 4135799; 349478, 4135988; 349478, 4135995; returning to 349527, 4136002.

* * * * *

Mount Graham Red Squirrel (Tamiasciurus hudsonicus grahamensis)

* * * * *

Note: The map provided is for informational purposes only. Map follows:

* * * * *

Amargosa Vole (Microtus californicus scirpensis)

Note: The map provided is for informational purposes only. Map follows:

* * * * *

(b) Birds.

Akekee (Loxops caeruleirostris)

(1) * * * The maps provided are for informational purposes only.

* * * * *

Akikiki (Oreomystis bairdi)

(1) * * * The maps provided are for informational purposes only.

* * * * *

Whooping Crane (Grus americana)

* * * * *

Note: The map provided is for informational purposes only. Map follows:

* * * * *

Note: The map provided is for informational purposes only. Map follows:

* * * * *

Note: The map provided is for informational purposes only. Map follows:

* * * * *

Note: The map provided is for informational purposes only. Map follows:

* * * * *

Mariana Crow (Corvus kubaryi)

* * * * *

(4) * * *

(iii) * * *

(A) Subunit B-1 excludes seven areas:

* * * * *

Spectacled Eider (Somateria fischeri)

1. * * * The maps provided are for informational purposes only. * * *

* * * * *

Oahu Elepaio (Chasiempis sandwichensis ibidis)

(1) * * * The maps provided are for informational purposes only.

* * * * *

Coastal California Gnatcatcher (Polioptila californica californica)

* * * * *

(6) * * *

(i) Unit 1 excludes land bounded by the following UTM NAD27 coordinates (E, N):

(A) 502178, 3637276; 502177, 3637276; 501978, 3637278; 501980, 3637232; 501981, 3637232; 501994, 3637232; 502031, 3637232; 502061, 3637232; 502114, 3637232; 502146, 3637232; 502181, 3637232; 502184, 3637232; 502201, 3637232; 502221, 3637232; 502240, 3637232; 502260, 3637231; 502280, 3637231; 502300, 3637231; 502321, 3637230; 502338, 3637230; 502366, 3637229; 502365, 3637274; 502184, 3637276.

(B) 510284, 3634915; 510296, 3634942; 510326, 3634956; 510366, 3634970; 510406, 3634967; 510441, 3634947; 510476, 3634940; 510494, 3634910; 510509, 3634845; 510477, 3634753; 510510, 3634757; 510534, 3634749; 510554, 3634730; 510577, 3634712; 510604, 3634705; 510627, 3634714; 510623, 3634743; 510621, 3634777; 510627, 3634803; 510633, 3634847; 510656, 3634854; 510663, 3634868; 510681, 3634891; 510708, 3634903; 510727, 3634910; 510748, 3634933; 510791, 3634964; 510774, 3634965; 510746, 3634975; 510703, 3634974; 510677, 3634985; 510657, 3634996; 510644, 3635018; 510627, 3635037; 510617, 3635064; 510615, 3635089; 510621, 3635119; 510632, 3635145; 510650, 3635170; 510671, 3635183; 510692, 3635189; 510715, 3635194; 510791, 3635240; 510785, 3635318; 510808, 3635363; 510842, 3635380; 510879, 3635382; 510902, 3635382; 510933, 3635386; 510961, 3635384; 510982, 3635375; 510989, 3635365; 511006, 3635353; 511030, 3635355; 511055, 3635355; 511078, 3635373; 511112, 3635388; 511146, 3635410; 511189, 3635416; 511244, 3635406; 511265, 3635408; 511274, 3635433; 511290, 3635439; 511293, 3635465; 511315, 3635504; 511337, 3635539; 511354, 3635548; 511388, 3635619; 511350, 3635596; 511323, 3635588; 511308, 3635560; 511277, 3635527; 511231, 3635506; 511202, 3635490; 511169, 3635485; 511132, 3635496; 511064, 3635529; 511042, 3635544; 511015, 3635556; 510984, 3635553; 510963, 3635566; 510952, 3635592; 510949, 3635623; 510960, 3635651; 510962, 3635677; 510956, 3635703; 510962, 3635727; 510974, 3635756; 510959, 3635776; 510908, 3635689; 510875, 3635617; 510850, 3635584; 510829, 3635568; 510798, 3635566; 510782, 3635582; 510775, 3635597; 510766, 3635606; 510742, 3635580; 510723, 3635567; 510713, 3635567; 510713, 3635592; 510719, 3635624; 510719, 3635652; 510698, 3635701; 510689, 3635746; 510677, 3635848; 510685, 3635890; 510710, 3635923; 510736, 3635949; 510737, 3635965; 510756, 3635991; 510770, 3636004; 510793, 3635998; 510791, 3636004; 510793, 3636035; 510823, 3636097; 510791, 3636074; 510770, 3636048; 510741, 3636025; 510712, 3636012; 510687, 3635991; 510646, 3635988; 510622, 3636004; 510620, 3636032; 510597, 3636027; 510589, 3636056; 510556, 3636014; 510563, 3636005; 510573, 3635986; 510567, 3635955; 510570, 3635920; 510557, 3635885; 510552, 3635858; 510563, 3635825; 510573, 3635790; 510541, 3635700; 510505, 3635663; 510531, 3635631; 510548, 3635599; 510559, 3635560; 510559, 3635522; 510556, 3635465; 510539, 3635419; 510458, 3635380; 510429, 3635421; 510425, 3635473; 510399, 3635546; 510388, 3635583; 510358, 3635543; 510274, 3635591; 510238, 3635591; 510215, 3635557; 510188, 3635298; 510173, 3635207; 510161, 3635114; 510159, 3635019; 510159, 3634911; 510187, 3634878; 510273, 3634898.

(C) 506682, 3621550; 506686, 3621550; 506686, 3621550; 506687, 3621529; 506808, 3621536; 506800, 3621660; 506794, 3621660; 506792, 3621686; 506671, 3621673.

(D) 506187, 3621805; 506178, 3621773; 506176, 3621764; 506176, 3621764; 506185, 3621761; 506184, 3621757; 506234, 3621742; 506247, 3621782; 506236, 3621786; 506238, 3621791; 506220, 3621796.

(E) 505512, 3621342; 505467, 3621263; 505439, 3621174; 505417, 3621134; 505381, 3621102; 505331, 3621007; 505327, 3620957; 505289, 3620909; 505307, 3620898; 505324, 3620919; 505332, 3620915; 505345, 3620930; 505362, 3620948; 505394, 3621024; 505408, 3621058; 505429, 3621087; 505463, 3621131; 505485, 3621161; 505485, 3621161; 505477, 3621165; 505477, 3621165; 505561, 3621314; 505520, 3621338.

(F) 504820, 3615789; 504819, 3615718; 504819, 3615670; 505229, 3615660; 505228, 3615602; 505227, 3615537; 505225, 3615435; 505325, 3615434; 505324, 3615404; 505325, 3615404; 505326, 3615444; 505226, 3615445; 505230, 3615681; 505230, 3615681; 504832, 3615678; 504831, 3615789.

* * * * *

(8) * * *

(i) Unit 3 excludes land bounded by the following UTM NAD27 coordinates (E, N):

(A) 466299, 3675700; 466168, 3675903; 466115, 3675831; 466043, 3675831; 466043, 3675721; 466024, 3675695; 465956, 3675698; 465960, 3675608; 466005, 3675596; 466047, 3675623; 466066, 3675540; 465998, 3675479; 465930, 3675479; 465899, 3675453; 465778, 3675347; 465778, 3675044; 465779, 3675036; 466150, 3675053; 466364, 3675147; 466394, 3675211; 466424, 3675305; 466510, 3675361; 466529, 3675389; 466538, 3675422; 466493, 3675460; 466489, 3675385; 466308, 3675358; 466225, 3675464; 466342, 3675634; 466300, 3675699; 466300, 3675700.

(B) 468627, 3675422; 468626, 3675421; 468624, 3675421; 468623, 3675420; 468622, 3675419; 468620, 3675418; 468619, 3675417; 468618, 3675417; 468617, 3675416; 468615, 3675415; 468614, 3675414; 468613, 3675413; 468612, 3675412; 468611, 3675411; 468576, 3675383; 468585, 3675358; 468592, 3675340; 468598, 3675322; 468605, 3675303; 468611, 3675286; 468618, 3675267; 468625, 3675249; 468632, 3675230; 468639, 3675211; 468646, 3675190; 468655, 3675166; 468659, 3675153; 468671, 3675120; 468672, 3675122; 468672, 3675123; 468672, 3675125; 468672, 3675126; 468672, 3675128; 468672, 3675129; 468673, 3675131; 468673, 3675132; 468673, 3675134; 468674, 3675135; 468674, 3675136; 468675, 3675138; 468675, 3675139; 468676, 3675141; 468676, 3675142; 468677, 3675144; 468677, 3675145; 468678, 3675146; 468679, 3675148; 468680, 3675149; 468680, 3675150; 468681, 3675152; 468682, 3675153; 468683, 3675154; 468684, 3675155; 468685, 3675157; 468686, 3675158; 468687, 3675159; 468688, 3675160; 468689, 3675161; 468690, 3675162; 468691, 3675163; 468692, 3675164; 468693, 3675165; 468695, 3675166; 468696, 3675167; 468697, 3675168; 468698, 3675169; 468700, 3675170; 468701, 3675170; 468702, 3675171; 468703, 3675172; 468705, 3675173; 468706, 3675174; 468707, 3675175; 468708, 3675176; 468709, 3675178; 468710, 3675179; 468711, 3675180; 468712, 3675181; 468713, 3675182; 468698, 3675223; 468690, 3675248; 468683, 3675267; 468676, 3675285; 468669, 3675305; 468662, 3675324; 468656, 3675343; 468649, 3675361; 468642, 3675381; 468635, 3675400.

(C) 468576, 3675565; 468544, 3675538; 468526, 3675523; 468559, 3675431; 468570, 3675402; 468599, 3675425; 468600, 3675426; 468601, 3675427; 468603, 3675428; 468604, 3675429; 468605, 3675430; 468606, 3675431; 468607, 3675431; 468609, 3675432; 468610, 3675433; 468611, 3675434; 468613, 3675435; 468614, 3675435; 468615, 3675436; 468617, 3675437; 468618, 3675438; 468619, 3675438; 468621, 3675439; 468621, 3675439; 468610, 3675472.

(D) 497956, 3669589; 498160, 3669567; 498162, 3669567; 498240, 3669558; 498258, 3669556; 498250, 3669607; 498283, 3669607; 498283, 3669643; 498250, 3669640; 498247, 3669670; 498202, 3669670; 498187, 3669703; 498164, 3669709; 498161, 3669732; 498134, 3669735; 498128, 3669768; 497999, 3669762; 498005, 3669694; 497961, 3669697; 497961, 3669697; 497956, 3669697.

(E) 496241, 3669292; 496264, 3669299; 496298, 3669307; 496321, 3669326; 496324, 3669349; 496319, 3669376; 496322, 3669391; 496339, 3669432; 496380, 3669467; 496399, 3669480; 496427, 3669501; 496445, 3669531; 496448, 3669556; 496413, 3669573; 496344, 3669572; 496289, 3669563; 496231, 3669553; 496216, 3669543; 496220, 3669289.

(F) 497814, 3670051; 497691, 3669856; 497574, 3669769; 497592, 3669667; 497628, 3669659; 497650, 3669648; 497659, 3669675; 497731, 3669769; 497793, 3669800; 497858, 3669818; 497858, 3669842; 497855, 3669873; 497957, 3669924; 497957, 3669847; 497999, 3669852; 497999, 3669825; 498071, 3669828; 498062, 3669947; 498035, 3669947; 498032, 3669980; 497979, 3669980; 497979, 3670034; 497955, 3670040; 497955, 3670058; 497817, 3670061; 497813, 3670051.

(G) 490504, 3670067; 490502, 3670067; 490501, 3670068; 490500, 3670069; 490499, 3670070; 490497, 3670070; 490496, 3670071; 490495, 3670072; 490493, 3670073; 490492, 3670073; 490491, 3670074; 490489, 3670075; 490488, 3670076; 490487, 3670077; 490485, 3670077; 490484, 3670078; 490484, 3670078; 490482, 3670079; 490481, 3670079; 490479, 3670079; 490478, 3670079; 490476, 3670078; 490475, 3670077; 490474, 3670076; 490474, 3670076; 490456, 3670049; 490460, 3670049; 490508, 3670048; 490504, 3670066.

(H) 490396, 3670451; 490431, 3670451; 490464, 3670452; 490512, 3670631; 490521, 3670668; 490533, 3670711; 490544, 3670754; 490563, 3670826; 490563, 3670826; 490563, 3670826; 490576, 3670875; 490589, 3670923; 490613, 3671012; 490624, 3671056; 490635, 3671098; 490577, 3671114; 490562, 3671118; 490547, 3671122; 490546, 3671117; 490518, 3671012; 490510, 3670983; 490485, 3670888; 490477, 3670856; 490474, 3670848; 490430, 3670681; 490401, 3670571; 490382, 3670576; 490380, 3670568; 490344, 3670450.

(I) 478427, 3664552; 478445, 3664555; 478472, 3664560; 478500, 3664570; 478514, 3664586; 478514, 3664605; 478503, 3664621; 478505, 3664643; 478520, 3664661; 478534, 3664676; 478539, 3664707; 478534, 3664727; 478508, 3664749; 478484, 3664765; 478475, 3664786; 478470, 3664815; 478478, 3664905; 478489, 3664950; 478499, 3664972; 478514, 3664990; 478534, 3665004; 478544, 3665029; 478549, 3665061; 478541, 3665100; 478521, 3665136; 478514, 3665144; 478503, 3665143; 478493, 3665132; 478477, 3665113; 478429, 3665019; 478397, 3664972; 478387, 3664934; 478385, 3664897; 478386, 3664848; 478370, 3664805; 478364, 3664762; 478364, 3664707; 478336, 3664649; 478332, 3664620; 478352, 3664588; 478388, 3664559; 478417, 3664551.

(J) 481458, 3661671; 481178, 3661673; 481159, 3661674; 481159, 3661673; 481137, 3661659; 481167, 3661658; 481477, 3661655; 481477, 3661671.

(K) 481109, 3661659; 481131, 3661674; 481109, 3661674; 481078, 3661674; 481077, 3661674; 481075, 3661674; 480911, 3661676; 480895, 3661676; 480711, 3661678; 480721, 3661667; 480727, 3661661; 480727, 3661661; 480728, 3661660; 480729, 3661659; 480730, 3661658; 480731, 3661656; 480732, 3661655; 480733, 3661654; 480734, 3661653; 480735, 3661652; 480736, 3661651; 480771, 3661606; 480772, 3661605; 480773, 3661604; 480774, 3661603; 480775, 3661602; 480776, 3661601; 480777, 3661600; 480778, 3661599; 480779, 3661598; 480781, 3661597; 480782, 3661596; 480783, 3661595; 480784, 3661594; 480786, 3661594; 480787, 3661593; 480788, 3661592; 480790, 3661591; 480791, 3661591; 480793, 3661590; 480793, 3661590; 480794, 3661590; 480843, 3661567; 480845, 3661571; 480899, 3661545; 480903, 3661543; 480907, 3661542; 480914, 3661541; 480920, 3661541; 480925, 3661541; 480933, 3661543; 480938, 3661545; 480942, 3661546; 480946, 3661548; 480964, 3661560; 480969, 3661564; 480973, 3661567; 481075, 3661642; 481075, 3661659.

(L) 482060, 3660866; 482119, 3661074; 482021, 3661208; 481862, 3661306; 481672, 3661355; 481427, 3661377; 481422, 3661445; 481251, 3661481; 481066, 3661377; 481068, 3661064; 481093, 3660981; 481093, 3660893; 481200, 3660849; 481261, 3660763; 481388, 3660671; 481532, 3660663; 481691, 3660710; 481811, 3660680; 481838, 3660624; 481921, 3660585; 482009, 3660673; 482065, 3660776.

(M) 482222, 3659770; 482283, 3659774; 482483, 3659767; 482510, 3659640; 482610, 3659643; 482613, 3659873; 482719, 3659883; 482707, 3659955; 482731, 3660034; 482779, 3659995; 482816, 3659910; 482831, 3659843; 482788, 3659761; 482752, 3659698; 482716, 3659634; 482649, 3659595; 482607, 3659510; 482604, 3659468; 482667, 3659371; 482601, 3659374; 482616, 3659198; 482722, 3659155; 482776, 3659116; 482843, 3659149; 482967, 3659162; 483164, 3659165; 483245, 3659150; 483247, 3659152; 483297, 3659146; 483397, 3659083; 483455, 3659071; 483437, 3659131; 483397, 3659262; 483428, 3659343; 483449, 3659443; 483516, 3659504; 483516, 3659561; 483519, 3659792; 483631, 3659795; 483628, 3659577; 483822, 3659568; 483809, 3659207; 483991, 3659201; 484037, 3659192; 484115, 3659131; 484185, 3659122; 484206, 3659575; 483922, 3659589; 483922, 3659604; 483837, 3659613; 483831, 3659986; 483900, 3660004; 483900, 3660058; 483931, 3660073; 483925, 3660146; 483806, 3660146; 483746, 3660152; 483722, 3660183; 483706, 3660267; 483609, 3660355; 483613, 3660410; 483491, 3660419; 483470, 3660067; 483461, 3660092; 483428, 3660128; 483364, 3660152; 483349, 3660179; 483304, 3660189; 483294, 3660237; 483279, 3660255; 483270, 3660295; 483182, 3660298; 483176, 3660337; 483143, 3660361; 483155, 3660482; 483097, 3660495; 483013, 3660434; 482976, 3660325; 482876, 3660414; 482871, 3660414; 482685, 3660734; 482698, 3660828; 482940, 3660852; 482907, 3660910; 482910, 3661043; 482885, 3661043; 482788, 3660888; 482792, 3661046; 482907, 3661146; 482904, 3661191; 482737, 3661200; 482731, 3661116; 482707, 3661116; 482704, 3661013; 482579, 3661022; 482579, 3661043; 482610, 3661055; 482607, 3661073; 482579, 3661079; 482579, 3661134; 482604, 3661143; 482637, 3661170; 482640, 3661225; 482292, 3661222; 482291, 3661178; 482291, 3661140; 482296, 3660467; 482280, 3660467; 482280, 3660461; 482283, 3660213; 482398, 3660222; 482452, 3660170; 482507, 3660113; 482640, 3660010; 482271, 3660030; 482204, 3660034; 482205, 3660014.

(N) 484270, 3659831; 484228, 3659834; 484234, 3659574; 484223, 3659574; 484331, 3659349; 484312, 3659334; 484270, 3659301; 484273, 3659255; 484315, 3659228; 484394, 3659219; 484473, 3659043; 484512, 3659028; 484576, 3659013; 484622, 3658986; 484611, 3659016; 484685, 3659025; 484740, 3659083; 484749, 3659165; 484779, 3659259; 484883, 3659366; 484964, 3659449; 484982, 3659513; 485045, 3659598; 485121, 3659616; 485221, 3659655; 485224, 3659698; 485079, 3659922; 485073, 3659989; 484685, 3659976; 484727, 3659828; 484636, 3659798; 484603, 3659783; 484582, 3659813; 484537, 3659780; 484506, 3659722; 484437, 3659677; 484385, 3659616; 484337, 3659652; 484312, 3659677; 484337, 3659731; 484473, 3659822; 484467, 3659998; 484355, 3660001; 484331, 3659961; 484309, 3659937; 484270, 3659937.

(O) 480469, 3662072; 480641, 3661757; 480663, 3661718; 480664, 3661716; 480663, 3661812; 480521, 3662072.

* * * * *

(9) * * *

(i) Unit 5 excludes land bounded by the following UTM NAD27 coordinates (E, N):

(A) 483452, 3697555; 483350, 3697542; 483196, 3697434; 483371, 3697277; 483411, 3697277; 483568, 3697188; 483677, 3697243; 483765, 3697290; 483935, 3697195; 483969, 3697243; 484064, 3697460; 484254, 3697487; 484342, 3697535; 484512, 3697705; 484500, 3698094; 484500, 3698100; 484500, 3698100; 484499, 3698133; 484669, 3698303; 484669, 3698833; 484560, 3698860; 484553, 3699026; 484553, 3699030; 484539, 3699026; 484376, 3698982; 484376, 3698799; 484342, 3698785; 484139, 3698656; 484003, 3698595; 483955, 3698432; 483880, 3698445; 483826, 3698391; 483826, 3698323; 483704, 3698316; 483697, 3698146; 483609, 3697949; 483547, 3697630.

(B) 481384, 3696569; 481521, 3696524; 481560, 3696502; 481592, 3696518; 481614, 3696896; 481653, 3696995; 481685, 3697030; 481755, 3696905; 481807, 3696921; 481819, 3697203; 481723, 3697184; 481765, 3697293; 481781, 3697418; 481903, 3697425; 481903, 3697389; 482040, 3697405; 482121, 3697380; 482242, 3697405; 482387, 3697466; 482364, 3697527; 482252, 3697527; 482249, 3697630; 482105, 3697524; 482063, 3697598; 482098, 3697684; 482137, 3697690; 482137, 3697755; 481989, 3697729; 481989, 3697620; 481829, 3697604; 481688, 3697652; 481563, 3697697; 481500, 3697699; 481500, 3697700; 481483, 3697700; 481403, 3697703; 481246, 3697723; 481102, 3697716; 481092, 3697607; 481191, 3697575; 481230, 3697575; 481230, 3697562; 481066, 3697540; 481118, 3697466; 481073, 3697431; 480980, 3697396; 480980, 3697306; 480980, 3697072; 481124, 3697104; 481179, 3697072; 481236, 3696998; 481294, 3696970; 481387, 3696979; 481483, 3697037; 481457, 3696966; 481409, 3696915; 481118, 3696912; 481118, 3696825; 481130, 3696726; 481060, 3696704; 481073, 3696806; 480999, 3696912; 480964, 3696941; 480970, 3697072; 480845, 3697046; 480839, 3696899; 480954, 3696902; 480964, 3696639; 481006, 3696588; 480970, 3696531; 481002, 3696460; 481114, 3696476; 481175, 3696434; 481206, 3696404; 481225, 3696399; 481371, 3696409.

(C) 484902, 3696525; 484974, 3696633; 485107, 3696822; 485079, 3696845; 484977, 3696836; 484965, 3696892; 485085, 3697047; 485032, 3697150; 484921, 3697142; 484907, 3697064; 484860, 3697028; 484777, 3697031; 484663, 3696958; 484518, 3696747; 484393, 3696658; 484388, 3696564; 484274, 3696575; 484213, 3696395; 484124, 3696386; 484121, 3696309; 484193, 3696275; 484324, 3696331; 484510, 3696386; 484610, 3696459.

(D) 484190, 3695014; 484183, 3695013; 484145, 3694889; 484187, 3694904.

(E) 481586, 3699023; 481398, 3699023; 481024, 3699021; 480874, 3699020; 480839, 3699020; 480777, 3699021; 480771, 3699020; 480765, 3699020; 480606, 3699020; 480605, 3699020; 480443, 3699019; 480341, 3699018; 480334, 3699018; 480329, 3699018; 480316, 3699018; 480293, 3699017; 480190, 3699016; 480181, 3699016; 480173, 3699016; 480044, 3699017; 480017, 3699017; 480013, 3699017; 479816, 3699016; 479742, 3699016; 479725, 3699015; 479703, 3699015; 479652, 3699015; 479359, 3699013; 479359, 3698985; 479358, 3698949; 479671, 3698952; 479683, 3698887; 479690, 3698889; 479691, 3698884; 479733, 3698896; 479768, 3698890; 479811, 3698903; 479812, 3698904; 479813, 3698905; 479815, 3698906; 479816, 3698907; 479817, 3698907; 479818, 3698908; 479820, 3698909; 479839, 3698953; 479888, 3698952; 479921, 3698953; 480180, 3698954; 480211, 3698955; 480224, 3698955; 480250, 3698955; 480264, 3698955; 480309, 3698955; 480324, 3698955; 480429, 3698956; 480434, 3698956; 480442, 3698956; 480444, 3698956; 480603, 3698957; 481022, 3698957; 481398, 3698958; 481416, 3698958; 481581, 3698957; 481656, 3698957; 481868, 3698957; 481871, 3699025; 481660, 3699024.

(F) 487429, 3690440; 487459, 3690484; 487495, 3690333; 487491, 3690321; 487463, 3690185; 487469, 3689913; 487474, 3689613; 487395, 3689573; 487384, 3689499; 487446, 3689398; 487486, 3689392; 487520, 3689364; 487622, 3689205; 487695, 3689120; 487707, 3689035; 487701, 3688900; 487700, 3688900; 487700, 3688884; 487678, 3688389; 487823, 3688217; 488066, 3688110; 488154, 3688208; 488313, 3688225; 488364, 3688372; 488415, 3688355; 488550, 3688276; 488584, 3688146; 488675, 3688135; 488675, 3688401; 488760, 3688440; 488811, 3688474; 488811, 3688548; 488794, 3688588; 488743, 3688559; 488675, 3688571; 488664, 3688644; 488709, 3688760; 488680, 3688792; 488377, 3689129; 488252, 3689267; 488250, 3689267; 488143, 3689488; 488131, 3689601; 488109, 3689896; 488086, 3689970; 488046, 3690066; 488041, 3690207; 488080, 3690275; 488154, 3690264; 488177, 3690156; 488205, 3690117; 488250, 3690111; 488262, 3690315; 488284, 3690360; 488284, 3690508; 488046, 3690508; 488029, 3690530; 487944, 3690549; 487932, 3690630; 487967, 3690666; 487882, 3690745; 487848, 3690853; 487854, 3690932; 487888, 3690995; 487882, 3691080; 487656, 3691068; 487610, 3691029; 487571, 3690802; 487469, 3690802; 487406, 3690519.

(G) 486340, 3685163; 486663, 3685169; 486674, 3684932; 486542, 3684892; 486357, 3684731; 486311, 3684511; 486294, 3684264; 486346, 3683820; 486340, 3683381; 486366, 3683305; 486422, 3683338; 486787, 3683310; 486984, 3683254; 487013, 3683224; 487121, 3683287; 487123, 3683308; 487128, 3683311; 487130, 3683358; 487376, 3683604; 487475, 3683660; 487531, 3683857; 487755, 3683857; 487853, 3684067; 487841, 3684086; 487713, 3684278; 487475, 3684292; 487432, 3684081; 487432, 3683885; 487194, 3683787; 487096, 3684334; 487026, 3684628; 487306, 3684628; 487475, 3684572; 487797, 3684600; 487895, 3684755; 487811, 3684839; 487531, 3684853; 487208, 3684783; 486998, 3684881; 486871, 3685119; 486871, 3685386; 487012, 3685596; 487137, 3686264; 487217, 3686264; 487228, 3686236; 487335, 3686222; 487347, 3686199; 487372, 3686194; 487372, 3686169; 487349, 3686169; 487354, 3686132; 487368, 3686122; 487395, 3686104; 487402, 3686053; 487430, 3686039; 487440, 3685988; 487502, 3685979; 487507, 3686027; 487625, 3686153; 487648, 3686157; 487676, 3686171; 487704, 3686166; 487804, 3686162; 487804, 3686306; 487834, 3686338; 487862, 3686361; 487857, 3686739; 487806, 3686749; 487797, 3686784; 487586, 3686784; 487586, 3686726; 487551, 3686719; 487400, 3686723; 487393, 3686774; 487375, 3686781; 487372, 3686814; 487273, 3686816; 487279, 3686862; 487163, 3686867; 487163, 3686837; 487076, 3686825; 486998, 3687139; 486731, 3687139; 486661, 3687420; 486633, 3687855; 486815, 3688079; 487096, 3688500; 487180, 3688640; 487180, 3688837; 486927, 3688837; 486647, 3688584; 486380, 3688556; 486226, 3688795; 486228, 3689035; 486254, 3689286; 486438, 3689516; 487038, 3689239; 487027, 3689652; 486874, 3689692; 486773, 3689875; 486759, 3690085; 486619, 3690212; 486493, 3690352; 486493, 3690534; 486450, 3690618; 486268, 3690450; 486212, 3690310; 486142, 3690155; 485917, 3690001; 485861, 3689566; 486072, 3689244; 486156, 3688444; 485356, 3687953; 485244, 3687616; 485245, 3687612; 485250, 3687593; 485300, 3687402; 485300, 3687400; 485300, 3687400; 485403, 3687007; 485412, 3687002; 485483, 3687027; 485570, 3686920; 485889, 3686331; 486038, 3686253; 486200, 3686201; 486200, 3686200; 486203, 3686200; 486279, 3686175; 486357, 3685977; 486357, 3685867; 486318, 3685750; 486227, 3685643; 486239, 3685532; 486248, 3685521; 486237, 3685509; 486254, 3685221; 486268, 3685221; 486277, 3685221; 486326, 3685176.

(H) 485279, 3680882; 485306, 3680969; 485337, 3681064; 485371, 3681151; 485371, 3681152; 485255, 3681155; 485246, 3681121; 485192, 3681123; 485192, 3681095; 485163, 3681095; 485160, 3681066; 485195, 3681064; 485194, 3680817; 485061, 3680816; 485064, 3680788; 485131, 3680789; 485131, 3680763; 485213, 3680759; 485223, 3680725; 485246, 3680729.

(I) 480199, 3680423; 480069, 3680417; 479977, 3680531; 479815, 3680347; 480196, 3680357; 480345, 3680576; 480409, 3680569; 480419, 3680668; 480203, 3680658.

(J) 480496, 3680485; 480449, 3680438; 480443, 3680331; 480442, 3680318; 480626, 3680088; 480573, 3680054; 480376, 3680044; 480386, 3679944; 480747, 3679947; 480797, 3680124; 480934, 3679977; 480964, 3679950; 480934, 3679954; 480937, 3679931; 480985, 3679932; 480997, 3679921; 480994, 3679533; 481388, 3679547; 481391, 3679941; 481017, 3679932; 481010, 3679944; 481010, 3680234; 480990, 3680236; 481012, 3680492; 480927, 3680555; 480848, 3680567; 480768, 3680633; 480646, 3680698; 480587, 3680717; 480557, 3680738; 480498, 3680659.

(K) 481186, 3678938; 481307, 3678984; 481438, 3678919; 481494, 3678667; 481624, 3678555; 481811, 3678481; 481913, 3678499; 482091, 3678285; 482259, 3678052; 482417, 3677865; 482455, 3677650; 482585, 3677445; 482734, 3677343; 482987, 3677334; 482948, 3677417; 482940, 3677520; 482800, 3677622; 482744, 3677772; 482594, 3677940; 482473, 3678098; 482501, 3678201; 482408, 3678322; 482221, 3678378; 482119, 3678518; 482025, 3678565; 481969, 3678611; 481960, 3678677; 481792, 3678723; 481755, 3678891; 481764, 3679087; 481186, 3679162.

(L) 486761, 3676144; 486926, 3675728; 486943, 3675686; 486957, 3675650; 486955, 3675649; 487099, 3675368; 487138, 3675426; 487319, 3675757; 487348, 3676085; 487320, 3676632; 487208, 3677502; 487110, 3677432; 486885, 3677390; 486661, 3677530; 486605, 3677713; 486352, 3677713; 486548, 3676944; 486550, 3676942.

* * * * *

(11) * * *

(i) Unit 7 excludes land bounded by the following UTM NAD27 coordinates (E, N):

(A) 427280, 3738801; 427329, 3738859; 427365, 3738879; 427333, 3738938; 427232, 3738884; 427235, 3738870; 427240, 3738856; 427231, 3738844; 427235, 3738831; 427255, 3738801.

(B) 426475, 3738412; 426469, 3738431; 426463, 3738449; 426464, 3738471; 426464, 3738488; 426456, 3738499; 426454, 3738515; 426462, 3738526; 426479, 3738537; 426480, 3738529; 426488, 3738522; 426502, 3738525; 426518, 3738537; 426538, 3738545; 426542, 3738538; 426542, 3738525; 426540, 3738505; 426533, 3738484; 426526, 3738459; 426519, 3738432; 426511, 3738411; 426491, 3738405.

* * * * *

(12) * * *

(i) Unit 8 excludes land bounded by the following UTM NAD27 coordinates (E, N):

(A) 374717, 3735861; 374771, 3735963; 374736, 3736039; 374714, 3736090; 374758, 3736109; 374768, 3736141; 374717, 3736236; 374739, 3736287; 374714, 3736379; 374663, 3736436; 374717, 3736496; 374800, 3736433; 374860, 3736452; 374822, 3736591; 374715, 3736627; 374685, 3736563; 374688, 3736531; 374558, 3736537; 374533, 3736468; 374606, 3736391; 374593, 3736372; 374571, 3736350; 374593, 3736293; 374622, 3736293; 374650, 3736268; 374622, 3736236; 374622, 3736195; 374644, 3736175; 374631, 3736106; 374666, 3736042; 374622, 3735975; 374641, 3735883; 374707, 3735848.

(B) 375495, 3735728; 375546, 3735807; 375603, 3735864; 375616, 3735921; 375555, 3735909; 375479, 3735848; 375463, 3735893; 375530, 3735960; 375584, 3736001; 375625, 3736061; 375708, 3736093; 375777, 3736137; 375787, 3736175; 375692, 3736172; 375603, 3736185; 375596, 3736214; 375606, 3736283; 375593, 3736315; 375536, 3736315; 375523, 3736351; 375476, 3736331; 375473, 3736268; 375479, 3736210; 375485, 3736141; 375454, 3736172; 375390, 3736191; 375352, 3736128; 375352, 3736058; 375339, 3735982; 375317, 3735858; 375362, 3735823; 375365, 3735725; 375438, 3735677.

(C) 375847, 3735410; 375898, 3735445; 375924, 3735477; 375936, 3735534; 375965, 3735534; 375987, 3735566; 375955, 3735607; 375885, 3735626; 375854, 3735661; 375889, 3735702; 376022, 3735652; 376076, 3735744; 376111, 3735756; 376171, 3735807; 376165, 3735861; 376149, 3735915; 376162, 3735966; 376203, 3735972; 376219, 3736010; 376225, 3736087; 376238, 3736137; 376251, 3736214; 376308, 3736207; 376326, 3736273; 376279, 3736283; 376162, 3736341; 376108, 3736318; 376070, 3736315; 376047, 3736341; 376073, 3736385; 376019, 3736423; 375958, 3736458; 375857, 3736388; 375847, 3736334; 375860, 3736283; 375898, 3736245; 375936, 3736248; 375949, 3736207; 376006, 3736153; 376038, 3736106; 376022, 3736023; 376016, 3735969; 375971, 3735982; 375936, 3736017; 375904, 3736064; 375822, 3736058; 375771, 3736039; 375774, 3735925; 375749, 3735934; 375717, 3735909; 375692, 3735848; 375670, 3735788; 375692, 3735763; 375698, 3735740; 375673, 3735702; 375660, 3735648; 375663, 3735623; 375644, 3735591; 375660, 3735556; 375685, 3735521; 375701, 3735493; 375749, 3735452; 375739, 3735410; 375739, 3735363; 375835, 3735353.

(D) 374869, 3735734; 374809, 3735760; 374720, 3735782; 374628, 3735785; 374584, 3735772; 374542, 3735702; 374568, 3735642; 374603, 3735607; 374705, 3735626; 374718, 3735518; 374610, 3735467; 374582, 3735456; 374565, 3735426; 374561, 3735391; 374568, 3735337; 374590, 3735309; 374682, 3735325; 374746, 3735318; 374765, 3735302; 374838, 3735312; 374876, 3735366; 374930, 3735423; 374946, 3735493; 374949, 3735556; 374933, 3735620; 374908, 3735655; 374935, 3735694.

(E) 375263, 3736252; 375269, 3736309; 375285, 3736366; 375308, 3736407; 375339, 3736445; 375377, 3736487; 375428, 3736522; 375514, 3736576; 375577, 3736550; 375625, 3736560; 375692, 3736677; 375638, 3736703; 375508, 3736604; 375431, 3736636; 375352, 3736604; 375346, 3736509; 375260, 3736496; 375228, 3736534; 375158, 3736544; 375092, 3736455; 375098, 3736356; 375114, 3736287; 375120, 3736220; 375122, 3736219.

(F) 375590, 3735321; 375501, 3735340; 375438, 3735366; 375377, 3735398; 375269, 3735525; 375187, 3735585; 375203, 3735677; 375279, 3735680; 375273, 3735756; 375228, 3735810; 375209, 3735893; 375146, 3735928; 375088, 3735852; 375063, 3735779; 375054, 3735737; 375114, 3735687; 375085, 3735626; 375082, 3735579; 375098, 3735521; 375006, 3735442; 374993, 3735340; 374965, 3735283; 374908, 3735232; 374819, 3735172; 374761, 3735163; 374714, 3735128; 374695, 3735086; 374650, 3735017; 374698, 3734966; 374673, 3734858; 374704, 3734829; 374730, 3734788; 374755, 3734731; 374723, 3734686; 374755, 3734645; 374812, 3734686; 374854, 3734683; 374923, 3734642; 374974, 3734683; 374949, 3734721; 374961, 3734766; 374987, 3734817; 374974, 3734845; 374923, 3734845; 374869, 3734877; 374812, 3734893; 374777, 3734918; 374736, 3734940; 374755, 3734978; 374777, 3735004; 374828, 3735061; 374869, 3735118; 374984, 3735163; 375019, 3735232; 375066, 3735290; 375146, 3735337; 375209, 3735252; 375273, 3735315; 375416, 3735242; 375412, 3735220; 375422, 3735156; 375498, 3735061; 375536, 3735112; 375577, 3735175; 375609, 3735258; 375623, 3735294.

(G) 375644, 3734531; 375644, 3734578; 375638, 3734613; 375609, 3734648; 375552, 3734683; 375504, 3734683; 375539, 3734712; 375568, 3734747; 375571, 3734798; 375568, 3734832; 375558, 3734883; 375543, 3734915; 375489, 3734893; 375419, 3734848; 375377, 3734810; 375339, 3734782; 375349, 3734699; 375381, 3734636; 375403, 3734597; 375485, 3734566; 375549, 3734499; 375620, 3734474.

(H) 375374, 3734293; 375381, 3734340; 375365, 3734378; 375336, 3734407; 375298, 3734455; 375292, 3734531; 375241, 3734585; 375177, 3734607; 375127, 3734607; 375108, 3734628; 375082, 3734601; 375025, 3734547; 375028, 3734521; 375050, 3734490; 375123, 3734448; 375193, 3734477; 375215, 3734394; 375273, 3734369; 375292, 3734328; 375317, 3734274.

(I) 372554, 3735106; 372468, 3735135; 372392, 3735150; 372332, 3735096; 372310, 3735030; 372316, 3734960; 372354, 3734912; 372430, 3734855; 372564, 3734734; 372665, 3734674; 372621, 3734601; 372541, 3734525; 372475, 3734519; 372465, 3734468; 372437, 3734430; 372399, 3734395; 372386, 3734353; 372370, 3734343; 372386, 3734334; 372433, 3734312; 372551, 3734299; 372621, 3734271; 372672, 3734242; 372726, 3734198; 372770, 3734157; 372853, 3734096; 372888, 3734125; 372921, 3734182; 372918, 3734230; 372918, 3734255; 372932, 3734265; 372957, 3734242; 372970, 3734230; 372989, 3734236; 373008, 3734258; 373015, 3734287; 373011, 3734331; 373049, 3734598; 373043, 3734785; 373053, 3734830; 373116, 3734792; 373124, 3734781; 373142, 3734754; 373142, 3734749; 373161, 3734668; 373170, 3734560; 373142, 3734461; 373113, 3734366; 373084, 3734319; 373075, 3734284; 373119, 3734246; 373170, 3734246; 373256, 3734252; 373264, 3734251; 373280, 3734234; 373300, 3734168; 373339, 3734141; 373342, 3734138; 373343, 3734138; 373363, 3734125; 373409, 3734151; 373419, 3734201; 373427, 3734201; 373434, 3734185; 373443, 3734172; 373462, 3734163; 373484, 3734166; 373494, 3734182; 373507, 3734182; 373510, 3734181; 373526, 3734176; 373545, 3734157; 373554, 3734157; 373570, 3734157; 373596, 3734166; 373602, 3734192; 373646, 3734195; 373665, 3734157; 373678, 3734144; 373686, 3734142; 373710, 3734138; 373723, 3734134; 373738, 3734138; 373780, 3734303; 373783, 3734372; 373757, 3734468; 373748, 3734531; 373773, 3734582; 373789, 3734607; 373792, 3734658; 373767, 3734706; 373742, 3734719; 373704, 3734719; 373653, 3734677; 373630, 3734658; 373608, 3734639; 373538, 3734709; 373599, 3734769; 373605, 3734807; 373332, 3734903; 373345, 3735014; 373338, 3735049; 373272, 3735071; 373262, 3735115; 373275, 3735176; 373249, 3735217; 373116, 3735296; 373024, 3735315; 373024, 3735582; 372964, 3735576; 372922, 3735554; 372884, 3735449; 372878, 3735357; 372872, 3735309; 372859, 3735281; 372884, 3735242; 372919, 3735227; 372961, 3735198; 372989, 3735150; 373015, 3735112; 373015, 3735100; 372983, 3735090; 372932, 3735112; 372853, 3735087; 372776, 3735074; 372729, 3735049; 372735, 3735011; 372741, 3734985; 372751, 3734969; 372618, 3734954; 372551, 3734944; 372551, 3734998; 372583, 3735033; 372586, 3735065; 372578, 3735075; 372578, 3735078; 372576, 3735078.

(J) 374061, 3737786; 374013, 3737868; 373975, 3737938; 373972, 3737989; 374000, 3738087; 373975, 3738125; 373956, 3738170; 373937, 3738214; 373959, 3738240; 374004, 3738268; 374064, 3738278; 374124, 3738259; 374178, 3738221; 374219, 3738195; 374254, 3738154; 374267, 3738132; 374258, 3738100; 374216, 3738055; 374181, 3738011; 374159, 3737957; 374153, 3737903; 374145, 3737858; 374137, 3737846; 374115, 3737808; 374099, 3737786.

* * * * *

(13) * * *

(i) Unit 9 excludes land bounded by the following UTM NAD27 coordinates (E, N): 418541, 3755066; 418231, 3755073; 418244, 3755423; 418551, 3755416.

* * * * *

(14) * * *

(i) Unit 10 excludes land bounded by the following UTM NAD27 coordinates (E, N):

(A) 497619, 3716257; 497604, 3716268; 497581, 3716300; 497571, 3716311; 497557, 3716324; 497542, 3716337; 497528, 3716347; 497513, 3716355; 497500, 3716364; 497491, 3716373; 497484, 3716384; 497484, 3716395; 497492, 3716404; 497507, 3716411; 497522, 3716414; 497549, 3716413; 497559, 3716418; 497572, 3716422; 497588, 3716426; 497608, 3716426; 497622, 3716419; 497635, 3716410; 497649, 3716399; 497668, 3716410; 497682, 3716417; 497694, 3716419; 497712, 3716414; 497728, 3716405; 497744, 3716395; 497754, 3716385; 497761, 3716375; 497766, 3716364; 497769, 3716349; 497767, 3716339; 497761, 3716329; 497749, 3716320; 497728, 3716313; 497718, 3716312; 497704, 3716308; 497691, 3716301; 497681, 3716294; 497672, 3716286; 497658, 3716270; 497648, 3716258; 497633, 3716254.

(B) 496452, 3715265; 496460, 3715297; 496475, 3715302; 496490, 3715304; 496500, 3715306; 496517, 3715306; 496538, 3715300; 496557, 3715294; 496580, 3715281; 496592, 3715277; 496611, 3715258; 496666, 3715222; 496692, 3715219; 496719, 3715219; 496745, 3715228; 496769, 3715253; 496779, 3715290; 496805, 3715302; 496828, 3715311; 496854, 3715317; 496872, 3715322; 496889, 3715320; 496897, 3715320; 496915, 3715314; 496937, 3715303; 496956, 3715297; 496977, 3715291; 496988, 3715285; 496989, 3715272; 497001, 3715130; 497015, 3714996; 497022, 3714929; 497015, 3714716; 497010, 3714699; 496997, 3714671; 496977, 3714642; 496959, 3714621; 496944, 3714618; 496918, 3714616; 496678, 3714617; 496660, 3714616; 496641, 3714625; 496620, 3714633; 496603, 3714639; 496586, 3714655; 496569, 3714669; 496550, 3714691; 496527, 3714712; 496499, 3714746; 496474, 3714778; 496468, 3714793; 496461, 3714801; 496455, 3714810; 496454, 3714991.

* * * * *

(15) * * *

(i) Unit 12 excludes land bounded by the following UTM NAD27 coordinates (E, N): 427036, 3771756; 427083, 3771721; 427106, 3771719; 427131, 3771702; 427144, 3771670; 427169, 3771658; 427210, 3771664; 427271, 3771661; 427318, 3771654; 427363, 3771670; 427379, 3771708; 427382, 3771740; 427350, 3771727; 427344, 3771715; 427274, 3771727; 427252, 3771756; 427236, 3771794; 427137, 3771769; 427099, 3771797; 427074, 3771807; 427042, 3771819; 427017, 3771794; 427026, 3771775.

* * * * *

(16) * * *

(i) Unit 13 excludes land bounded by the following UTM NAD27 coordinates (E, N):

(A) 349305, 3798421; 349605, 3798121; 349805, 3798021; 349905, 3797921; 350005, 3797921; 350005, 3798221; 349905, 3798321; 349705, 3798421; 349605, 3798521; 349305, 3798521.

(B) 349005, 3797921; 349005, 3798221; 348805, 3798421; 348505, 3798521; 348293, 3798521; 348005, 3798521; 347705, 3798421; 347705, 3798221; 347305, 3798121; 347305, 3798021; 347805, 3798021; 348005, 3798121; 348405, 3797921; 348526, 3797921.

(C) 348405, 3796321; 348205, 3796221; 348205, 3796121; 348405, 3795921; 348605, 3795621; 348705, 3795521; 348905, 3795421; 349005, 3795321; 349405, 3795321; 349466, 3795382; 349505, 3795421; 349505, 3795621; 349407, 3795646; 349105, 3795721; 349105, 3796121; 349005, 3796221; 348905, 3796421; 349050, 3796567; 349105, 3796621; 349105, 3796721; 348978, 3796753; 348705, 3796821; 348505, 3796921; 348405, 3796921.

(D) 342505, 3798721; 342705, 3798821; 342805, 3798921; 343105, 3799021; 343105, 3799421; 343805, 3799421; 343905, 3799621; 343905, 3799721; 343605, 3799721; 343505, 3799821; 343605, 3799921; 343705, 3800121; 343705, 3800721; 343605, 3801021; 342705, 3801021; 342505, 3800921; 342405, 3800821; 342105, 3800821; 341905, 3800921; 341505, 3800921; 341305, 3800821; 341205, 3800721; 340705, 3800621; 340405, 3800521; 340005, 3800421; 339805, 3800321; 339605, 3800221; 339505, 3800121; 339505, 3799621; 339605, 3799521; 340005, 3799521; 340105, 3799721; 340305, 3799921; 341605, 3800021; 341605, 3799821; 341705, 3799621; 341805, 3799321; 342005, 3799321; 342605, 3799921; 342805, 3799821; 342805, 3799521; 342605, 3799221; 342305, 3799121; 342105, 3799021; 342005, 3798921; 341905, 3798721; 341905, 3798521; 342005, 3798421; 342205, 3798421.

* * * * *

Everglade Snail Kite (Rostrhamus sociabilis plumbeus)

* * * * *

Note: The map provided is for informational purposes only. Map follows:

* * * * *

Marbled Murrelet (Brachyramphus marmoratus)

1. * * * The maps provided are for informational purposes only.

* * * * *

Mexican Spotted Owl (Strix occidentalis lucida)

* * * * *

(8) Unit CP-11: Iron, Kane, and Washington Counties, Utah. The map of Unit CP-11 is provided at paragraph (11) of this entry.

(9) Unit CP-12: Garfield and Kane Counties, Utah. The map of Unit CP-12 is provided at paragraph (11) of this entry.

(10) Unit CP-13: Garfield, Kane, San Juan, and Wayne Counties, Utah. The map of Unit CP-13 is provided at paragraph (11) of this entry.

* * * * *

(12) Unit CP-14: Garfield, Grand, San Juan, and Wayne Counties, Utah. The map of Unit CP-14 is provided at paragraph (14) of this entry.

(13) Unit CP-15: Carbon and Emery Counties, Utah. The map of Unit CP-15 is provided at paragraph (14) of this entry.

* * * * *

(15) Unit SRM-C-1a: El Paso, Fremont, and Teller Counties, Colorado. The map of Unit SRM-C-1a is provided at paragraph (18) of this entry.

(16) Unit SRM-C-1b: Custer, Fremont, Huerfano, and Pueblo Counties, Colorado. The map of Unit SRM-C-1b is provided at paragraph (18) of this entry.

(17) Unit SRM-C-2: Douglas and Jefferson Counties, Colorado. The map of Unit SRM-C-2 is provided at paragraph (18) of this entry.

* * * * *

(19) Unit CP-10: Coconino and Mohave Counties, Arizona. The map of Unit CP-10 is provided at paragraph (20) of this entry.

* * * * *

(21) Unit UGM-11: Coconino County, Arizona. The map of Unit UGM-11 is provided at paragraph (27) of this entry.

(22) Unit UGM-12: Coconino County, Arizona. The map of Unit UGM-12 is provided at paragraph (27) of this entry.

(23) Unit UGM-13: Coconino and Yavapai Counties, Arizona. The map of Unit UGM-13 is provided at paragraph (27) of this entry.

(24) Unit UGM-14: Coconino County, Arizona. The map of Unit UGM-14 is provided at paragraph (27) of this entry.

(25) Unit UGM-15: Coconino County, Arizona. The map of Unit UGM-15 is provided at paragraph (27) of this entry.

(26) Unit UGM-17: Coconino County, Arizona. The map of Unit UGM-17 is provided at paragraph (27) of this entry.

* * * * *

(28) Unit BR-W-2: Yavapai County, Arizona. The map of Unit BR-W-2 is provided at paragraph (33) of this entry.

(29) Unit BR-W-3: Yavapai County, Arizona. The map of Unit BR-W-3 is provided at paragraph (33) of this entry.

(30) Unit BR-W-4: Gila, Maricopa, and Yavapai Counties, Arizona. The map of Unit BR-W-4 is provided at paragraph (33) of this entry.

(31) Unit BR-W-5: Gila County, Arizona. The map of Unit BR-W-5 is provided at paragraph (33) of this entry.

(32) Unit UGM-10: Coconino, Gila, and Navajo Counties, Arizona. The map of Unit UGM-10 is provided at paragraph (33) of this entry.

* * * * *

(34) Unit BR-W-6: Gila County, Arizona. The map of Unit BR-W-6 is provided at paragraph (40) of this entry.

(35) Unit BR-W-7: Graham County, Arizona. The map of Unit BR-W-7 is provided at paragraph (40) of this entry.

(36) Unit BR-W-8: Graham County, Arizona. The map of Unit BR-W-8 is provided at paragraph (40) of this entry.

(37) Unit BR-W-9: Graham County, Arizona. The map of Unit BR-W-9 is provided at paragraph (40) of this entry.

(38) Unit BR-W-10: Cochise County, Arizona. The map of Unit BR-W-10 is provided at paragraph (40) of this entry.

(39) Unit BR-W-11: Pima and Pinal Counties, Arizona. The map of Unit BR-W-11 is provided at paragraph (40) of this entry.

* * * * *

(41) Unit BR-W-12: Pima and Santa Cruz Counties, Arizona. The map of Unit BR-W-12 is provided at paragraph (46) of this entry.

(42) Unit BR-W-13: Santa Cruz County, Arizona. The map of Unit BR-W-13 is provided at paragraph (46) of this entry.

(43) Unit BR-W-14: Santa Cruz County, Arizona. The map of Unit BR-W-14 is provided at paragraph (46) of this entry.

(44) Unit BR-W-15: Cochise County, Arizona. The map of Unit BR-W-15 is provided at paragraph (46) of this entry.

(45) Unit BR-W-16: Cochise County, Arizona. The map of Unit BR-W-16 is provided at paragraph (46) of this entry.

* * * * *

(47) Unit BR-W-18: Cochise County, Arizona. The map of Unit BR-W-18 is provided at paragraph (48) of this entry.

* * * * *

(49) Unit UGM-2: Socorro County, New Mexico. The map of Unit UGM-2 is provided at paragraph (55) of this entry.

(50) Unit UGM-3: Socorro County, New Mexico. The map of Unit UGM-3 is provided at paragraph (55) of this entry.

(51) Unit UGM-5a: Catron and Grant Counties, New Mexico. The map of Unit UGM-5a is provided at paragraph (55) of this entry.

(52) Unit UGM-5b: Catron, Grant, and Sierra Counties, New Mexico. The map of Unit UGM-5b is provided at paragraph (55) of this entry.

(53) Unit UGM-6: Catron County, New Mexico. The map of Unit UGM-6 is provided at paragraph (55) of this entry.

(54) Unit UGM-7: Apache and Greenlee Counties, Arizona, and Catron County, New Mexico. The map of Unit UGM-7 is provided at paragraph (55) of this entry.

* * * * *

(56) Unit SRM-NM-1: Los Alamos County, New Mexico. The map of Unit SRM-NM-1 is provided at paragraph (62) of this entry.

(57) Unit SRM-NM-4: Los Alamos County, New Mexico. The map of Unit SRM-NM-4 is provided at paragraph (62) of this entry.

(58) Unit SRM-NM-5a: San Miguel and Santa Fe Counties, New Mexico. The map of Unit SRM-NM-5a is provided at paragraph (62) of this entry.

(59) Unit SRM-NM-5b: Mora and San Miguel Counties, New Mexico. The map of Unit SRM-NM-5b is provided at paragraph (62) of this entry.

(60) Unit SRM-NM-11: Rio Arriba County, New Mexico. The map of Unit SRM-NM-11 is provided at paragraph (62) of this entry.

(61) Unit SRM-M-12: Rio Arriba County, New Mexico. The map of Unit SRM-NM-12 is provided at paragraph (62) of this entry.

* * * * *

(63) Unit BR-E-5: Torrance and Valencia Counties, New Mexico. The map of Unit BR-E-5 is provided at paragraph (67) of this entry.

(64) Unit BR-E-7: Bernalillo and Sandoval Counties, New Mexico. The map of Unit BR-E-7 is provided at paragraph (67) of this entry.

(65) Unit CP-1: Cibola and McKinley Counties, New Mexico. The map of Unit CP-1 is provided at paragraph (67) of this entry.

(66) Unit CP-2: Cibola and McKinley Counties, New Mexico. The map of Unit CP-2 is provided at paragraph (67) of this entry.

* * * * *

(68) Unit BR-E-1a: Lincoln County, New Mexico. The map of Unit BR-E-1a is provided at paragraph (72) of this entry.

(69) Unit BR-E-1b: Otero County, New Mexico. The map of Unit BR-E-1b is provided at paragraph (72) of this entry.

(70) Unit BR-E-3: Lincoln County, New Mexico. The map of Unit BR-E-3 is provided at paragraph (72) of this entry.

(71) Unit BR-E-4: Lincoln County, New Mexico. The map of Unit BR-E-4 is provided at paragraph (72) of this entry.

* * * * *

Palila (Psittirostra bailleui)

* * * * *

Note: The map provided is for informational purposes only. Map follows:

* * * * *

Piping Plover (Charadrius melodus)—Great Lakes Breeding Population

1. * * * The maps provided are for informational purposes only.

* * * * *

Piping Plover (Charadrius melodus) Wintering Habitat

* * * * *

3. * * * The maps provided are for informational purposes only. * * *

* * * * *

Piping Plover (Charadrius melodus)—Northern Great Plains Breeding Population

1. * * * The maps provided are for informational purposes only.

* * * * *

Inyo Brown Towhee (Pipilo fuscus eremophilus)

* * * * *

(10) * * *

Note: The map provided is for informational purposes only.

* * * * *

(11) * * *

Note: The map provided is for informational purposes only.

* * * * *

Least Bell's Vireo (Vireo bellii pusillus)

California. The maps provided in this entry are for informational purposes only. Areas of land and water as follows:

* * * * *

Rota Bridled White-Eye (Zosterops rotensis)

* * * * *

(5) * * *

(i) Unit excludes 13 areas:

* * * * *

(d) Amphibians.

Golden Coqui (Eleutherodactylus jasperi)

* * * * *

(3) * * *

Note: The map provided is for informational purposes only. Map follows:

* * * * *

Note: The map provided is for informational purposes only. Map follows:

* * * * *

California Red-legged Frog (Rana draytonii)

* * * * *

(10) * * *

(i) Unit PLA-1 excludes land bounded by the following UTM Zone 10, NAD83 coordinates (E, N): 695636, 4324153; 695563, 4324116; 695471, 4324147; 695380, 4324137; 695482, 4323950; 695575, 4323941; 695636, 4323824; 695782, 4323867; 695815, 4323840; 695885, 4323710; 695875, 4323548; 695757, 4323455; 695789, 4323364; 695821, 4323355; 695847, 4323389; 695974, 4323437; 695975, 4323571; 696121, 4323615; 696178, 4323884; 696037, 4323867; 695941, 4323923; 695775, 4324220; returning to 695636, 4324153.

* * * * *

(11) * * *

(i) Unit ELD-1 excludes land bounded by the following UTM Zone 10, NAD83 coordinates (E, N): 708426, 4291544; 708412, 4291176; 709003, 4291194; 709025, 4291561; returning to 708426, 4291544.

* * * * *

(25) * * *

(i) Subunit CCS-2B excludes land bounded by the following UTM Zone 10, NAD83 coordinates (E, N): 622742, 4184043; 622742, 4183973; 623170, 4183986; 623154, 4184309; 622828, 4184300; 622828, 4184064; returning to 622742, 4184043.

* * * * *

(28) * * *

(i) Unit SNM-1 excludes land bounded by the following UTM Zone 10, NAD83 coordinates (E, N):

(A) 549620, 4162507; 549728, 4162401; 549733, 4162310; 549683, 4162274; 549645, 4162279; 549425, 4162399; 549337, 4162318; 549333, 4162206; 549471, 4161976; 549525, 4161940; 549606, 4161951; 549662, 4161921; 549738, 4161921; 549790, 4161808; 549961, 4161760; 549981, 4161667; 549936, 4161577; 550072, 4161454; 550273, 4161361; 550401, 4161273; 550411, 4161245; 550383, 4161187; 550284, 4161178; 550229, 4161142; 550232, 4161107; 550278, 4161061; 550265, 4160978; 550296, 4160957; 550492, 4160966; 550678, 4160838; 550717, 4160754; 550720, 4160671; 550687, 4160604; 550718, 4160544; 550642, 4160424; 550503, 4160326; 550549, 4160316; 550788, 4160361; 550839, 4160318; 550799, 4160219; 550867, 4160247; 551032, 4160256; 551116, 4160229; 551150, 4160166; 551254, 4160120; 551344, 4159994; 551357, 4159933; 551294, 4159806; 551508, 4159782; 551595, 4159711; 551646, 4159623; 551441, 4159474; 551439, 4159451; 551668, 4159445; 551731, 4159463; 551897, 4159386; 552018, 4159435; 552054, 4159463; 552045, 4159580; 552096, 4159641; 552077, 4159681; 551989, 4159676; 551861, 4159820; 551881, 4159858; 551964, 4159881; 551967, 4159927; 551829, 4159929; 551816, 4160002; 551722, 4159971; 551646, 4160052; 551643, 4160146; 551561, 4160173; 551525, 4160211; 551412, 4160393; 551447, 4160589; 551385, 4160624; 551415, 4160711; 551397, 4160774; 551341, 4160817; 551329, 4160715; 551311, 4160685; 551266, 4160674; 551055, 4160965; 551009, 4161066; 551003, 4161183; 550912, 4161188; 550873, 4161215; 550765, 4161415; 550679, 4161473; 550553, 4161622; 550578, 4161686; 550432, 4161883; 550432, 4161911; 550307, 4162062; 550094, 4162246; 549866, 4162573; 549757, 4162635; 549715, 4162724; 549544, 4162890; 549421, 4163070; 549362, 4163128; 549301, 4163145; 549351, 4162963; 549402, 4162869; 549563, 4162687; returning to 549620, 4162507.

(B) 549220, 4157011; 549541, 4156838; 549722, 4156775; 549735, 4156697; 549801, 4156710; 549883, 4156632; 549886, 4156573; 549977, 4156553; 550000, 4156528; 550158, 4156504; 550288, 4156436; 550357, 4156345; 550347, 4156266; 550457, 4156277; 550492, 4156234; 550495, 4156194; 550420, 4156053; 550582, 4156065; 550631, 4156017; 550684, 4156004; 550738, 4155941; 550809, 4155916; 550841, 4155787; 550925, 4155803; 551002, 4155930; 551019, 4156093; 551077, 4156152; 551073, 4156327; 551032, 4156400; 551040, 4156464; 550998, 4156603; 550857, 4156826; 550788, 4156876; 550768, 4156856; 550806, 4156762; 550914, 4156646; 550936, 4156369; 550988, 4156222; 550986, 4156177; 550940, 4156123; 550708, 4156302; 550626, 4156334; 550616, 4156367; 550384, 4156493; 550300, 4156553; 550297, 4156578; 550218, 4156578; 550172, 4156621; 550063, 4156618; 549941, 4156723; 549933, 4156777; 549876, 4156814; 549576, 4156911; 549550, 4156944; 549555, 4157013; 549474, 4156969; 549416, 4156974; 549204, 4157059; returning to 549220, 4157011.

(C) 554142, 4155908; 554257, 4155782; 554311, 4155675; 554264, 4155586; 554381, 4155549; 554414, 4155493; 554518, 4155471; 554527, 4155397; 554641, 4155337; 554746, 4155191; 554701, 4155114; 554798, 4155071; 554842, 4154935; 554782, 4154761; 554914, 4154795; 554950, 4154775; 554920, 4154722; 555022, 4154651; 555084, 4154509; 555230, 4154328; 555279, 4154214; 555309, 4154193; 555413, 4154197; 555439, 4154108; 555369, 4154054; 555329, 4153947; 555293, 4153942; 555250, 4153982; 555184, 4153984; 555094, 4154029; 555056, 4154088; 554883, 4154165; 554832, 4154145; 554702, 4154172; 554646, 4154240; 554336, 4154291; 554257, 4154362; 554255, 4154245; 554318, 4154248; 554555, 4154173; 554586, 4154107; 554652, 4154090; 554841, 4153964; 555218, 4153835; 555223, 4153761; 555356, 4153696; 555397, 4153653; 555420, 4153577; 555501, 4153590; 555526, 4153695; 555693, 4153711; 555904, 4153415; 556072, 4153271; 556063, 4153182; 555943, 4153217; 556034, 4152959; 556026, 4152910; 555996, 4152895; 555856, 4152935; 555854, 4152909; 555992, 4152788; 556078, 4152756; 556331, 4152585; 556318, 4152547; 556184, 4152574; 556174, 4152538; 556235, 4152493; 556286, 4152488; 556279, 4152435; 556373, 4152428; 556444, 4152362; 556450, 4152283; 556488, 4152197; 556382, 4152194; 556425, 4152138; 556499, 4152098; 556517, 4152025; 556574, 4151989; 556576, 4151956; 556513, 4151890; 556555, 4151751; 556608, 4151715; 556681, 4151881; 556790, 4151955; 556861, 4151946; 557012, 4151776; 557051, 4151695; 557125, 4151632; 557070, 4151495; 557095, 4151457; 557133, 4151460; 557224, 4151552; 557295, 4151667; 557302, 4151720; 557154, 4151833; 557154, 4151861; 557253, 4151844; 557347, 4151878; 557346, 4151923; 557269, 4152007; 557112, 4152067; 557104, 4152095; 556976, 4152193; 556775, 4152285; 556790, 4152321; 556871, 4152332; 556871, 4152367; 556827, 4152405; 556850, 4152446; 556842, 4152489; 556777, 4152679; 556721, 4152755; 556657, 4152793; 556697, 4152889; 556634, 4152881; 556593, 4152919; 556600, 4152998; 556529, 4153023; 556475, 4153091; 556480, 4153132; 556543, 4153186; 556459, 4153213; 556382, 4153312; 556394, 4153456; 556363, 4153502; 556380, 4153596; 556313, 4153684; 556277, 4153796; 555971, 4153969; 555935, 4154093; 555871, 4154136; 555878, 4154256; 555852, 4154271; 555753, 4154255; 555674, 4154320; 555540, 4154299; 555476, 4154324; 555445, 4154453; 555381, 4154478; 555383, 4154504; 555457, 4154527; 555454, 4154563; 555322, 4154552; 555322, 4154582; 555393, 4154608; 555479, 4154713; 555435, 4154756; 555392, 4154715; 555273, 4154671; 555237, 4154721; 555260, 4154780; 555249, 4154889; 555195, 4154889; 555160, 4154924; 555144, 4154972; 555073, 4155038; 555031, 4155149; 554868, 4155306; 554798, 4155473; 554757, 4155485; 554678, 4155589; 554581, 4155647; 554540, 4155725; 554443, 4155780; 554312, 4156018; 554212, 4156101; 554216, 4156203; 554150, 4156246; 554073, 4156436; 553940, 4156567; 553911, 4156648; 553816, 4156762; 553750, 4156804; 553769, 4156678; 553739, 4156596; 553800, 4156508; 553829, 4156414; 553870, 4156363; 553957, 4156321; 553927, 4156252; 553988, 4156194; returning to 554142, 4155908.

(D) 557286, 4151491; 557284, 4151443; 557322, 4151364; 557308, 4151220; 557354, 4151200; 557448, 4151241; 557468, 4151231; 557519, 4151124; 557482, 4151012; 557579, 4150995; 557549, 4150901; 557402, 4150804; 557674, 4150729; 557846, 4150565; 558016, 4150559; 558080, 4150479; 558080, 4150410; 558119, 4150362; 558354, 4150158; 558464, 4150021; 558452, 4150001; 558511, 4149920; 558501, 4149798; 558327, 4149700; 558320, 4149637; 558498, 4149539; 558528, 4149270; 558566, 4149227; 558752, 4149193; 558763, 4149353; 558908, 4149377; 559299, 4148970; 559307, 4148937; 559274, 4148929; 559116, 4148982; 559081, 4148918; 559133, 4148840; 559171, 4148845; 559170, 4148903; 559198, 4148914; 559270, 4148863; 559369, 4148854; 559494, 4148740; 559616, 4148761; 559674, 4148739; 559731, 4148633; 559955, 4148581; 559947, 4148665; 560032, 4148830; 560049, 4148917; 560013, 4148990; 560025, 4149077; 559906, 4149091; 559778, 4149222; 559737, 4149169; 559702, 4149166; 559664, 4149201; 559510, 4149358; 559532, 4149444; 559656, 4149488; 559592, 4149635; 559506, 4149650; 559480, 4149680; 559397, 4149898; 559341, 4149908; 559250, 4149879; 559191, 4149907; 559193, 4150034; 559128, 4150206; 559186, 4150267; 559296, 4150283; 559287, 4150377; 559074, 4150340; 558886, 4150433; 558753, 4150470; 558712, 4150521; 558673, 4150642; 558549, 4150664; 558505, 4150712; 558492, 4150857; 558580, 4150870; 558595, 4150946; 558493, 4150945; 558405, 4150912; 558170, 4151042; 558170, 4151088; 558119, 4151123; 557994, 4151156; 557767, 4151360; 557737, 4151586; 557620, 4151648; 557584, 4151709; 557594, 4151780; 557444, 4151759; 557409, 4151647; returning to 557286, 4151491.

(E) 553227, 4150371; 553132, 4150480; 553085, 4150414; 553085, 4150180; 552935, 4150096; 553085, 4150049; 553319, 4149834; 553553, 4149834; 553646, 4150049; 553581, 4150264; returning to 553227, 4150371.

(F) 552570, 4150315; 552477, 4150517; 552589, 4150966; 552563, 4151254; 552664, 4151452; 552664, 4151733; 552524, 4151686; 552222, 4151263; 551991, 4151097; 551766, 4150854; 551617, 4150480; 551617, 4150115; 551813, 4149956; 552165, 4149863; 552374, 4149890; returning to 552570, 4150315.

* * * * *

(29) * * *

(i) Unit SNM-2 excludes land bounded by the following UTM Zone 10, NAD83 coordinates (E, N):

(A) 555483, 4121713; 555388, 4121749; 555388, 4121320; 555235, 4121428; 555083, 4121390; 554981, 4121263; 554873, 4121256; 554937, 4121205; 555387, 4121177; 556034, 4121027; 556340, 4120843; 556518, 4120862; 556658, 4120996; 556400, 4121122; 556169, 4121332; 556086, 4121497; 555687, 4121566; 555584, 4121675; returning to 555483, 4121713.

(B) 556092, 4122063; 556218, 4122107; 556645, 4122069; 556727, 4122152; 556746, 4122317; 556816, 4122418; 557032, 4122456; 557089, 4122533; 556873, 4122695; 556861, 4122837; 556467, 4122821; 556281, 4123125; 556289, 4123256; 556226, 4123422; 555497, 4123687; 555358, 4123614; 555261, 4123663; 555032, 4123593; 554691, 4123369; 554690, 4123310; 554656, 4123262; 554596, 4123352; 554359, 4123364; 554270, 4123180; 553600, 4123504; 553555, 4123410; 553375, 4123390; 553635, 4122920; 553644, 4122708; 553715, 4122548; 553839, 4122460; 554062, 4122505; 554165, 4122407; 554289, 4122418; 554447, 4122645; 555312, 4122656; 555578, 4122761; 555705, 4122761; 555756, 4122507; 556003, 4122317; returning to 556092, 4122063.

* * * * *

(32) * * *

(i) Unit SCZ-1 excludes land bounded by the following UTM Zone 10, NAD83 coordinates (E, N):

(A) 573194, 4098886; 573212, 4098861; 573233, 4098878; 573215, 4098903; returning to 573194, 4098886.

(B) 573580, 4098341; 573624, 4098338; 573660, 4098454; 573623, 4098464; returning to 573580, 4098341.

(C) 574941, 4098271; 574925, 4098209; 575067, 4098224; returning to 574941, 4098271.

(D) 573381, 4098107; 573397, 4098073; 573480, 4098118; 573464, 4098150; returning to 573381, 4098107.

(E) 575347, 4097747; 575349, 4097646; 575448, 4097670; 575379, 4097752; returning to 575347, 4097747.

(F) 575388, 4097590; 575394, 4097549; 575456, 4097559; 575440, 4097610; returning to 575388, 4097590.

(G) 574744, 4097505; 574777, 4097483; 574803, 4097522; 574771, 4097541; returning to 574744, 4097505.

* * * * *

Mountain Yellow-legged Frog (Rana muscosa), Southern California DPS

* * * * *

(6) * * *

(i) * * *

(A) Subunit 2A excludes land bounded by the following UTM NAD27 coordinates (E, N):

(1) 483700, 3785100; 483800, 3785100; 483800, 3785000; 483700, 3785000; 483700, 3785100.

(2) 483100, 3782700; 483600, 3782700; 483600, 3782600; 483500, 3782600; 483500, 3782500; 483400, 3782500; 483400, 3782400; 483300, 3782400; 483300, 3782300; 483200, 3782300; 483200, 3782100; 483100, 3782100; 483100, 3782700.

(3) 483000, 3781800; 483100, 3781800; 483100, 3781500; 483000, 3781500; 483000, 3781800.

* * * * *

Guajón (Eleutherodactylus cooki)

* * * * *

(11) * * *

(ii) The map depicting Unit 6 is provided at paragraph (12)(ii) of this entry.

* * * * *

(13) * * *

(ii) The map depicting Unit 8 is provided at paragraph (14)(ii) of this entry.

* * * * *

(16) * * *

(ii) The map depicting Unit 11 is provided at paragraph (17)(ii) of this entry.

* * * * *

(19) * * *

(ii) The map depicting Unit 14 is provided at paragraph (20)(ii) of this entry.

* * * * *

Central Population of California Tiger Salamander (Ambystoma californiense)

* * * * *

(17) * * *

(i) Central Valley Region: Unit 2 excludes land bounded by the following UTM Zone 10, NAD83 coordinates (E, N): 603666, 4238548; 604112, 4238500; 604463, 4238516; 604510, 4237050; 604494, 4233370; 601674, 4233354; 600161, 4233354; 599699, 4233386; 599667, 4238197; 602105, 4238197; 602375, 4238548; 602822, 4238548; 603666, 4238548.

* * * * *

(18) * * *

(i) Central Valley Region: Unit 3 excludes land bounded by the following UTM Zone 10, NAD83 coordinates (E, N):

(A) 663699, 4245563; 663773, 4245470; 663872, 4245529; 663908, 4245484; 664132, 4245487; 664193, 4245525; 664343, 4245508; 664446, 4245534; 664455, 4245223; 664686, 4245225; 664681, 4245603; 664669, 4245660; 664669, 4245731; 664793, 4245767; 664776, 4245798; 664712, 4245836; 664686, 4245962; 664629, 4246000; 664643, 4246107; 664517, 4246081; 664512, 4246171; 664315, 4246178; 664236, 4246190; 663987, 4246188; 663813, 4245903; 663732, 4245860; returning to 663699, 4245563.

(B) 663893, 4245225; 663790, 4245261; 663740, 4245213; 663759, 4244776; 663937, 4244476; 664146, 4244482; 664133, 4245143; returning to 663893, 4245225.

* * * * *

Reticulated Flatwoods Salamander (Ambystoma bishopi)

(1) * * * The maps provided are for informational purposes only.

* * * * *

San Marcos Salamander (Eurycea nana)

* * * * *

Note: The map provided is for informational purposes only. Map follows:

* * * * *

Arroyo Toad (Anaxyrus californicus)

(1) * * * The maps provided are for informational purposes only.

* * * * *

Houston Toad (Bufo houstonensis)

(1) * * *

Note: The map provided is for informational purposes only. Map follows:

* * * * *

(2) * * *

Note: The map provided is for informational purposes only. Map follows:

* * * * *

(e) Fishes.

* * * * *

Yaqui Catfish (Ictalurus pricei)

* * * * *

Note: The map provided is for informational purposes only. Map follows:

* * * * *

Bonytail Chub (Gila elegans)

* * * * *

Note: The map provided is for informational purposes only. Map follows:

* * * * *

Borax Lake Chub (Gila boraxobius)

* * * * *

Note: The map provided is for informational purposes only. Map follows:

* * * * *

Humpback Chub (Gila cypha)

* * * * *

Note: The map provided is for informational purposes only. Map follows:

* * * * *

Owens Tui Chub (Gila bicolor snyderi)

1. * * *

Note: The map provided is for informational purposes only. Map follows:

* * * * *

2. * * *

Note: The map provided is for informational purposes only. Map follows:

* * * * *

Slender Chub (Erimystax = (Hybopsis) cahni)

* * * * *

Note: The map provided is for informational purposes only. Map follows:

* * * * *

Sonora Chub (Gila ditaenia)

* * * * *

4. * * *

Note: The map provided is for informational purposes only. Map follows:

* * * * *

Spotfin Chub (Erimonax monachus)

* * * * *

Note: The map provided is for informational purposes only. Map follows:

* * * * *

Note: The map provided is for informational purposes only. Map follows:

* * * * *

Note: The map provided is for informational purposes only. Map follows:

* * * * *

Virgin River Chub (Gila seminuda)

* * * * *

Note: The map provided is for informational purposes only. Map follows:

* * * * *

Yaqui Chub (Gila purpurea)

* * * * *

Note: The map provided is for informational purposes only. Map follows:

* * * * *

Ash Meadows Speckled Dace (Rhinichthys osculus nevadensis)

* * * * *

Note: The map provided is for informational purposes only. Map follows:

* * * * *

Desert Dace (Eremichthys acros)

* * * * *

Note: The map provided is for informational purposes only. Map follows:

* * * * *

Amber Darter (Percina antesella)

* * * * *

Note: The map provided is for informational purposes only. Map follows:

* * * * *

Fountain Darter (Etheostoma fonticola)

* * * * *

Note: The map provided is for informational purposes only. Map follows:

* * * * *

Leopard Darter (Percina pantherina)

* * * * *

Note: The map provided is for informational purposes only. Map follows:

* * * * *

Maryland Darter (Etheostoma sellare)

* * * * *

Note: The map provided is for informational purposes only. Map follows:

* * * * *

Niangua Darter (Etheostoma nianguae)

* * * * *

Note: The map provided is for informational purposes only. Map follows:

* * * * *

Note: The map provided is for informational purposes only. Map follows:

* * * * *

Note: The map provided is for informational purposes only. Map follows:

* * * * *

Note: The map provided is for informational purposes only. Map follows:

* * * * *

Slackwater Darter (Etheostoma boschungi)

* * * * *

Note: The maps provided are for informational purposes only. Map follows:

* * * * *

San Marcos Gambusia (Gambusia georgei)

* * * * *

Note: The map provided is for informational purposes only. Map follows:

* * * * *

Conasauga Logperch (Percina jenkinsi)

* * * * *

Note: The map provided is for informational purposes only. Map follows:

* * * * *

Smoky Madtom (Noturus baileyi)

* * * * *

Note: The map provided is for informational purposes only. Map follows:

* * * * *

Yellowfin Madtom (Noturus flavipinnis)

Tennessee. Claiborne and Hancock Counties. Powell River, main channel from backwaters of Norris Lake upstream to the Tennessee-Virginia State line.

Virginia. Lee, Scott, and Russell Counties. Powell River, main channel from the Virginia-Tennessee State line upstream through Lee County. Copper Creek, main channel from its junction with Clinch River upstream through Scott County and upstream in Russell County to Dickensonville.

Note: The map provided is for informational purposes only. Map follows:

* * * * *

Rio Grande Silvery Minnow (Hybognathus amarus)

* * * * *

(1) * * * The map provided is for informational purposes only.

* * * * *

Ash Meadows Amargosa Pupfish (Cyprinodon nevadensis mionectes)

* * * * *

Note: The map provided is for informational purposes only. Map follows:

* * * * *

Desert Pupfish (Cyprinodon macularius)

* * * * *

Note: The map provided is for informational purposes only. Map follows:

* * * * *

Note: The map provided is for informational purposes only. Map follows:

* * * * *

Leon Springs Pupfish (Cyprinodon bovinus)

* * * * *

Note: The map provided is for informational purposes only. Map follows:

* * * * *

Beautiful Shiner (Notropis formosus)

* * * * *

Note: The map provided is for informational purposes only. Map follows:

* * * * *

Cape Fear Shiner (Notropis mekistocholas)

* * * * *

(3) * * *

Note: The map provided is for informational purposes only. Map follows:

* * * * *

Pecos Bluntnose Shiner (Notropis simus pecosensis)

1. * * *

Note: The map provided is for informational purposes only. Map follows:

* * * * *

2. * * *

Note: The map provided is for informational purposes only. Map follows:

* * * * *

Waccamaw Silverside (Menidia extensa)

* * * * *

Note: The map provided is for informational purposes only. Map follows:

* * * * *

Delta Smelt (Hypomesus transpacificus)

* * * * *

Note: The map provided is for informational purposes only. Map follows:

* * * * *

Spikedace (Meda fulgida)

* * * * *

(1) * * * The maps provided are for informational purposes only.

* * * * *

Big Spring Spinedace (Lepidomeda mollispinus pratensis)

* * * * *

Note: The map provided is for informational purposes only. Map follows:

* * * * *

Little Colorado Spinedace (Lepidomeda vittata)

1. * * *

Note: The map provided is for informational purposes only. Map follows:

* * * * *

2. * * *

Note: The map provided is for informational purposes only. Map follows:

* * * * *

3. * * *

Note: The map provided is for informational purposes only. Map follows:

* * * * *

White River Spinedace (Lepidomeda albivallis)

* * * * *

Note: The map provided is for informational purposes only. Map follows:

* * * * *

Note: The map provided is for informational purposes only. Map follows:

* * * * *

Hiko White River Springfish (Crenichthys baileyi grandis)

* * * * *

Note: The map provided is for informational purposes only. Map follows:

* * * * *

Railroad Valley Springfish (Crenichthys nevadae)

1. * * *

Note: The map provided is for informational purposes only. Map follows:

* * * * *

2. * * *

Note: The map provided is for informational purposes only. Map follows:

* * * * *

White River Springfish (Crenichthys baileyi baileyi)

* * * * *

Note: The map provided is for informational purposes only. Map follows:

* * * * *

Colorado Squawfish (Ptychocheilus lucius)

* * * * *

Note: The map provided is for informational purposes only. Map follows:

* * * * *

Gulf Sturgeon (Acipenser oxyrinchus desotoi)

(1) * * * The maps provided are for informational purposes only.

* * * * *

June Sucker (Chasmistes liorus)

* * * * *

Note: The map provided is for informational purposes only. Map follows:

* * * * *

Razorback Sucker (Xyrauchen texanus)

* * * * *

Note: The map provided is for informational purposes only. Map follows:

* * * * *

Warner Sucker (Catostomus warnerensis)

* * * * *

2. * * *

Note: The map provided is for informational purposes only. Map follows:

* * * * *

5. * * *

Note: The map provided is for informational purposes only. Map follows:

* * * * *

Little Kern Golden Trout (Salmo aguabonita whitei)

* * * * *

Note: The map provided is for informational purposes only. Map follows:

* * * * *

Woundfin (Plagopterus argentissimus)

* * * * *

Note: The map provided is for informational purposes only.

* * * * *

(f) Clams and Snails.

Appalachian Elktoe (Alasmidonta raveneliana)

(1) * * * The maps provided are for informational purposes only.

* * * * *

Carolina Heelsplitter (Lasmigona decorata)

(1) * * * The maps provided are for informational purposes only.

* * * * *

Eleven Mobile River Basin Mussel Species: Southern acornshell (Epioblasma othcaloogensis), ovate clubshell (Pleurobema perovatum), southern clubshell (Pleurobema decisum), upland combshell (Epioblasma metastriata), triangular kidneyshell (Ptychobranchus greenii), Alabama moccasinshell (Medionidus acutissimus), Coosa moccasinshell (Medionidus parvulus), orange-nacre mucket (Lampsilis perovalis), dark pigtoe (Pleurobema furvum), southern pigtoe (Pleurobema georgianum), and fine-lined pocketbook (Lampsilis altilis)

* * * * *

(2) * * * The maps provided are for informational purposes only.

* * * * *

Five Tennessee and Cumberland River Basin Mussels Species: Purple bean (Villosa perpurpurea), Cumberlandian combshell (Epioblasma brevidens), Cumberland elktoe (Alasmidonta atropurpurea), oyster mussel (Epioblasma capsaeformis), and rough rabbitsfoot (Quadrula cylindrica strigillata)

* * * * *

(2) * * * The maps provided are for informational purposes only.

* * * * *

Tumbling Creek Cavesnail (Antrobia culveri)

(1) * * * The map provided is for informational purposes only.

* * * * *

Morro Shoulderband Snail (Helminthoglypta walkeriana)

1. * * * The map provided is for informational purposes only.

* * * * *

Newcomb's Snail (Erinna newcombi)

(1) * * * The maps provided are for informational purposes only.

* * * * *

San Bernardino Springsnail (Pyrgulopsis bernardina)

* * * * *

(5) Map of critical habitat units for the San Bernardino springsnail follows:

* * * * *

Three Forks Springsnail (Pyrgulopsis trivialis)

* * * * *

(2) Within these areas, the primary constituent elements of the physical or biological features essential to the conservation of the Three Forks springsnail consist of four components:

* * * * *

(5) Map of critical habitat units for the Three Forks springsnail follows:

* * * * *

(g) Arachnids.

* * * * *

Kauai Cave Wolf Spider (Adelocosa anops)

(1) * * * The maps provided are for informational purposes only.

* * * * *

Spruce-Fir Moss Spider (Microhexura montivaga)

1. * * * The maps provided are for informational purposes only.

* * * * *

(h) Crustaceans.

* * * * *

Kauai Cave Amphipod (Spelaeorchestia koloana)

(1) * * * The maps provided are for informational purposes only.

* * * * *

Vernal Pool Fairy Shrimp (Branchinecta lynchi)

* * * * *

(4) Unit 1: Jackson County, Oregon. Map of Unit 1 is provided at paragraph (7)(ii) of this entry.

(5) Unit 2: Jackson County, Oregon. Map of Unit 2 is provided at paragraph (7)(ii) of this entry.

(6) Unit 3: Jackson County, Oregon. Map of Unit 3 is provided at paragraph (7)(ii) of this entry.

* * * * *

(8) Unit 5: Shasta County, California. Map of Unit 5 is provided at paragraph (13) of this entry.

(9) Unit 6: Tehama County, California. Map of Unit 6 is provided at paragraph (13) of this entry.

(10) Unit 7: Tehama County, California. Map of Unit 7 is provided at paragraph (13) of this entry.

(11) Unit 8: Tehama and Glenn Counties, California. Map of Unit 8 is provided at paragraph (13) of this entry.

(12) Unit 9: Butte County, California. Map of Unit 9 is provided at paragraph (13) of this entry.

* * * * *

(15) Unit 11: Yuba County, California. Map of Unit 11 is provided at paragraph (16)(ii) of this entry.

* * * * *

(17) Unit 13: Sacramento County, California. Map of Unit 13 is provided at paragraph (18)(ii) of this entry.

* * * * *

(19) Unit 16: Solano County, California. Map of Unit 16 is provided at paragraph (21) of this entry.

(20) Unit 17: Napa County, California. Map of Unit 17 is provided at paragraph (21) of this entry.

* * * * *

(22) Unit 18: San Joaquin County, California. Map of Unit 18 is provided at paragraph (25) of this entry.

(23) Unit 19: Contra Costa County, California. Map of Unit 19 is provided at paragraph (25) of this entry.

(24) Unit 20: Stanislaus County, California. Map of Unit 20 is provided at paragraph (25) of this entry.

* * * * *

(26) Unit 21: Stanislaus County, California. Map of Unit 21 is provided at paragraph (28) of this entry.

(27) Unit 22: Merced County, California. Map of Unit 22 is provided at paragraph (28) of this entry.

* * * * *

(30) Unit 24: Madera County, California. Map of Unit 24 is provided at paragraph (32) of this entry.

(31) Unit 25: Madera County, California. Map of Unit 25 is provided at paragraph (32) of this entry.

* * * * *

(35) Unit 28: San Benito and Monterey Counties, California. Map of Unit 28 is provided at paragraph (36) of this entry.

* * * * *

(38) Unit 30: San Luis Obispo County, California. Map of Unit 30 is provided at paragraph (39) of this entry.

* * * * *

(40) Unit 31: Santa Barbara County, California. Map of Unit 31 is provided at paragraph (41) of this entry.

* * * * *

(42) Unit 32: Ventura County, California. Map of Unit 32 is provided at paragraph (43) of this entry.

* * * * *

Kentucky Cave Shrimp (Palaemonias ganteri)

* * * * *

Note: The map provided is for informational purposes only. Map follows:

* * * * *

Vernal Pool Tadpole Shrimp (Lepidurus packardi)

* * * * *

(4) Unit 1: Shasta County, California. Map of Unit 1 is provided at paragraph (5)(ii) of this entry.

* * * * *

(8) Unit 6: Colusa County, California. Map of Unit 6 is provided at paragraph (10) of this entry.

(9) Unit 7: Yuba County, California. Map of Unit 7 is provided at paragraph (10) of this entry.

* * * * *

(11) Unit 8: Sacramento County, California. Map of Unit 8 is provided at paragraph (12)(ii) of this entry.

* * * * *

(13) Unit 10: Yolo County, California. Map of Unit 10 is provided at paragraph (14)(ii) of this entry.

* * * * *

(17) Unit 15: Merced, Madera, and Mariposa Counties, California. Unit 15 excludes land bounded by the following UTM Zone 10, NAD 83 coordinates (E,N): 757175, 4117475; 757117, 4117435; 757138, 4117438; 757146, 4117439; 757245, 4117516; 757255, 4117530; returning to 757175, 4117475. Map of Unit 15 is provided at paragraph (18) of this entry.

* * * * *

(20) Unit 17: Fresno County, California. Map of Unit 17 is provided at paragraph (21) of this entry.

* * * * *

(i) Insects.

* * * * *

Delta Green Ground Beetle (Elaphrus viridis)

* * * * *

Note: The map provided is for informational purposes only. Map follows:

* * * * *

Salt Creek Tiger Beetle (Cicindela nevadica lincolniana)

(1) Critical habitat units are depicted for Lancaster and Saunders Counties, Nebraska, on the map below.

* * * * *

Valley Elderberry Longhorn Beetle (Desmocerus californicus dimorphus) California, Sacramento County

(1) * * *

Note: The map provided is for informational purposes only. Map follows:

* * * * *

(2) * * *

Note: The map provided is for informational purposes only. Map follows:

* * * * *

Oregon Silverspot Butterfly (Speyeria zerene hippolyta)

* * * * *

Note: The map provided is for informational purposes only. Map follows:

* * * * *

Palos Verdes Blue Butterfly (Glaucopsyche lygdamus palosverdesensis)

* * * The maps provided are for informational purposes only.

* * * * *

Quino Checkerspot Butterfly (Euphydryas editha quino)

* * * * *

(6) * * *

(i) From USGS 1:24,000 quadrangles Murrieta, Bachelor Mountain, Winchester, Sage, and Hemet. Unit 2 excludes land bounded by the following Universal Transverse Mercator (UTM) North American Datum of 1983 (NAD83) coordinates (E, N): 499546, 3716748; 499545, 3716748; 499545, 3716748; 499545, 3716748; 499545, 3716748; 499545, 3716748; 499545, 3716748; 499545, 3716748; 499544, 3716748; 499544, 3716748; 499544, 3716748; 499544, 3716748; 499544, 3716748; 499544, 3716748; 499543, 3716748; 499543, 3716748; 499543, 3716748; 499543, 3716748; 499543, 3716748; 499543, 3716748; 499543, 3716748; 499542, 3716748; 499542, 3716748; 499542, 3716748; 499542, 3716748; 499542, 3716748; 499542, 3716748; 499542, 3716748; 499541, 3716748; 499541, 3716748; 499541, 3716748; 499541, 3716748; 499541, 3716748; 499541, 3716748; 499540, 3716748; 499540, 3716748; 499540, 3716748; 499540, 3716748; 499540, 3716748; 499540, 3716748; 499540, 3716748; 499539, 3716748; 499539, 3716748; 499539, 3716748; 499539, 3716749; 499539, 3716749; 499539, 3716749; 499538, 3716749; 499538, 3716749; 499538, 3716749; 499538, 3716749; 499538, 3716749; 499538, 3716749; 499538, 3716749; 499537, 3716749; 499537, 3716749; 499537, 3716749; 499537, 3716749; 499537, 3716749; 499537, 3716749; 499537, 3716749; 499536, 3716749; 499536, 3716749; 499536, 3716749; 499536, 3716749; 499536, 3716749; 499536, 3716749; 499535, 3716749; 499535, 3716749; 499535, 3716749; 499535, 3716749; 499535, 3716749; 499535, 3716749; 499535, 3716749; 499534, 3716749; 499534, 3716749; 499534, 3716750; 499534, 3716750; 499534, 3716750; 499534, 3716750; 499534, 3716750; 499533, 3716750; 499533, 3716750; 499533, 3716750; 499533, 3716750; 499533, 3716750; 499533, 3716750; 499533, 3716750; 499532, 3716750; 499532, 3716750; 499532, 3716750; 499532, 3716750; 499532, 3716750; 499532, 3716750; 499532, 3716750; 499531, 3716750; 499531, 3716750; 499531, 3716750; 499531, 3716750; 499531, 3716751; 499531, 3716751; 499531, 3716751; 499530, 3716751; 499530, 3716751; 499530, 3716751; 499530, 3716751; 499530, 3716751; 499530, 3716751; 499530, 3716751; 499529, 3716751; 499529, 3716751; 499529, 3716751; 499529, 3716751; 499529, 3716751; 499529, 3716751; 499529, 3716751; 499528, 3716751; 499528, 3716751; 499528, 3716752; 499528, 3716752; 499528, 3716752; 499528, 3716752; 499528, 3716752; 499527, 3716752; 499527, 3716752; 499527, 3716752; 499527, 3716752; 499527, 3716752; 499527, 3716752; 499527, 3716752; 499526, 3716752; 499526, 3716752; 499526, 3716752; 499526, 3716752; 499526, 3716753; 499526, 3716753; 499526, 3716753; 499525, 3716753; 499525, 3716753; 499525, 3716753; 499525, 3716753; 499525, 3716753; 499525, 3716753; 499525, 3716753; 499525, 3716753; 499524, 3716753; 499524, 3716753; 499524, 3716753; 499524, 3716754; 499524, 3716754; 499524, 3716754; 499524, 3716754; 499523, 3716754; 499523, 3716754; 499523, 3716754; 499523, 3716754; 499523, 3716754; 499523, 3716754; 499523, 3716754; 499523, 3716754; 499522, 3716754; 499522, 3716755; 499522, 3716755; 499522, 3716755; 499522, 3716755; 499522, 3716755; 499522, 3716755; 499521, 3716755; 499521, 3716755; 499521, 3716755; 499521, 3716755; 499521, 3716755; 499521, 3716755; 499521, 3716755; 499521, 3716756; 499520, 3716756; 499520, 3716756; 499520, 3716756; 499520, 3716756; 499520, 3716756; 499520, 3716756; 499520, 3716756; 499520, 3716756; 499519, 3716756; 499519, 3716756; 499519, 3716757; 499519, 3716757; 499519, 3716757; 499519, 3716757; 499519, 3716757; 499519, 3716757; 499518, 3716757; 499518, 3716757; 499518, 3716757; 499518, 3716757; 499518, 3716757; 499518, 3716758; 499518, 3716758; 499518, 3716758; 499518, 3716758; 499517, 3716758; 499517, 3716758; 499517, 3716758; 499517, 3716758; 499517, 3716758; 499517, 3716758; 499517, 3716758; 499517, 3716759; 499516, 3716759; 499516, 3716759; 499516, 3716759; 499516, 3716759; 499516, 3716759; 499516, 3716759; 499516, 3716759; 499516, 3716759; 499516, 3716759; 499515, 3716760; 499515, 3716760; 499515, 3716760; 499515, 3716760; 499515, 3716760; 499515, 3716760; 499515, 3716760; 499515, 3716760; 499514, 3716760; 499514, 3716760; 499514, 3716761; 499514, 3716761; 499514, 3716761; 499514, 3716761; 499514, 3716761; 499514, 3716761; 499514, 3716761; 499514, 3716761; 499513, 3716761; 499513, 3716762; 499513, 3716762; 499513, 3716762; 499513, 3716762; 499513, 3716762; 499513, 3716762; 499513, 3716762; 499513, 3716762; 499512, 3716762; 499512, 3716763; 499512, 3716763; 499512, 3716763; 499512, 3716763; 499512, 3716763; 499512, 3716763; 499512, 3716763; 499512, 3716763; 499512, 3716763; 499511, 3716764; 499511, 3716764; 499511, 3716764; 499511, 3716764; 499511, 3716764; 499511, 3716764; 499511, 3716764; 499511, 3716764; 499511, 3716764; 499511, 3716765; 499511, 3716765; 499510, 3716765; 499508, 3716768; 499493, 3716786; 499493, 3716786; 499492, 3716787; 499492, 3716787; 499492, 3716787; 499492, 3716787; 499492, 3716787; 499492, 3716787; 499492, 3716787; 499492, 3716787; 499492, 3716788; 499492, 3716788; 499491, 3716788; 499491, 3716788; 499491, 3716788; 499491, 3716788; 499491, 3716788; 499491, 3716788; 499491, 3716788; 499491, 3716789; 499491, 3716789; 499491, 3716789; 499491, 3716789; 499490, 3716789; 499490, 3716789; 499490, 3716789; 499490, 3716789; 499490, 3716790; 499490, 3716790; 499490, 3716790; 499490, 3716790; 499490, 3716790; 499490, 3716790; 499490, 3716790; 499489, 3716790; 499489, 3716791; 499489, 3716791; 499489, 3716791; 499489, 3716791; 499489, 3716791; 499489, 3716791; 499489, 3716791; 499489, 3716791; 499489, 3716792; 499489, 3716792; 499489, 3716792; 499489, 3716792; 499488, 3716792; 499488, 3716792; 499488, 3716792; 499488, 3716792; 499488, 3716792; 499488, 3716792; 499488, 3716793; 499488, 3716793; 499488, 3716793; 499488, 3716793; 499488, 3716793; 499488, 3716793; 499487, 3716793; 499487, 3716793; 499487, 3716794; 499487, 3716794; 499487, 3716794; 499487, 3716794; 499487, 3716794; 499487, 3716794; 499487, 3716794; 499487, 3716794; 499487, 3716795; 499487, 3716795; 499486, 3716795; 499486, 3716795; 499486, 3716795; 499486, 3716795; 499486, 3716795; 499486, 3716795; 499486, 3716796; 499486, 3716796; 499486, 3716796; 499486, 3716796; 499486, 3716796; 499486, 3716796; 499486, 3716796; 499485, 3716797; 499485, 3716797; 499485, 3716797; 499485, 3716797; 499485, 3716797; 499485, 3716797; 499485, 3716797; 499485, 3716797; 499485, 3716798; 499485, 3716798; 499485, 3716798; 499485, 3716798; 499485, 3716798; 499484, 3716798; 499484, 3716798; 499484, 3716799; 499484, 3716799; 499484, 3716799; 499484, 3716799; 499484, 3716799; 499484, 3716799; 499484, 3716799; 499484, 3716799; 499484, 3716800; 499484, 3716800; 499484, 3716800; 499484, 3716800; 499483, 3716800; 499483, 3716800; 499483, 3716800; 499483, 3716801; 499483, 3716801; 499483, 3716801; 499483, 3716801; 499483, 3716801; 499483, 3716801; 499483, 3716801; 499483, 3716801; 499483, 3716802; 499483, 3716802; 499483, 3716802; 499482, 3716802; 499482, 3716802; 499482, 3716802; 499482, 3716802; 499482, 3716803; 499482, 3716803; 499477, 3716812; 499477, 3716813; 499453, 3716862; 499453, 3716862; 499453, 3716862; 499444, 3716871; 499353, 3716944; 499347, 3716948; 499248, 3717028; 499067, 3716918; 498635, 3716657; 498635, 3716657; 498634, 3716602; 498629, 3716418; 498795, 3716421; 499116, 3716425; 499299, 3716427; 499334, 3716428; 499415, 3716429; 499415, 3716429; 499806, 3716412; 499810, 3716412; 499814, 3716412; 499816, 3716856; 499816, 3716856; 499809, 3716855; 499684, 3716831; 499675, 3716825; 499659, 3716812; 499602, 3716769; 499564, 3716752; 499564, 3716752; 499564, 3716752; 499564, 3716752; 499564, 3716752; 499564, 3716752; 499564, 3716752; 499563, 3716752; 499563, 3716751; 499563, 3716751; 499563, 3716751; 499563, 3716751; 499563, 3716751; 499563, 3716751; 499562, 3716751; 499562, 3716751; 499562, 3716751; 499562, 3716751; 499562, 3716751; 499562, 3716751; 499562, 3716751; 499561, 3716751; 499561, 3716751; 499561, 3716751; 499561, 3716751; 499561, 3716751; 499561, 3716751; 499561, 3716750; 499560, 3716750; 499560, 3716750; 499560, 3716750; 499560, 3716750; 499560, 3716750; 499560, 3716750; 499560, 3716750; 499559, 3716750; 499559, 3716750; 499559, 3716750; 499559, 3716750; 499559, 3716750; 499559, 3716750; 499559, 3716750; 499558, 3716750; 499558, 3716750; 499558, 3716750; 499558, 3716750; 499558, 3716750; 499558, 3716750; 499558, 3716750; 499557, 3716749; 499557, 3716749; 499557, 3716749; 499557, 3716749; 499557, 3716749; 499557, 3716749; 499556, 3716749; 499556, 3716749; 499556, 3716749; 499556, 3716749; 499556, 3716749; 499556, 3716749; 499556, 3716749; 499555, 3716749; 499555, 3716749; 499555, 3716749; 499555, 3716749; 499555, 3716749; 499555, 3716749; 499555, 3716749; 499554, 3716749; 499554, 3716749; 499554, 3716749; 499554, 3716749; 499554, 3716749; 499554, 3716749; 499554, 3716749; 499553, 3716749; 499553, 3716749; 499553, 3716749; 499553, 3716749; 499553, 3716749; 499553, 3716749; 499552, 3716748; 499552, 3716748; 499552, 3716748; 499552, 3716748; 499552, 3716748; 499552, 3716748; 499552, 3716748; 499551, 3716748; 499551, 3716748; 499551, 3716748; 499551, 3716748; 499551, 3716748; 499551, 3716748; 499550, 3716748; 499550, 3716748; 499550, 3716748; 499550, 3716748; 499550, 3716748; 499550, 3716748; 499550, 3716748; 499549, 3716748; 499549, 3716748; 499549, 3716748; 499549, 3716748; 499549, 3716748; 499549, 3716748; 499549, 3716748; 499548, 3716748; 499548, 3716748; 499548, 3716748; 499548, 3716748; 499548, 3716748; 499548, 3716748; 499547, 3716748; 499547, 3716748; 499547, 3716748; 499547, 3716748; 499547, 3716748; 499547, 3716748; 499547, 3716748.

* * * * *

(11) * * *

(i) From USGS 1:24,000 quadrangles Anza, Butterfly Peak, Blackburn Canyon, and Idyllwild. Unit 7 excludes land bounded by the following Universal Transverse Mercator (UTM) North American Datum of 1983 (NAD83) coordinates (E, N):

(A) 525336, 3717346; 525538, 3717338; 525526, 3717651; 525245, 3717656; 525259, 3717478; 525275, 3717451; and

(B) 525483, 3717132; 525482, 3717132; 525478, 3717134; 525478, 3717134; 525473, 3717137; 525473, 3717137; 525468, 3717139; 525468, 3717139; 525463, 3717142; 525463, 3717142; 525459, 3717145; 525458, 3717145; 525454, 3717148; 525454, 3717148; 525449, 3717151; 525449, 3717151; 525445, 3717154; 525445, 3717154; 525440, 3717157; 525440, 3717157; 525436, 3717160; 525436, 3717160; 525431, 3717164; 525431, 3717164; 525427, 3717167; 525427, 3717167; 525423, 3717170; 525423, 3717171; 525419, 3717174; 525418, 3717174; 525414, 3717178; 525414, 3717178; 525410, 3717181; 525410, 3717181; 525406, 3717185; 525406, 3717185; 525402, 3717189; 525402, 3717189; 525398, 3717193; 525398, 3717193; 525395, 3717197; 525394, 3717197; 525391, 3717201; 525391, 3717201; 525387, 3717205; 525387, 3717205; 525384, 3717209; 525383, 3717209; 525380, 3717213; 525380, 3717213; 525377, 3717217; 525376, 3717218; 525373, 3717222; 525373, 3717222; 525370, 3717226; 525370, 3717226; 525367, 3717231; 525366, 3717231; 525363, 3717235; 525363, 3717235; 525360, 3717240; 525360, 3717240; 525357, 3717244; 525357, 3717244; 525354, 3717249; 525354, 3717249; 525351, 3717254; 525255, 3717419; 525269, 3717240; 525299, 3716874; 525328, 3716873; 525366, 3716908; 525367, 3716909; 525367, 3716909; 525368, 3716910; 525368, 3716910; 525369, 3716911; 525369, 3716911; 525370, 3716911; 525370, 3716912; 525371, 3716912; 525371, 3716913; 525372, 3716913; 525372, 3716914; 525372, 3716914; 525373, 3716914; 525373, 3716915; 525374, 3716915; 525374, 3716916; 525375, 3716916; 525375, 3716917; 525376, 3716917; 525376, 3716917; 525377, 3716918; 525377, 3716918; 525378, 3716919; 525378, 3716919; 525379, 3716919; 525379, 3716920; 525380, 3716920; 525380, 3716921; 525381, 3716921; 525381, 3716921; 525382, 3716922; 525382, 3716922; 525383, 3716923; 525383, 3716923; 525384, 3716923; 525384, 3716924; 525385, 3716924; 525385, 3716925; 525386, 3716925; 525386, 3716925; 525387, 3716926; 525387, 3716926; 525388, 3716927; 525388, 3716927; 525389, 3716927; 525389, 3716928; 525390, 3716928; 525390, 3716929; 525391, 3716929; 525392, 3716929; 525392, 3716930; 525393, 3716930; 525393, 3716930; 525394, 3716931; 525394, 3716931; 525395, 3716932; 525395, 3716932; 525396, 3716932; 525396, 3716933; 525397, 3716933; 525397, 3716933; 525398, 3716934; 525398, 3716934; 525399, 3716935; 525399, 3716935; 525400, 3716935; 525400, 3716936; 525401, 3716936; 525402, 3716936; 525402, 3716937; 525403, 3716937; 525403, 3716937; 525404, 3716938; 525404, 3716938; 525405, 3716938; 525405, 3716939; 525406, 3716939; 525406, 3716939; 525407, 3716940; 525408, 3716940; 525408, 3716940; 525409, 3716941; 525409, 3716941; 525410, 3716941; 525410, 3716942; 525411, 3716942; 525411, 3716942; 525412, 3716943; 525412, 3716943; 525413, 3716943; 525414, 3716944; 525414, 3716944; 525415, 3716944; 525415, 3716945; 525416, 3716945; 525416, 3716945; 525417, 3716946; 525418, 3716946; 525418, 3716946; 525419, 3716947; 525419, 3716947; 525420, 3716947; 525420, 3716948; 525421, 3716948; 525421, 3716948; 525422, 3716948; 525423, 3716949; 525423, 3716949; 525424, 3716949; 525424, 3716950; 525425, 3716950; 525425, 3716950; 525426, 3716950; 525427, 3716951; 525427, 3716951; 525428, 3716951; 525428, 3716952; 525429, 3716952; 525430, 3716952; 525430, 3716952; 525431, 3716953; 525431, 3716953; 525432, 3716953; 525432, 3716954; 525433, 3716954; 525434, 3716954; 525434, 3716954; 525435, 3716955; 525435, 3716955; 525436, 3716955; 525436, 3716955; 525437, 3716956; 525438, 3716956; 525438, 3716956; 525439, 3716957; 525439, 3716957; 525440, 3716957; 525441, 3716957; 525441, 3716958; 525442, 3716958; 525442, 3716958; 525443, 3716958; 525444, 3716959; 525444, 3716959; 525445, 3716959; 525445, 3716959; 525446, 3716960; 525447, 3716960; 525447, 3716960; 525448, 3716960; 525448, 3716960; 525449, 3716961; 525449, 3716961; 525450, 3716961; 525450, 3716961; 525451, 3716961; 525451, 3716962; 525452, 3716962; 525452, 3716962; 525453, 3716962; 525453, 3716962; 525454, 3716963; 525455, 3716963; 525455, 3716963; 525456, 3716963; 525456, 3716963; 525457, 3716964; 525457, 3716964; 525458, 3716964; 525458, 3716964; 525459, 3716965; 525459, 3716965; 525460, 3716965; 525460, 3716965; 525461, 3716965; 525461, 3716966; 525462, 3716966; 525462, 3716966; 525463, 3716966; 525463, 3716967; 525464, 3716967; 525464, 3716967; 525465, 3716967; 525466, 3716968; 525466, 3716968; 525467, 3716968; 525467, 3716968; 525468, 3716969; 525468, 3716969; 525469, 3716969; 525469, 3716969; 525470, 3716970; 525470, 3716970; 525471, 3716970; 525471, 3716970; 525472, 3716971; 525472, 3716971; 525473, 3716971; 525473, 3716971; 525474, 3716972; 525474, 3716972; 525475, 3716972; 525475, 3716972; 525476, 3716973; 525476, 3716973; 525477, 3716973; 525477, 3716974; 525478, 3716974; 525478, 3716974; 525479, 3716974; 525479, 3716975; 525480, 3716975; 525480, 3716975; 525481, 3716976; 525481, 3716976; 525482, 3716976; 525482, 3716976; 525483, 3716977; 525483, 3716977; 525484, 3716977; 525484, 3716978; 525485, 3716978; 525485, 3716978; 525486, 3716979; 525486, 3716979; 525487, 3716979; 525487, 3716979; 525487, 3716980; 525488, 3716980; 525488, 3716980; 525489, 3716981; 525489, 3716981; 525490, 3716981; 525490, 3716982; 525491, 3716982; 525491, 3716982; 525492, 3716983; 525492, 3716983; 525493, 3716983; 525493, 3716984; 525494, 3716984; 525494, 3716984; 525495, 3716984; 525495, 3716985; 525496, 3716985; 525496, 3716985; 525496, 3716986; 525497, 3716986; 525497, 3716986; 525498, 3716987; 525498, 3716987; 525499, 3716987; 525499, 3716988; 525500, 3716988; 525500, 3716989; 525501, 3716989; 525501, 3716989; 525502, 3716990; 525502, 3716990; 525502, 3716990; 525503, 3716991; 525503, 3716991; 525504, 3716991; 525504, 3716992; 525505, 3716992; 525505, 3716992; 525506, 3716993; 525506, 3716993; 525506, 3716993; 525507, 3716994; 525507, 3716994; 525508, 3716995; 525508, 3716995; 525509, 3716995; 525509, 3716996; 525510, 3716996; 525510, 3716996; 525510, 3716997; 525511, 3716997; 525511, 3716997; 525512, 3716998; 525512, 3716998; 525513, 3716999; 525513, 3716999; 525513, 3716999; 525514, 3717000; 525514, 3717000; 525515, 3717001; 525515, 3717001; 525516, 3717001; 525516, 3717002; 525516, 3717002; 525517, 3717002; 525517, 3717003; 525518, 3717003; 525518, 3717004; 525518, 3717004; 525519, 3717004; 525519, 3717005; 525520, 3717005; 525520, 3717006; 525520, 3717006; 525521, 3717006; 525521, 3717007; 525522, 3717007; 525522, 3717008; 525522, 3717008; 525523, 3717008; 525523, 3717009; 525524, 3717009; 525524, 3717010; 525524, 3717010; 525525, 3717011; 525525, 3717011; 525526, 3717011; 525526, 3717012; 525526, 3717012; 525527, 3717013; 525527, 3717013; 525528, 3717013; 525528, 3717014; 525528, 3717014; 525529, 3717015; 525529, 3717015; 525530, 3717016; 525530, 3717016; 525530, 3717016; 525531, 3717017; 525531, 3717017; 525531, 3717018; 525532, 3717018; 525532, 3717019; 525533, 3717019; 525533, 3717019; 525533, 3717020; 525534, 3717020; 525534, 3717021; 525534, 3717021; 525535, 3717022; 525535, 3717022; 525535, 3717023; 525536, 3717023; 525536, 3717023; 525536, 3717024; 525537, 3717024; 525537, 3717025; 525538, 3717025; 525538, 3717026; 525538, 3717026; 525539, 3717027; 525539, 3717027; 525539, 3717027; 525540, 3717028; 525540, 3717028; 525540, 3717029; 525541, 3717029; 525541, 3717030; 525541, 3717030; 525542, 3717031; 525542, 3717031; 525542, 3717032; 525543, 3717032; 525543, 3717033; 525543, 3717033; 525544, 3717033; 525544, 3717034; 525544, 3717034; 525545, 3717035; 525545, 3717035; 525545, 3717036; 525546, 3717036; 525546, 3717037; 525546, 3717037; 525547, 3717038; 525547, 3717038; 525547, 3717039; 525548, 3717039; 525548, 3717040; 525548, 3717040; 525548, 3717041; 525549, 3717041; 525549, 3717042; 525549, 3717042; 525550, 3717043; 525550, 3717043; 525550, 3717043; 525551, 3717044; 525551, 3717044; 525551, 3717045; 525551, 3717045; 525552, 3717046; 525552, 3717046; 525552, 3717047; 525553, 3717047; 525553, 3717048; 525553, 3717048; 525553, 3717049; 525554, 3717049; 525554, 3717050; 525554, 3717050; 525555, 3717051; 525555, 3717051; 525555, 3717052; 525555, 3717052; 525556, 3717053; 525556, 3717053; 525556, 3717054; 525557, 3717054; 525557, 3717055; 525557, 3717055; 525557, 3717056; 525558, 3717056; 525558, 3717057; 525558, 3717057; 525558, 3717058; 525559, 3717058; 525559, 3717059; 525559, 3717059; 525559, 3717060; 525560, 3717060; 525560, 3717061; 525560, 3717061; 525560, 3717062; 525561, 3717063; 525561, 3717063; 525561, 3717064; 525561, 3717064; 525562, 3717065; 525562, 3717065; 525562, 3717066; 525562, 3717066; 525563, 3717067; 525563, 3717067; 525563, 3717068; 525563, 3717068; 525564, 3717069; 525564, 3717069; 525564, 3717070; 525564, 3717070; 525564, 3717071; 525565, 3717071; 525565, 3717072; 525565, 3717072; 525565, 3717073; 525565, 3717074; 525566, 3717074; 525566, 3717075; 525566, 3717075; 525566, 3717076; 525567, 3717076; 525567, 3717077; 525567, 3717077; 525567, 3717078; 525567, 3717078; 525568, 3717079; 525568, 3717079; 525568, 3717080; 525568, 3717080; 525568, 3717081; 525569, 3717082; 525569, 3717082; 525570, 3717091; 525560, 3717105; 525560, 3717105; 525555, 3717106; 525555, 3717106; 525550, 3717107; 525550, 3717107; 525544, 3717109; 525544, 3717109; 525539, 3717110; 525539, 3717110; 525534, 3717111; 525534, 3717111; 525529, 3717113; 525528, 3717113; 525523, 3717115; 525523, 3717115; 525518, 3717117; 525518, 3717117; 525513, 3717118; 525513, 3717118; 525508, 3717120; 525508, 3717120; 525503, 3717122; 525503, 3717123; 525498, 3717125; 525497, 3717125; 525493, 3717127; 525492, 3717127; 525488, 3717129; 525487, 3717129; and

(C) 525380, 3716871; 525388, 3716870; 525389, 3716878; 525375, 3716878; 525372, 3716871; and

(D) 525434, 3716924; 525433, 3716924; 525433, 3716924; 525432, 3716923; 525432, 3716923; 525431, 3716923; 525431, 3716923; 525430, 3716922; 525430, 3716922; 525429, 3716922; 525429, 3716921; 525428, 3716921; 525428, 3716921; 525427, 3716921; 525427, 3716920; 525426, 3716920; 525426, 3716920; 525425, 3716919; 525425, 3716919; 525424, 3716919; 525424, 3716918; 525423, 3716918; 525423, 3716918; 525422, 3716918; 525422, 3716917; 525421, 3716917; 525421, 3716917; 525420, 3716916; 525420, 3716916; 525419, 3716916; 525419, 3716915; 525418, 3716915; 525418, 3716915; 525417, 3716915; 525417, 3716914; 525416, 3716914; 525416, 3716914; 525415, 3716913; 525415, 3716913; 525414, 3716913; 525414, 3716912; 525413, 3716912; 525413, 3716912; 525412, 3716911; 525412, 3716911; 525412, 3716911; 525411, 3716910; 525411, 3716910; 525410, 3716910; 525410, 3716909; 525409, 3716909; 525409, 3716909; 525408, 3716908; 525408, 3716908; 525407, 3716908; 525407, 3716907; 525406, 3716907; 525406, 3716907; 525405, 3716906; 525405, 3716906; 525405, 3716906; 525404, 3716905; 525404, 3716905; 525403, 3716905; 525403, 3716904; 525402, 3716904; 525402, 3716904; 525402, 3716885; 525419, 3716876; 525435, 3716876; 525471, 3716881; 525472, 3716881; 525473, 3716881; 525473, 3716881; 525474, 3716881; 525474, 3716881; 525475, 3716881; 525476, 3716880; 525476, 3716880; 525477, 3716880; 525477, 3716880; 525478, 3716879; 525478, 3716879; 525479, 3716879; 525479, 3716879; 525480, 3716878; 525480, 3716878; 525481, 3716877; 525481, 3716877; 525482, 3716877; 525482, 3716876; 525483, 3716876; 525483, 3716875; 525483, 3716875; 525484, 3716874; 525484, 3716874; 525485, 3716873; 525485, 3716873; 525485, 3716872; 525486, 3716872; 525486, 3716871; 525486, 3716871; 525486, 3716870; 525487, 3716870; 525487, 3716869; 525487, 3716868; 525487, 3716868; 525487, 3716867; 525487, 3716867; 525715, 3716858; 526066, 3716845; 526065, 3716845; 526061, 3716847; 526061, 3716847; 526057, 3716849; 526057, 3716849; 526052, 3716850; 526052, 3716850; 526048, 3716852; 526048, 3716852; 526044, 3716854; 526044, 3716854; 526039, 3716856; 526039, 3716856; 526035, 3716858; 526035, 3716858; 526031, 3716860; 526031, 3716860; 526027, 3716862; 526027, 3716863; 526023, 3716865; 526022, 3716865; 526019, 3716867; 526018, 3716867; 526014, 3716869; 526014, 3716870; 526010, 3716872; 526010, 3716872; 526007, 3716875; 526006, 3716875; 526003, 3716877; 526002, 3716877; 525999, 3716880; 525999, 3716880; 525995, 3716883; 525995, 3716883; 525991, 3716885; 525991, 3716886; 525987, 3716888; 525987, 3716888; 525984, 3716891; 525984, 3716891; 525980, 3716894; 525980, 3716894; 525977, 3716897; 525976, 3716897; 525973, 3716901; 525973, 3716901; 525970, 3716904; 525969, 3716904; 525966, 3716907; 525966, 3716907; 525963, 3716910; 525963, 3716910; 525960, 3716914; 525959, 3716914; 525956, 3716917; 525956, 3716917; 525953, 3716921; 525953, 3716921; 525950, 3716924; 525950, 3716924; 525947, 3716928; 525947, 3716928; 525944, 3716931; 525944, 3716932; 525941, 3716935; 525941, 3716935; 525938, 3716939; 525938, 3716939; 525935, 3716943; 525935, 3716943; 525933, 3716947; 525933, 3716947; 525930, 3716951; 525930, 3716951; 525927, 3716954; 525927, 3716955; 525925, 3716958; 525925, 3716959; 525923, 3716962; 525922, 3716963; 525920, 3716967; 525920, 3716967; 525918, 3716971; 525918, 3716971; 525916, 3716975; 525916, 3716975; 525914, 3716978; 525912, 3716981; 525909, 3716985; 525906, 3716989; 525902, 3716992; 525899, 3716996; 525896, 3716999; 525892, 3717003; 525889, 3717006; 525886, 3717010; 525882, 3717013; 525878, 3717016; 525875, 3717019; 525871, 3717023; 525867, 3717026; 525863, 3717029; 525860, 3717031; 525856, 3717034; 525852, 3717037; 525848, 3717040; 525844, 3717042; 525840, 3717045; 525835, 3717047; 525831, 3717050; 525827, 3717052; 525823, 3717055; 525818, 3717057; 525814, 3717059; 525810, 3717061; 525805, 3717063; 525801, 3717065; 525796, 3717067; 525792, 3717068; 525787, 3717070; 525783, 3717072; 525778, 3717073; 525773, 3717074; 525769, 3717076; 525764, 3717077; 525759, 3717078; 525755, 3717079; 525750, 3717080; 525745, 3717081; 525740, 3717082; 525736, 3717083; 525731, 3717083; 525724, 3717084; 525612, 3717098; 525596, 3717085; 525595, 3717076; 525595, 3717075; 525594, 3717074; 525594, 3717073; 525594, 3717073; 525594, 3717072; 525593, 3717071; 525593, 3717071; 525593, 3717070; 525593, 3717069; 525592, 3717069; 525592, 3717068; 525592, 3717068; 525592, 3717067; 525592, 3717066; 525591, 3717066; 525591, 3717065; 525591, 3717065; 525591, 3717064; 525590, 3717063; 525590, 3717063; 525590, 3717062; 525590, 3717062; 525589, 3717061; 525589, 3717060; 525589, 3717060; 525589, 3717059; 525588, 3717059; 525588, 3717058; 525588, 3717057; 525588, 3717057; 525587, 3717056; 525587, 3717056; 525587, 3717055; 525587, 3717055; 525586, 3717054; 525586, 3717053; 525586, 3717053; 525585, 3717052; 525585, 3717052; 525585, 3717051; 525585, 3717050; 525584, 3717050; 525584, 3717049; 525584, 3717049; 525583, 3717048; 525583, 3717047; 525583, 3717047; 525583, 3717046; 525582, 3717046; 525582, 3717045; 525582, 3717045; 525581, 3717044; 525581, 3717043; 525581, 3717043; 525581, 3717042; 525580, 3717042; 525580, 3717041; 525580, 3717041; 525579, 3717040; 525579, 3717039; 525579, 3717039; 525578, 3717038; 525578, 3717038; 525578, 3717037; 525577, 3717037; 525577, 3717036; 525577, 3717036; 525576, 3717035; 525576, 3717034; 525576, 3717034; 525575, 3717033; 525575, 3717033; 525575, 3717032; 525574, 3717032; 525574, 3717031; 525574, 3717031; 525573, 3717030; 525573, 3717029; 525573, 3717029; 525572, 3717028; 525572, 3717028; 525572, 3717027; 525571, 3717027; 525571, 3717026; 525571, 3717026; 525570, 3717025; 525570, 3717024; 525570, 3717024; 525569, 3717023; 525569, 3717023; 525569, 3717022; 525568, 3717022; 525568, 3717021; 525567, 3717021; 525567, 3717020; 525567, 3717020; 525566, 3717019; 525566, 3717019; 525566, 3717018; 525565, 3717018; 525565, 3717017; 525564, 3717016; 525564, 3717016; 525564, 3717015; 525563, 3717015; 525563, 3717014; 525563, 3717014; 525562, 3717013; 525562, 3717013; 525561, 3717012; 525561, 3717012; 525561, 3717011; 525560, 3717011; 525560, 3717010; 525559, 3717010; 525559, 3717009; 525559, 3717009; 525558, 3717008; 525558, 3717008; 525557, 3717007; 525557, 3717007; 525557, 3717006; 525556, 3717006; 525556, 3717005; 525555, 3717005; 525555, 3717004; 525555, 3717004; 525554, 3717003; 525554, 3717003; 525553, 3717002; 525553, 3717002; 525553, 3717001; 525552, 3717001; 525552, 3717000; 525551, 3717000; 525551, 3716999; 525550, 3716999; 525550, 3716998; 525550, 3716998; 525549, 3716997; 525549, 3716997; 525548, 3716996; 525548, 3716996; 525547, 3716995; 525547, 3716995; 525547, 3716994; 525546, 3716994; 525546, 3716993; 525545, 3716993; 525545, 3716992; 525544, 3716992; 525544, 3716992; 525543, 3716991; 525543, 3716991; 525542, 3716990; 525542, 3716990; 525542, 3716989; 525541, 3716989; 525541, 3716988; 525540, 3716988; 525540, 3716987; 525539, 3716987; 525539, 3716986; 525538, 3716986; 525538, 3716986; 525537, 3716985; 525537, 3716985; 525537, 3716984; 525536, 3716984; 525536, 3716983; 525535, 3716983; 525535, 3716982; 525534, 3716982; 525534, 3716982; 525533, 3716981; 525533, 3716981; 525532, 3716980; 525532, 3716980; 525531, 3716979; 525531, 3716979; 525530, 3716979; 525530, 3716978; 525529, 3716978; 525529, 3716977; 525528, 3716977; 525528, 3716976; 525527, 3716976; 525527, 3716976; 525526, 3716975; 525526, 3716975; 525525, 3716974; 525525, 3716974; 525524, 3716974; 525524, 3716973; 525523, 3716973; 525523, 3716972; 525522, 3716972; 525522, 3716971; 525521, 3716971; 525521, 3716971; 525520, 3716970; 525520, 3716970; 525519, 3716969; 525519, 3716969; 525518, 3716969; 525518, 3716968; 525517, 3716968; 525517, 3716967; 525516, 3716967; 525516, 3716967; 525515, 3716966; 525515, 3716966; 525514, 3716966; 525514, 3716965; 525513, 3716965; 525513, 3716964; 525512, 3716964; 525512, 3716964; 525511, 3716963; 525510, 3716963; 525510, 3716963; 525509, 3716962; 525509, 3716962; 525508, 3716961; 525508, 3716961; 525507, 3716961; 525507, 3716960; 525506, 3716960; 525506, 3716960; 525505, 3716959; 525505, 3716959; 525504, 3716959; 525504, 3716958; 525503, 3716958; 525502, 3716957; 525502, 3716957; 525501, 3716957; 525501, 3716956; 525500, 3716956; 525500, 3716956; 525499, 3716955; 525499, 3716955; 525498, 3716955; 525498, 3716954; 525497, 3716954; 525496, 3716954; 525496, 3716953; 525495, 3716953; 525495, 3716953; 525494, 3716952; 525494, 3716952; 525493, 3716952; 525492, 3716951; 525492, 3716951; 525491, 3716951; 525491, 3716950; 525490, 3716950; 525490, 3716950; 525489, 3716950; 525489, 3716949; 525488, 3716949; 525487, 3716949; 525487, 3716948; 525486, 3716948; 525486, 3716948; 525485, 3716947; 525485, 3716947; 525484, 3716947; 525483, 3716946; 525483, 3716946; 525482, 3716946; 525482, 3716946; 525481, 3716945; 525480, 3716945; 525480, 3716945; 525479, 3716944; 525479, 3716944; 525478, 3716944; 525478, 3716944; 525477, 3716943; 525476, 3716943; 525476, 3716943; 525475, 3716943; 525475, 3716942; 525474, 3716942; 525473, 3716942; 525473, 3716941; 525472, 3716941; 525472, 3716941; 525471, 3716941; 525471, 3716940; 525470, 3716940; 525469, 3716940; 525469, 3716940; 525468, 3716939; 525468, 3716939; 525467, 3716939; 525466, 3716939; 525466, 3716938; 525465, 3716938; 525465, 3716938; 525464, 3716938; 525463, 3716937; 525463, 3716937; 525462, 3716937; 525462, 3716937; 525461, 3716936; 525460, 3716936; 525460, 3716936; 525459, 3716936; 525458, 3716936; 525458, 3716935; 525457, 3716935; 525457, 3716935; 525456, 3716935; 525456, 3716935; 525455, 3716934; 525455, 3716934; 525454, 3716934; 525454, 3716934; 525453, 3716934; 525453, 3716933; 525452, 3716933; 525452, 3716933; 525451, 3716933; 525451, 3716932; 525450, 3716932; 525450, 3716932; 525449, 3716932; 525449, 3716931; 525448, 3716931; 525448, 3716931; 525447, 3716931; 525446, 3716931; 525446, 3716930; 525445, 3716930; 525445, 3716930; 525444, 3716930; 525444, 3716929; 525443, 3716929; 525443, 3716929; 525442, 3716929; 525442, 3716928; 525441, 3716928; 525441, 3716928; 525440, 3716928; 525440, 3716927; 525439, 3716927; 525439, 3716927; 525438, 3716927; 525438, 3716926; 525437, 3716926; 525437, 3716926; 525436, 3716926; 525436, 3716925; 525435, 3716925; 525435, 3716925; and

(E) 526091, 3716237; 526123, 3716234; 526132, 3716233; 526136, 3716233; 526136, 3716292; 526136, 3716423; 526136, 3716548; 526166, 3716550; 526362, 3716559; 526366, 3716559; 526374, 3716741; 526380, 3716866; 526386, 3716992; 526278, 3716986; 526183, 3717080; 526131, 3717037; 526131, 3717037; 526125, 3717031; 526122, 3716959; 526119, 3716866; 526118, 3716843; 526104, 3716453; 525716, 3716463; 525596, 3716466; 525300, 3716473; 525291, 3716474; 525289, 3716474; 525223, 3716474; 525115, 3716474; 525115, 3716382; 525115, 3716378; 525076, 3716378; 525084, 3716279; 524986, 3716282; 524885, 3716286; 524875, 3716286; 524875, 3716101; 524875, 3716084; 524875, 3716082; 525714, 3716048; 525704, 3716201; 525927, 3716254; and

(F) 525777, 3717434; 526121, 3717419; 526120, 3717641; 525770, 3717647.

* * * * *

Hine's Emerald Dragonfly (Somatochlora hineana)

(1) * * * The maps provided are for informational purposes only.

* * * * *

Hawaiian Picture-Wing Fly (Drosophila aglaia)

(1) * * * The maps provided are for informational purposes only.

* * * * *

Hawaiian Picture-Wing Fly (Drosophila differens)

(1) * * * The map provided is for informational purposes only.

* * * * *

Hawaiian Picture-Wing Fly (Drosophila hemipeza)

(1) * * * The maps provided are for informational purposes only.

* * * * *

Hawaiian Picture-Wing Fly (Drosophila heteroneura)

(1) * * * The maps provided are for informational purposes only.

* * * * *

Hawaiian Picture-Wing Fly (Drosophila montgomeryi)

(1) * * * The maps provided are for informational purposes only.

* * * * *

Hawaiian Picture-Wing Fly (Drosophila mulli)

(1) * * * The maps provided are for informational purposes only.

* * * * *

Hawaiian Picture-Wing Fly (Drosophila musaphilia)

(1) * * * The map provided is for informational purposes only.

* * * * *

Hawaiian Picture-Wing Fly (Drosophila neoclavisetae)

(1) * * * The map provided is for informational purposes only.

* * * * *

Hawaiian Picture-Wing Fly (Drosophila obatai)

(1) * * * The maps provided are for informational purposes only.

* * * * *

Hawaiian Picture-Wing Fly (Drosophila ochrobasis)

(1) * * * The maps provided are for informational purposes only.

* * * * *

Hawaiian Picture-Wing Fly (Drosophila sharpi)

(1) * * * The maps provided are for informational purposes only.

* * * * *

Hawaiian Picture-Wing Fly (Drosophila substenoptera)

(1) * * * The maps provided are for informational purposes only.

* * * * *

Hawaiian Picture-Wing Fly (Drosophila tarphytrichia)

(1) * * * The maps provided are for informational purposes only.

* * * * *

Zayante Band-Winged Grasshopper (Trimerotropis infantilis)

1. * * * The map provided is for informational purposes only.

* * * * *

Blackburn's Sphinx Moth (Manduca blackburni)

(1) * * * The maps provided are for informational purposes only.

* * * * *

Ash Meadows Naucorid (Ambrysus amargosus)

* * * * *

Note: The map provided is for informational purposes only. Map follows:

* * * * *

Laguna Mountains Skipper (Pyrgus ruralis lagunae)

(1) * * * The maps provided are for informational purposes only.

* * * * *

Dated: March 8, 2018.
James W. Kurth,
Deputy Director, U.S. Fish and Wildlife Service, Exercising the Authority of the Director, U.S. Fish and Wildlife Service.

[FR Doc. 2018-07606 Filed 4-26-18; 8:45 am]

BILLING CODE 4333-15-P